DEPARTMENT OF HOUSING AND URBAN DEVELOPMENT

[Docket No. FR-4980-N-07]

Federal Property Suitable as Facilities To Assist the Homeless

AGENCY: Office of the Assistant Secretary for Community Planning and Development, HUD.

ACTION: Notice.

SUMMARY: This notice identifies unutilized, underutilized, excess, and surplus Federal property reviewed by HUD for suitability for possible use to assist the homeless.

FOR FURTHER INFORMATION CONTACT: Kathy Ezzell, room 7266, Department of Housing and Urban Development, 451 Seventh Street, SW., Washington, DC 20410; telephone (202) 708-1234; TTY number for the hearing- and speech-impaired (202) 708-2565 (these telephone numbers are not toll-free), or call the toll-free Title V information line at 1-800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Heather Ranson, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this notice (i.e., acreage, floor plan, existing sanitary facilities, exact street address), providers should contact the appropriate landholding agencies at the following addresses: Army: Ms. Audrey C. Ormerod, Department of the Army, Office of the Assistant Chief of Staff for Installation Management, Attn: DAIM-MD, Room 1E677, 600 Army Pentagon, Washington, DC 20310-0600; (703) 601-2520; COE: Ms. Shirley Middleswarth, Army Corps of Engineers, Civil Division, Directorate of Real Estate, 441 G Street, NW., Washington, DC 20314-1000; (202) 761-7425; Energy: Mr. Andy Duran, Department of Energy, Office of Engineering & Construction Management, ME-90, 1000 Independence Ave, SW., Washington, DC 20585: (202) 586-4548; GSA: Mr. Brian K. Polly, Assistant Commissioner, General Services Administration, Office of Property Disposal, 18th and F Streets, NW., Washington, DC 20405; (202) 501-0084; Interior: Ms. Linda Tribby, Acquisition & Property Management, Department of the Interior, 1849 C Street, NW., MS5512, Washington, DC 20240; (202) 219-0728; Navy: Mr. Charles C. Cocks, Department of the Navy, Real Estate Policy Division, Naval Facilities Engineering Command, Washington Navy Yard, 1322 Patterson Ave., SE., Suite 1000, Washington, DC 20374-5065; (202) 685-9200; (These are not toll-free numbers).

Dated: February 10, 2005.
Mark R. Johnston,
Director, Office of Special Needs, Assistance Programs.

Title V, Federal Surplus Property Program Federal Register Report for 2/18/05

Suitable/Available Properties

Buildings (by State)

Alaska

Bldg. 00001

Wainwright Armory

Wainwright Co: AK 99782-

Landholding Agency: Army

Property Number: 21200510055

Status: Excess

Comment: 1200 sq. ft., presence of asbestos, most recent use—storage

Arkansas

Social Security Building

405 Pecan Street

Helena Co: Phillips AR 72342-

Landholding Agency: GSA

Property Number: 54200510003

Status: Excess

Comment: 3010 sq. ft., most recent use—offices

GSA Number: 7-G-AR-0567

California

Bldg. YLL-172

Yosemite National Park

Hemlock Bldg.

Yosemite Co: Mariposa CA 95389-

Landholding Agency: Interior

Property Number: 61200420012

Status: Unutilized

Comment: 7020 sq. ft. motel, off-site use only

Bldg. YLL-174

Yosemite National Park

Alder Motel

Yosemite Co: Mariposa CA 95389-

Landholding Agency: Interior

Property Number: 61200420013

Status: Unutilized

Comment: 7020 sq. ft. motel, off-site use only

Bldg. 180

Yosemite National Park

Birch Motel

Yosemite Co: Mariposa CA 95389-

Landholding Agency: Interior

Property Number: 61200420014

Status: Unutilized

Comment: 3010 sq. ft. motel, off-site use only

Bldg. YLS-002

Yosemite National Park

Yosemite Lodge

Mariposa Co: CA 95389-

Landholding Agency: Interior

Property Number: 61200430021

Status: Unutilized

Comment: 1000 sq. ft., most recent use—bike storage, off-site use only

Bldg. YLS-003

Yosemite National Park

Yosemite Lodge

Mariposa Co: CA 95389-

Landholding Agency: Interior

Property Number: 61200430022

Status: Unutilized

Comment: 1000 sq. ft., most recent use—storage, off-site use only

Bldg. YLV-007

Yosemite National Park

Yosemite Lodge

Mariposa Co: CA 95389-

Landholding Agency: Interior

Property Number: 61200430023

Status: Unutilized

Comment: 957 sq. ft., most recent use—bike storage, off-site use only

Bldg. YLL173

Yosemite National Park

Yosemite Lodge

Mariposa Co: CA 95389-

Landholding Agency: Interior

Property Number: 61200430024

Status: Unutilized

Comment: 7020 sq. ft., most recent use—guest accomodations, off-site use only

Bldg. 1000 E & F

Yosemite National Park

Yosemite Lodge

Mariposa Co: CA 95389-

Landholding Agency: Interior

Property Number: 61200430025

Status: Unutilized

Comment: 3600 sq. ft., most recent use—housing, off-site use only

Colorado

Bldg. 850

Wallace Creek Lodge

Colbran Co: Mesa CO 81624-

Landholding Agency: GSA

Property Number: 54200510004

Status: Surplus

Comment: 4500 sq. ft. hunting lodge, off-site use only

GSA Number: 7-A-CO-0655

Florida

Job Corps Center

205 West Third Street

Jacksonville Co: FL 33206-

Landholding Agency: GSA

Property Number: 54200440019

Status: Excess

Comment: 4 bldgs., sq. ft. varies, presence of asbestos/possible lead paint, most recent use—housing/classroom/training/medical/recreation, historic potential

GSA Number: 4-L-FL-0967B

Georgia

Bldg. 01133

Hunter Army Airfield

Chatham Co: GA 31409-

Landholding Agency: Army

Property Number: 21200510062

Status: Excess

Comment: 1024 sq. ft., most recent use—storage, off-site use only

Bldg. 00924

Fort Stewart

Ft. Stewart Co: Liberty GA 31314-

Landholding Agency: Army

Property Number: 21200510065

Status: Excess

Comment: 9360 sq. ft., most recent use—warehouse, off-site use only

Bldg. 07780

Fort Stewart

Ft. Stewart Co: Liberty GA 31314-

Landholding Agency: Army

Property Number: 21200510070

Status: Excess

Comment: 1344 sq. ft., most recent use—air field ops., off-site use only

Hawaii

Bldg. S180

Naval Station, Ford Island

Pearl Harbor Co: Honolulu HI 96860-

Landholding Agency: Navy

Property Number: 77199640039

Status: Unutilized

Comment: 3412 sq. ft., 2-story, most recent use—bomb shelter, off-site use only, relocation may not be feasible

Bldg. S181

Naval Station, Ford Island

Pearl Harbor Co: Honolulu HI 96860-

Landholding Agency: Navy

Property Number: 77199640040

Status: Unutilized

Comment: 4258 sq. ft., 1-story, most recent use—bomb shelter, off-site use only, relocation may not be feasible

Bldg. 219

Naval Station, Ford Island

Pearl Harbor Co: Honolulu HI 96860-

Landholding Agency: Navy

Property Number: 77199640041

Status: Unutilized

Comment: 620 sq. ft., most recent use—damage control, off-site use only, relocation may not be feasible

Bldg. 220

Naval Station, Ford Island

Pearl Harbor Co: Honolulu HI 96860-

Landholding Agency: Navy

Property Number: 77199640042

Status: Unutilized

Comment: 620 sq. ft., most recent use—damage control, off-site use only, relocation may not be feasible

Idaho

Bldg. CF603

Idaho Natl Eng & Env Lab

Scoville Co: Butte ID 83415-

Landholding Agency: Energy

Property Number: 41200020004

Status: Excess

Comment: 15,005 sq ft. cinder block, presence of asbestos/lead paint, major rehab, off-site use only

Iowa

Bldg. 00691

Iowa Army Ammo Plant

Middletown Co: Des Moines IA 52638-

Landholding Agency: Army

Property Number: 21200510073

Status: Unutilized

Comment: 2581 sq. ft. residence, presence of lead paint, possible asbestos

Fed Bldg/Courthouse 350 W 6th Street

Dubuque IA 52001-

Landholding Agency: GSA

Property Number: 54200330014

Status: Excess

Comment: 80,762 sq. ft., needs repair, tenants to relocate, most recent use—office, historic covenants

GSA Number: 7-G-IA-0495-1

Federal Bldg/Courthouse

205 S. 8th Street

Fort Dodge Co: Webster IA 50501-

Landholding Agency: GSA

Property Number: 54200510005

Status: Excess

Comment: 88,662 sq. ft., possible asbestos/lead paint, estimated $3.5 million in repairs, 40% occupied by Federal tenants for 2 years

GSA Number: 7-G-IA-0422-1

Kansas

Dwelling

Admin Area

Wilson Lake

Sylvan Grove Co: KS 67481-

Landholding Agency: COE

Property Number: 31200440001

Status: Excess

Comment: 1600 sq. ft. residence, off-site use only

Dwelling

Admin Area

Wilson Lake

Sylvan Grove Co: KS 67481-

Landholding Agency: COE

Property Number: 31200440002

Status: Excess

Comment: 1600 sq. ft., storage, off-site use only

Social Security Building

1201 SW Van Buren Street

Topeka Co: Shawnee KS 66612-

Landholding Agency: GSA

Property Number: 54200510006

Status: Excess

Comment: 9550 sq. ft., possible asbestos/lead paint, most recent use—office, tenants to relocate in Spring 2006

GSA Number: 7-G-KS-0523

Kentucky

Green River Lock & Dam #3

Rochester Co: Butler KY 42273-Location: SR 70 west from Morgantown, KY., approximately 7 miles to site

Landholding Agency: COE

Property Number: 31199010022

Status: Unutilized

Comment: 980 sq. ft.; 2 story wood frame; two story residence; potential utilities; needs major rehab

Minnesota

Lakes Project Office

307 Main Street East

Remer Co: Cass MN

Landholding Agency: GSA

Property Number: 54200410015

Status: Surplus

Comment: Office bldg/oil shed/maintenance garage, minor water damage

GSA Number: 5-D-MN-548-A

Missouri

Trailer

Gasconade Harbor Facility

Gasconade Co: MO 65036-

Landholding Agency: COE

Property Number: 31200430002

Status: Unutilized

Comment: 55 ft. x 12 ft., most recent use—office, off-site use only

Montana

Bldg. 1

Butte Natl Guard

Butte Co: Silverbow MT 59701-

Landholding Agency: COE

Property Number: 31200040010

Status: Unutilized

Comment: 22799 sq. ft., presence of asbestos, most recent use—cold storage, off-site use only

Bldg. 2

Butte Natl Guard

Butte Co: Silverbow MT 59701-

Landholding Agency: COE

Property Number: 31200040011

Status: Unutilized

Comment: 3292 sq. ft., most recent use—cold storage, off-site use only

Bldg. 3

Butte Natl Guard

Butte Co: Silverbow MT 59701-

Landholding Agency: COE

Property Number: 31200040012

Status: Unutilized

Comment: 964 sq. ft., most recent use—cold storage, off-site use only

Bldg. 4

Butte Natl Guard

Butte Co: Silverbow MT 59701-

Landholding Agency: COE

Property Number: 31200040013

Status: Unutilized

Comment: 72 sq. ft., most recent use—cold storage, off-site use only

Bldg. 5

Butte Natl Guard

Butte Co: Silverbow MT 59701-

Landholding Agency: COE

Property Number: 31200040014

Status: Unutilized

Comment: 1286 sq. ft., most recent use—cold storage, off-site use only

Lewistown Field Office

80 Airport Road

Lewistown Co: Fergus MT 59457-

Landholding Agency: GSA

Property Number: 54200510007

Status: Surplus

Comment: office, warehouse, garage, shed and parking spaces, subject to existing easements, mold issue in office

GSA Number: 7-I-MT-0618

New Jersey

Social Security Bldg.

686 Nye Avenue

Irvington Co: Essex NJ 07111-2315

Landholding Agency: GSA

Property Number: 54200430012

Status: Excess

Comment: 7757 sq. ft., most recent use—office

GSA Number: 1-G-NJ-652

Social Security Bldg.

22 Morris Street

Hackensack Co: Bergen NJ 07660-1546

Landholding Agency: GSA

Property Number: 54200430013

Status: Excess

Comment: 14,944 sq. ft., most recent use—office

GSA Number: 1-G-NJ-651

New York

Bldg. 2218

Stewart Newburg USARC

New Windsor Co: Orange NY 12553-9000

Landholding Agency: Army

Property Number: 21200510067

Status: Unutilized

Comment: 32,000 sq. ft., poor condition, requires major repairs, most recent use—storage/services

7 Bldgs.

Stewart Newburg USARC

New Windsor Co: Orange NY 12553-9000

Location: 2122, 2124, 2126, 2128, 2106, 2108, 2104

Landholding Agency: Army

Property Number: 21200510068

Status: Unutilized

Comment: sq. ft. varies, poor condition, needs major repairs, most recent use—storage/services

Tappan USARC

335 Western Hwy

Tappan Co: Rockland NY 10983-

Landholding Agency: Army

Property Number: 21200510069

Status: Excess

Comment: 33,537 sq. ft., army reserve center

Social Security Bldg.

63 North Street

Monticello Co: Sullivan NY 12701-1124

Landholding Agency: GSA

Property Number: 54200430014

Status: Excess

Comment: 5659 sq. ft., most recent use—office

GSA Number: 1-G-NY-915

Building 1

Scotia Navy Depot

Scotia Co: Schenectady NY 12302-9460

Landholding Agency: Navy

Property Number: 77200440021

Status: Excess

Comment: 39,554 sq. ft., needs extensive repairs, presence of asbestos/lead paint, most recent use—office

North Carolina

SSA Building

215 W. Third Avenue

Gastonia Co: Gaston NC 28052-

Landholding Agency: GSA

Property Number: 54200440020

Status: Excess

Comment: 8081 sq. ft., presence of asbestos, most recent use—office

GSA Number: 4-G-NC-0745

Federal Building

241 Sunset Avenue

Asheboro Co: Randolph NC 27203-

Landholding Agency: GSA

Property Number: 54200440021

Status: Excess

Comment: 7141 sq. ft., presence of asbestos/possible lead paint, historic preservation covenants, most recent use—office

GSA Number: 4-G-NC-746

Ohio

Barker Historic House

Willow Island Locks and Dam

Newport Co: Washington OH 45768-9801

Location: Located at lock site, downstream of lock and dam structure

Landholding Agency: COE

Property Number: 31199120018

Status: Unutilized

Comment: 1600 sq. ft. bldg. with ½ acre of land, 2 story brick frame, needs rehab, on Natl Register of Historic Places, no utilities, off-site use only

Pennsylvania

Mahoning Creek Reservoir

New Bethlehem Co: Armstrong PA 16242-

Landholding Agency: COE

Property Number: 31199210008

Status: Unutilized

Comment: 1015 sq. ft., 2 story brick residence, off-site use only

Dwelling

Lock & Dam 6, Allegheny River, 1260 River Rd.

Freeport Co: Armstrong PA 16229-2023

Landholding Agency: COE

Property Number: 31199620008

Status: Unutilized

Comment: 2652 sq. ft., 3-story brick house, in close proximity to Lock and Dam, available for interim use for nonresidential purposes

Govt. Dwelling

Youghiogheny River Lake

Confluence Co: Fayette PA 15424-9103

Landholding Agency: COE

Property Number: 31199640002

Status: Unutilized

Comment: 1421 sq. ft., 2-story brick w/basement, most recent use—residential

Dwelling

Lock & Dam 4, Allegheny River

Natrona Co: Allegheny PA 15065-2609

Landholding Agency: COE

Property Number: 31199710009

Status: Unutilized

Comment: 1664 sq. ft., 2-story brick residence, needs repair, off-site use only

Dwelling #1

Crooked Creek Lake

Ford City Co: Armstrong PA 16226-8815

Landholding Agency: COE

Property Number: 31199740002

Status: Excess

Comment: 2030 sq. ft., most recent use—residential, good condition, off-site use only

Dwelling #2

Crooked Creek Lake

Ford City Co: Armstrong PA 16226-8815

Landholding Agency: COE

Property Number: 31199740003

Status: Excess

Comment: 3045 sq. ft., most recent use—residential, good condition, off-site use only

Govt Dwelling

East Branch Lake

Wilcox Co: Elk PA 15870-9709

Landholding Agency: COE

Property Number: 31199740005

Status: Underutilized

Comment: Approx. 5299 sq. ft., 1-story, most recent use—residence, off-site use only

Dwelling #1

Loyalhanna Lake

Saltsburg Co: Westmoreland PA 15681-9302

Landholding Agency: COE

Property Number: 31199740006

Status: Excess

Comment: 1996 sq. ft., most recent use—residential, good condition, off-site use only

Dwelling #2

Loyalhanna Lake

Saltsburg Co: Westmoreland PA 15681-9302

Landholding Agency: COE

Property Number: 31199740007

Status: Excess

Comment: 1996 sq. ft., most recent use—residential, good condition, off-site use only

Dwelling #1

Woodcock Creek Lake

Saegertown Co: Crawford PA 16433-0629

Landholding Agency: COE

Property Number: 31199740008

Status: Excess

Comment: 2106 sq. ft., most recent use—residential, good condition, off-site use only

Dwelling #2

Lock & Dam 6, 1260 River Road

Freeport Co: Armstrong PA 16229-2023

Landholding Agency: COE

Property Number: 31199740009

Status: Excess

Comment: 2652 sq. ft., most recent use—residential, good condition, off-site use only

Dwelling #2

Youghiogheny River Lake

Confluence Co: Fayette PA 15424-9103

Landholding Agency: COE

Property Number: 31199830003

Status: Excess

Comment: 1421 sq. ft., 2-story + basement, most recent use—residential

Residence A

2045 Pohopoco Drive

Lehighton Co: Carbon PA 18235-

Landholding Agency: COE

Property Number: 31200410007

Status: Unutilized

Comment: 1200 sq. ft., presence of asbestos, off-site use only

Texas

Water Tower

Lake Meredith Natl Rec Area

Fritch Co: Hutchinson TX 79036-

Landholding Agency: Interior

Property Number: 61200510002

Status: Unutilized

Comment: Off-site use only

Virginia

Metal Bldg.

John H. Kerr Dam & Reservoir

Co. Boydton VA

Landholding Agency: COE

Property Number: 31199620009

Status: Excess

Comment: 800 sq. ft., most recent use—storage, off-site use only

Washington

Bldg. 88

1917 Marsh Road

Yakima WA 98901-

Landholding Agency: Interior

Property Number: 61200340007

Status: Unutilized

Comment: 1032 sq. ft., presence of asbestos/lead paint, most recent use—office, off-site use only

Land (by State)

Arkansas

Parcel 01

DeGray Lake

Section 12

Arkadelphia Co: Clark AR 71923-9361

Landholding Agency: COE

Property Number: 31199010071

Status: Unutilized

Comment: 77.6 acres

Parcel 02

DeGray Lake

Section 13

Arkadelphia Co: Clark AR 71923-9361

Landholding Agency: COE

Property Number: 31199010072

Status: Unutilized

Comment: 198.5 acres

Parcel 03

DeGray Lake

Section 18

Arkadelphia Co: Clark AR 71923-9361

Landholding Agency: COE

Property Number: 31199010073

Status: Unutilized

Comment: 50.46 acres

Parcel 04

DeGray Lake

Section 24, 25, 30 and 31

Arkadelphia Co: Clark AR 71923-9361

Landholding Agency: COE

Property Number: 31199010074

Status: Unutilized

Comment: 236.37 acres

Parcel 05

DeGray Lake

Section 16

Arkadelphia Co: Clark AR 71923-9361

Landholding Agency: COE

Property Number: 31199010075

Status: Unutilized

Comment: 187.30 acres

Parcel 06

DeGray Lake

Section 13

Arkadelphia Co: Clark AR 71923-9361

Landholding Agency: COE

Property Number: 31199010076

Status: Unutilized

Comment: 13.0 acres

Parcel 07

DeGray Lake

Section 34

Arkadelphia Co: Hot Spring AR 71923-9361

Landholding Agency: COE

Property Number: 31199010077

Status: Unutilized

Comment: 0.27 acres

Parcel 08

DeGray Lake

Section 13

Arkadelphia Co: Clark AR 71923-9361

Landholding Agency: COE

Property Number: 31199010078

Status: Unutilized

Comment: 14.6 acres

Parcel 09

DeGray Lake

Section 12

Arkadelphia Co: Hot Spring AR 71923-9361

Landholding Agency: COE

Property Number: 31199010079

Status: Unutilized

Comment: 6.60 acres

Parcel 10

DeGray Lake

Section 12

Arkadelphia Co: Hot Spring AR 71923-9361

Landholding Agency: COE

Property Number: 31199010080

Status: Unutilized

Comment: 4.5 acres

Parcel 11

DeGray Lake

Section 19

Arkadelphia Co: Hot Spring AR 71923-9361

Landholding Agency: COE

Property Number: 31199010081

Status: Unutilized

Comment: 19.50 acres

Lake Greeson

Section 7, 8 and 18

Murfreesboro Co: Pike AR 71958-9720

Landholding Agency: COE

Property Number: 31199010083

Status: Unutilized

Comment: 46 acres

Idaho

19.5 acres

Teton Dam Site

Newdale Co: Madison ID 83436-

Landholding Agency: Interior

Property Number: 61200430047

Status: Excess

Comment: Narrow strip of land, center of irrigated agriculture fields

19.47 acres

Tract C/Section 11

Paul Co: Minidoka ID 83347-

Landholding Agency: Interior

Property Number: 61200430048

Status: Excess

Comment: Agriculture/sagebrush

20.07 acres

Section 15; Lots 9-10

Paul Co: Minidoka ID 83347-

Landholding Agency: Interior

Property Number: 61200430049

Status: Excess

Comment: Agriculture production/irrigation sprinkler system

Indiana

Tracts 100 & 119-2

State Hwy 224/Rd. 50

Union Twshp Co: Huntington IN

Landholding Agency: GSA

Property Number: 54200430021

Status: Surplus

Comment: 6.65 acres and 8.68 acres, open space, no sanitary facilities, zoning restrictions

GSA Number: 1-D-IN-573-B

Tanner's Creek

Access Site off Rt. 50

Lawrenceburg Co: IN

Landholding Agency: GSA

Property Number: 54200430022

Status: Excess

Comment: 8.45 acres, boat launch, flowage easement

GSA Number: 1-D-IN-571-C

Patriot Boat Ramp

Rt 156

Switzerland Co: IN

Landholding Agency: GSA

Property Number: 54200440009

Status: Excess

Comment: 34.11 acres, parking and boat launch, flowage easement

GSA Number: 1-D-IN-571-B

Kansas

Parcel 1

El Dorado Lake

Section 13, 24, and 18

(See County) Co: Butler KS

Landholding Agency: COE

Property Number: 31199010064

Status: Unutilized

Comment: 61 acres; most recent use—recreation

Kentucky

Tract 2625

Barkley Lake, Kentucky, and Tennessee

Cadiz Co: Trigg KY 42211-

Location: Adjoining the village of Rockcastle

Landholding Agency: COE

Property Number: 31199010025

Status: Excess

Comment: 2.57 acres; rolling and wooded

Tract 2709-10 and 2710-2

Barkley Lake, Kentucky and Tennessee

Cadiz Co: Trigg KY 42211-

Location: 2½ miles in a southerly direction from the village of Rockcastle

Landholding Agency: COE

Property Number: 31199010026

Status: Excess

Comment: 2.00 acres; steep and wooded

Tract 2708-1 and 2709-1

Barkley Lake, Kentucky and Tennessee

Cadiz Co: Trigg KY 42211-

Location: 2½ miles in a southerly direction from the village of Rockcastle

Landholding Agency: COE

Property Number: 31199010027

Status: Excess

Comment: 3.59 acres; rolling and wooded; no utilities

Tract 2800

Barkley Lake, Kentucky and Tennessee

Cadiz Co: Trigg KY 42211-

Location: 4½ miles in a southeasterly direction from the village of Rockcastle

Landholding Agency: COE

Property Number: 31199010028

Status: Excess

Comment: 5.44 acres; steep and wooded

Tract 2915

Barkley Lake, Kentucky and Tennessee

Cadiz Co: Trigg KY 42211-

Location: 6½ miles west of Cadiz

Landholding Agency: COE

Property Number: 31199010029

Status: Excess

Comment: 5.76 acres; steep and wooded; no utilities

Tract 2702

Barkley Lake, Kentucky and Tennessee

Cadiz Co: Trigg KY 42211-

Location: 1 mile in a southerly direction from the village of Rockcastle

Landholding Agency: COE

Property Number: 31199010031

Status: Excess

Comment: 4.90 acres; wooded; no utilities

Tract 4318

Barkley Lake, Kentucky and Tennessee

Canton Co: Trigg KY 42212-

Location: Trigg Co. adjoining the city of Canton, KY on the waters of Hopson Creek

Landholding Agency: COE

Property Number: 31199010032

Status: Excess

Comment: 8.24 acres; steep and wooded

Tract 4502

Barkley Lake, Kentucky and Tennessee

Canton Co: Trigg KY 42212-

Location: 3½ miles in a southerly direction from Canton, KY

Landholding Agency: COE

Property Number: 31199010033

Status: Excess

Comment: 4.26 acres; steep and wooded

Tract 4611

Barkley Lake, Kentucky and Tennessee

Canton Co: Trigg KY 42212-

Location: 5 miles south of Canton, KY

Landholding Agency: COE

Property Number: 31199010034

Status: Excess

Comment: 10.51 acres; steep and wooded; no utilities

Tract 4619

Barkley Lake, Kentucky and Tennessee

Canton Co: Trigg KY 42212-

Location: 4½ miles south from Canton, KY

Landholding Agency: COE

Property Number: 31199010035

Status: Excess

Comment: 2.02 acres; steep and wooded; no utilities

Tract 4817

Barkley Lake, Kentucky and Tennessee

Canton Co: Trigg KY 42212-

Location: 6½ miles south of Canton, KY

Landholding Agency: COE

Property Number: 31199010036

Status: Excess

Comment: 1.75 acres; wooded

Tract 1217

Barkley Lake, Kentucky and Tennessee

Eddyville Co: Lyon KY 42030-

Location: On the north side of the Illinois Central Railroad

Landholding Agency: COE

Property Number: 31199010042

Status: Excess

Comment: 5.80 acres; steep and wooded

Tract 1906

Barkley Lake, Kentucky and Tennessee

Eddyville Co: Lyon KY 42030-

Location: Approximately 4 miles east of Eddyville, KY

Landholding Agency: COE

Property Number: 31199010044

Status: Excess

Comment: 25.86 acres; rolling steep and partially wooded; no utilities

Tract 1907

Barkley Lake, Kentucky and Tennessee

Eddyville Co: Lyon KY 42038-

Location: On the waters of Pilfen Creek, 4 miles east of Eddyville, KY

Landholding Agency: COE

Property Number: 31199010045

Status: Excess

Comment: 8.71 acres; rolling steep and wooded; no utilities

Tract 2001 #1

Barkley Lake, Kentucky and Tennessee

Eddyville Co: Lyon KY 42030-

Location: Approximately 4½ miles east of Eddyville, KY

Landholding Agency: COE

Property Number: 31199010046

Status: Excess

Comment: 47.42 acres; steep and wooded; no utilities

Tract 2001 #2

Barkley Lake, Kentucky and Tennessee

Eddyville Co: Lyon KY 42030-

Location: Approximately 4½ miles east of Eddyville, KY

Landholding Agency: COE

Property Number: 31199010047

Status: Excess

Comment: 8.64 acres; steep and wooded; no utilities

Tract 2005

Barkley Lake, Kentucky and Tennessee

Eddyville Co: Lyon KY 42030-

Location: Approximately 5½ miles east of Eddyville, KY

Landholding Agency: COE

Property Number: 31199010048

Status: Excess

Comment: 4.62 acres; steep and wooded; no utilities

Tract 2307

Barkley Lake, Kentucky and Tennessee

Eddyville Co: Lyon KY 42030-

Location: Approximately 7½ miles southeasterly of Eddyville, KY

Landholding Agency: COE

Property Number: 31199010049

Status: Excess

Comment: 11.43 acres; steep; rolling and wooded; no utilities

Tract 2403

Barkley Lake, Kentucky and Tennessee

Eddyville Co: Lyon KY 42030-

Location: 7 miles southeasterly of Eddyville, KY

Landholding Agency: COE

Property Number: 31199010050

Status: Excess

Comment: 1.56 acres; steep and wooded; no utilities

Tract 2504

Barkley Lake, Kentucky and Tennessee

Eddyville Co: Lyon KY 42030-

Location: 9 miles southeasterly of Eddyville, KY

Landholding Agency: COE

Property Number: 31199010051

Status: Excess

Comment: 24.46 acres; steep and wooded; no utilities

Tract 214

Barkley Lake, Kentucky and Tennessee

Grand Rivers Co: Lyon KY 42045-

Location: South of the Illinois Central Railroad, 1 mile east of the Cumberland River

Landholding Agency: COE

Property Number: 31199010052

Status: Excess

Comment: 5.5 acres; wooded; no utilities

Tract 215

Barkley Lake, Kentucky and Tennessee

Grand Rivers Co: Lyon KY 42045-

Location: 5 miles southwest of Kuttawa

Landholding Agency: COE

Property Number: 31199010053

Status: Excess

Comment: 1.40 acres; wooded; no utilities

Tract 241

Barkley Lake, Kentucky and Tennessee

Grand Rivers Co: Lyon KY 42045-

Location: Old Henson Ferry Road, 6 miles west of Kuttawa, KY

Landholding Agency: COE

Property Number: 31199010054

Status: Excess

Comment: 1.26 acres; steep and wooded; no utilities

Tracts 306, 311, 315 and 325

Barkley Lake, Kentucky and Tennessee

Grand Rivers Co: Lyon KY 42045-

Location: 2.5 miles southwest of Kuttawa, KY on the waters of Cypress Creek

Landholding Agency: COE

Property Number: 31199010055

Status: Excess

Comment: 38.77 acres; steep and wooded; no utilities

Tracts 2305, 2306, and 2400-1

Barkley Lake, Kentucky and Tennessee

Eddyville Co: Lyon KY 42030-

Location: 6½ miles southeasterly of Eddyville, KY

Landholding Agency: COE

Property Number: 31199010056

Status: Excess

Comment: 97.66 acres; steep rolling and wooded; no utilities

Tracts 5203 and 5204

Barkley Lake, Kentucky and Tennessee

Linton Co: Trigg KY 42212-

Location: Village of Linton, KY state highway 1254

Landholding Agency: COE

Property Number: 31199010058

Status: Excess

Comment: 0.93 acres; rolling, partially wooded; no utilities

Tract 5240

Barkley Lake, Kentucky and Tennessee

Linton Co: Trigg KY 42212-

Location: 1 mile northwest of Linton, KY

Landholding Agency: COE

Property Number: 31199010059

Status: Excess

Comment: 2.26 acres; steep and wooded; no utilities

Tract 4628

Barkley Lake, Kentucky and Tennessee

Canton Co: Trigg KY 42212-

Location: 4½ miles south from Canton, KY

Landholding Agency: COE

Property Number: 31199011621

Status: Excess

Comment: 3.71 acres; steep and wooded; subject to utility easements

Tract 4619-B

Barkley Lake, Kentucky and Tennessee

Canton Co: Trigg KY 42212-

Location: 4½ miles south from Canton, KY

Landholding Agency: COE

Property Number: 31199011622

Status: Excess

Comment: 1.73 acres; steep and wooded; subject to utility easements

Tract 2403-B

Barkley Lake, Kentucky and Tennessee

Eddyville Co: Lyon KY 42038-

Location: 7 miles southeasterly from Eddyville, KY

Landholding Agency: COE

Property Number: 31199011623

Status: Unutilized

Comment: 0.70 acres, wooded; subject to utility easements

Tract 241-B

Barkley Lake, Kentucky and Tennessee

Grand Rivers Co: Lyon KY 42045-

Location: South of Old Henson Ferry Road, 6 miles west of Kuttawa, KY

Landholding Agency: COE

Property Number: 31199011624

Status: Excess

Comment: 11.16 acres; steep and wooded; subject to utility easements

Tracts 212 and 237

Barkley Lake, Kentucky and Tennessee

Grand Rivers Co: Lyon KY 42045-

Location: Old Henson Ferry Road, 6 miles west of Kuttawa, KY

Landholding Agency: COE

Property Number: 31199011625

Status: Excess

Comment: 2.44 acres; steep and wooded; subject to utility easements

Tract 215-B

Barkley Lake, Kentucky and Tennessee

Grand Rivers Co: Lyon KY 42045-

Location: 5 miles southwest of Kuttawa

Landholding Agency: COE

Property Number: 31199011626

Status: Excess

Comment: 1.00 acres; wooded; subject to utility easements

Tract 233

Barkley Lake, Kentucky and Tennessee

Grand Rivers Co: Lyon KY 42045-

Location: 5 miles southwest of Kuttawa

Landholding Agency: COE

Property Number: 31199011627

Status: Excess

Comment: 1.00 acres; wooded; subject to utility easements

Tract N-819

Dale Hollow Lake & Dam Project

Illwill Creek, Hwy 90

Hobart Co: Clinton KY 42601-

Landholding Agency: COE

Property Number: 31199140009

Status: Underutilized

Comment: 91 acres, most recent use—hunting, subject to existing easements

Portion of Lock & Dam No. 1

Kentucky River

Carrolton Co: Carroll KY 41008-0305

Landholding Agency: COE

Property Number: 31199320003

Status: Unutilized

Comment: approx. 3.5 acres (sloping), access monitored

Tract No. F-610

Buckhorn Lake Project

Buckhorn KY 41721-

Landholding Agency: COE

Property Number: 31200240001

Status: Unutilized

Comment: 0.64 acres, encroachments, most recent use—flood control purposes

Louisiana

Wallace Lake Dam and Reservoir

Shreveport Co: Caddo LA 71103-

Landholding Agency: COE

Property Number: 31199011009

Status: Unutilized

Comment: 10.81 acres; wildlife/forestry; no utilities

Bayou Bodcau Dam and Reservoir

Haughton Co: Caddo LA 71037-9707

Location: 35 miles Northeast of Shreveport, LA

Landholding Agency: COE

Property Number: 31199011010

Status: Unutilized

Comment: 203 acres; wildlife/forestry; no utilities

Mississippi

Parcel 7

Grenada Lake

Sections 22, 23, T24N

Grenada Co: Yalobusha MS 38901-0903

Landholding Agency: COE

Property Number: 31199011019

Status: Underutilized

Comment: 100 acres; no utilities; intermittently used under lease—expires 1994

Parcel 8

Grenada Lake

Section 20, T24N

Grenada Co: Yalobusha MS 38901-0903

Landholding Agency: COE

Property Number: 31199011020

Status: Underutilized

Comment: 30 acres; no utilities; intermittently used under lease—expires 1994

Parcel 9

Grenada Lake

Section 20, T24N, R7E

Grenada Co: Yalobusha MS 38901-0903

Landholding Agency: COE

Property Number: 31199011021

Status: Underutilized

Comment: 23 acres; no utilities; intermittently used under lease—expires 1994

Parcel 10

Grenada Lake

Sections 16, 17, 18 T24N R8E

Grenada Co: Calhoun MS 38901-0903

Landholding Agency: COE

Property Number: 31199011022

Status: Underutilized

Comment: 490 acres; no utilities; intermittently used under lease—expires 1994

Parcel 2

Grenada Lake

Section 20 and T23N, R5E

Grenada Co: Grenada MS 38901-0903

Landholding Agency: COE

Property Number: 31199011023

Status: Underutilized

Comment: 60 acres; no utilities; most recent use—wildlife and forestry management

Parcel 3

Grenada Lake

Section 4, T23N, R5E

Grenada Co: Yalobusha MS 38901-0903

Landholding Agency: COE

Property Number: 31199011024

Status: Underutilized

Comment: 120 acres; no utilities; most recent use—wildlife and forestry management; (13.5 acres/agriculture lease)

Parcel 4

Grenada Lake

Section 2 and 3. T23N, R5E

Grenada Co: Yalobusha MS 38901-0903

Landholding Agency: COE

Property Number: 31199011025

Status: Underutilized

Comment: 60 acres; no utilities; most recent use—wildlife and forestry management

Parcel 5

Grenada Lake

Section 7, T24N, R6E

Grenada Co: Yalobusha MS 38901-0903

Landholding Agency: COE

Property Number: 31199011026

Status: Underutilized

Comment: 20 acres; no utilities; most recent use—wildlife and forestry management; (14 acres/agriculture lease)

Parcel 6

Grenada Lake

Section 9, T24N, R6E

Grenada Co: Yalobusha MS 38903-0903

Landholding Agency: COE

Property Number: 31199011027

Status: Underutilized

Comment: 80 acres; no utilities; most recent use—wildlife and forestry management

Parcel 11

Grenada Lake

Section 20, T24N, R8E

Grenada Co: Calhoun MS 38901-0903

Landholding Agency: COE

Property Number: 31199011028

Status: Underutilized

Comment: 30 acres; no utilities; most recent use—wildlife and forestry management

Parcel 12

Grenada Lake

Section 25, T24N, R7E

Grenada Co: Yalobusha MS 38390-10903

Landholding Agency: COE

Property Number: 31199011029

Status: Underutilized

Comment: 30 acres; no utilities; most recent use—wildlife and forestry management

Parcel 13

Grenada Lake

Section 34, T24N, R7E

Grenada Co: Yalobusha MS 38903-0903

Landholding Agency: COE

Property Number: 31199011030

Status: Underutilized

Comment: 35 acres; no utilities; most recent use—wildlife and forestry management; (11 acres/agriculture lease)

Parcel 14

Grenada Lake

Section 3, T23N, R6E

Grenada Co: Yalobusha MS 38901-0903

Landholding Agency: COE

Property Number: 31199011031

Status: Underutilized

Comment: 15 acres; no utilities; most recent use—wildlife and forestry management

Parcel 15

Grenada Lake

Section 4, T24N, R6E

Grenada Co: Yalobusha MS 38901-0903

Landholding Agency: COE

Property Number: 31199011032

Status: Underutilized

Comment: 40 acres; no utilities; most recent use—wildlife and forestry management

Parcel 16

Grenada Lake

Section 9, T23N, R6E

Grenada Co: Yalobusha MS 38901-0903

Landholding Agency: COE

Property Number: 31199011033

Status: Underutilized

Comment: 70 acres; no utilities; most recent use—wildlife and forestry management

Parcel 17

Grenada Lake

Section 17, T23N, R7E

Grenada Co: Grenada MS 28901-0903

Landholding Agency: COE

Property Number: 31199011034

Status: Underutilized

Comment: 35 acres; no utilities; most recent use—wildlife and forestry management

Parcel 18

Grenada Lake

Section 22, T23N, R7E

Grenada Co: Grenada MS 28902-0903

Landholding Agency: COE

Property Number: 31199011035

Status: Underutilized

Comment: 10 acres; no utilities; most recent use—wildlife and forestry management

Parcel 19

Grenada Lake

Section 9, T22N, R7E

Grenada Co: Grenada MS 38901-0903

Landholding Agency: COE

Property Number: 31199011036

Status: Underutilized

Comment: 20 acres; no utilities; most recent use—wildlife and forestry management

Missouri

Harry S Truman Dam & Reservoir

Warsaw Co: Benton MO 65355-

Location: Triangular shaped parcel southwest of access road “B”, part of Bledsoe Ferry Park Tract 150

Landholding Agency: COE

Property Number: 31199030014

Status: Underutilized

Comment: 1.7 acres; potential utilities

New Jersey

Storage Site

Black Oak Ridge Road

Wayne Co: Passaic NJ

Landholding Agency: GSA

Property Number: 54200440011

Status: Excess

Comment: 6.5 acres, utility infrastructure exist

GSA Number: 1-B-NJ-0653

Ohio

GWEN Site #3

Township Rd. 196

Radnor Co: Delaware OH

Landholding Agency: GSA

Property Number: 54200420021

Status: Surplus

Comment: Two tracts of farm land = 0.953 acre and 10.778 acres

GSA Number: 1-D-OH-825

Oklahoma

Pine Creek Lake

Section 27

(See County) Co: McCurtain OK

Landholding Agency: COE

Property Number: 31199010923

Status: Unutilized

Comment: 3 acres; no utilities; subject to right of way for Oklahoma State Highway 3

Pennsylvania

Mahoning Creek Lake

New Bethlehem Co: Armstrong PA 16242-9603

Location: Route 28 North to Belknap, Road #4

Landholding Agency: COE

Property Number: 31199010018

Status: Excess

Comment: 2.58 acres; steep and densely wooded

Tracts 610, 611, 612

Shenango River Lake

Sharpsville Co: Mercer PA 16150-

Location: I-79 North, I-80 West, Exit Sharon. R18 North 4 miles, left on R518, right on Mercer Avenue

Landholding Agency: COE

Property Number: 31199011001

Status: Excess

Comment: 24.09 acres; subject to flowage easement

Tracts L24, L26

Crooked Creek Lake

Co: Armstrong PA 03051-

Location: Left bank—55 miles downstream of dam

Landholding Agency: COE

Property Number: 31199011011

Status: Unutilized

Comment: 7.59 acres; potential for utilities

Portion of Tract L-21A

Crooked Creek Lake, LR 03051

Ford City Co: Armstrong PA 16226-

Landholding Agency: COE

Property Number: 31199430012

Status: Unutilized

Comment: Approximately 1.72 acres of undeveloped land, subject to gas rights

Tennessee

Tract 6827

Barkley Lake

Dover Co: Stewart TN 37058-

Location: 2½ miles west of Dover, TN.

Landholding Agency: COE

Property Number: 31199010927

Status: Excess

Comment: .57 acres; subject to existing easements

Tracts 6002-2 and 6010

Barkley Lake

Dover Co: Stewart TN 37058-

Location: 3½ miles south of village of Tabaccoport

Landholding Agency: COE

Property Number: 31199010928

Status: Excess

Comment: 100.86 acres; subject to existing easements

Tract 11516

Barkley Lake

Ashland City Co: Dickson TN 37015-

Location: ½ mile downstream from Cheatham Dam

Landholding Agency: COE

Property Number: 31199010929

Status: Excess

Comment: 26.25 acres; subject to existing easements

Tract 2319

J. Percy Priest Dam and Resorvoir

Murfreesboro Co: Rutherford TN 37130-

Location: West of Buckeye Bottom Road

Landholding Agency: COE

Property Number: 31199010930

Status: Excess

Comment: 14.48 acres; subject to existing easements

Tract 2227

J. Percy Priest Dam and Resorvoir

Murfreesboro Co: Rutherford TN 37130-

Location: Old Jefferson Pike

Landholding Agency: COE

Property Number: 31199010931

Status: Excess

Comment: 2.27 acres; subject to existing easements

Tract 2107

J. Percy Priest Dam and Reservoir

Murfreesboro Co: Rutherford TN 37130-

Location: Across Fall Creek near Fall Creek camping area

Landholding Agency: COE

Property Number: 31199010932

Status: Excess

Comment: 14.85 acres; subject to existing easements

Tracts 2601, 2602, 2603, 2604

Cordell Hull Lake and Dam Project

Doe Row Creek

Gainesboro Co: Jackson TN 38562-

Location: TN Highway 56

Landholding Agency: COE

Property Number: 31199010933

Status: Unutilized

Comment: 11 acres; subject to existing easements

Tract 1911

J. Percy Priest Dam and Reservoir

Murfreesboro Co: Rutherford TN 37130-

Location: East of Lamar Road

Landholding Agency: COE

Property Number: 31199010934

Status: Excess

Comment: 6.92 acres; subject to existing easements

Tract 7206

Barkley Lake

Dover Co: Stewart TN 37058-

Location: 2½ miles SE of Dover, TN

Landholding Agency: COE

Property Number: 31199010936

Status: Excess

Comment: 10.15 acres; subject to existing easements

Tracts 8813, 8814

Barkley Lake

Cumberland Co: Stewart TN 37050-

Location: 1½ miles East of Cumberland City

Landholding Agency: COE

Property Number: 31199010937

Status: Excess

Comment: 96 acres; subject to existing easements

Tract 8911

Barkley Lake

Cumberland City Co: Montgomery TN 37050-

Location: 4 miles east of Cumberland City

Landholding Agency: COE

Property Number: 31199010938

Status: Excess

Comment: 7.7 acres; subject to existing easements

Tract 11503

Barkley Lake

Ashland City Co: Cheatham TN 37015-

Location: 2 miles downstream from Cheatham Dam

Landholding Agency: COE

Property Number: 31199010939

Status: Excess

Comment: 1.1 acres; subject to existing easements

Tracts 11523, 11524

Barkley Lake

Ashland City Co: Cheatham TN 37015-

Location: 2½ miles downstream from Cheatham Dam

Landholding Agency: COE

Property Number: 31199010940

Status: Excess

Comment: 19.5 acres; subject to existing easements

Tract 6410

Barkley Lake

Bumpus Mills Co: Stewart TN 37028-

Location: 4½ miles SW. of Bumpus Mills

Landholding Agency: COE

Property Number: 31199010941

Status: Excess

Comment: 17 acres; subject to existing easements

Tract 9707

Barkley Lake

Palmyer Co: Montgomery TN 37142-

Location: 3 miles NE of Palmyer, TN, Highway 149

Landholding Agency: COE

Property Number: 31199010943

Status: Excess

Comment: 6.6 acres; subject to existing easements

Tract 6949

Barkley Lake

Dover Co: Stewart TN 37058-

Location: 1½ miles SE of Dover, TN

Landholding Agency: COE

Property Number: 31199010944

Status: Excess

Comment: 29.67 acres; subject to existing easements

Tracts 6005 and 6017

Barkley Lake

Dover Co: Stewart TN 37058-

Location: 3 miles south of Village of Tobaccoport

Landholding Agency: COE

Property Number: 31199011173

Status: Excess

Comment: 5 acres; subject to existing easements

Tracts K-1191, K-1135

Old Hickory Lock and Dam

Hartsville Co: Trousdale TN 37074-

Landholding Agency: COE

Property Number: 31199130007

Status: Underutilized

Comment: 54 acres, (portion in floodway), most recent use—recreation

Tract A-102

Dale Hollow Lake & Dam Project

Canoe Ridge, State Hwy 52

Celina Co: Clay TN 38551-

Landholding Agency: COE

Property Number: 31199140006

Status: Underutilized

Comment: 351 acres, most recent use—hunting, subject to existing easements

Tract A-120

Dale Hollow Lake & Dam Project

Swann Ridge, State Hwy No. 53

Celina Co: Clay TN 38551-

Landholding Agency: COE

Property Number: 31199140007

Status: Underutilized

Comment: 883 acres, most recent use—hunting, subject to existing easements

Tract D-185

Dale Hollow Lake & Dam Project

Ashburn Creek, Hwy No. 53

Livingston Co: Clay TN 38570-

Landholding Agency: COE

Property Number: 31199140010

Status: Underutilized

Comment: 97 acres, most recent use—hunting, subject to existing easements

Texas

14.34 acres

9300 Tidwell Road

Houston Co: Harris TX 77078-

Landholding Agency: GSA

Property Number: 54200510008

Status: Excess

Comment: Development may require an archeological survey

GSA Number: 7-G-TX-1085

Virginia

Tract H-35-A

Chantilly Access Road

Vienna Co: VA

Landholding Agency: GSA

Property Number: 54200430016

Status: Excess

Comment: 0.331 acre, public street, any owner would be required to provide equivalent, uninterrupted alternate access.

GSA Number: 11-U-VA-0001

Suitable/Unavailable Properties

Buildings (by State)

Alabama

Bldg. 30105

Fort Rucker

Ft. Rucker Co: Dale AL 36362-

Landholding Agency: Army

Property Number: 21200510052

Status: Excess

Comment: 4100 sq. ft., most recent use—admin., off-site use only

Bldg. 40115

Fort Rucker

Ft. Rucker Co: Dale AL 36362-

Landholding Agency: Army

Property Number: 21200510053

Status: Excess

Comment: 34,520 sq. ft., most recent use—storage, off-site use only

Alaska

House

910 S. Felton Street

Tsunami Warning Center

Palmer Co: AK

Landholding Agency: GSA

Property Number: 54200430007

Status: Surplus

Comment: 1400 sq. ft., off-site use only

GSA Number: 9-C-AK-794

Georgia

Bldg. 01674

Fort Benning

Ft. Benning Co: Chattachoochee GA 31905-

Landholding Agency: Army

Property Number: 21200510056

Status: Unutilized

Comment: 5311 sq. ft., needs rehab, most recent use—gen. inst., off-site use only

Bldg. 01675

Fort Benning

Ft. Benning Co: Chattachoochee GA 31905-

Landholding Agency: Army

Property Number: 21200510057

Status: Unutilized

Comment: 5475 sq. ft., needs rehab, most recent use—gen. inst., off-site use only

Bldg. 01676

Fort Benning

Ft. Benning Co: Chattachoochee GA 31905-

Landholding Agency: Army

Property Number: 21200510058

Status: Unutilized

Comment: 7209 sq. ft., needs rehab, most recent use—gen. inst., off-site use only

Bldg. 01677

Fort Benning

Ft. Benning Co: GA 31905-

Landholding Agency: Army

Property Number: 21200510059

Status: Unutilized

Comment: 5311 sq. ft., needs rehab, most recent use—gen. inst., off-site use only

Bldg. 01678

Fort Benning

Ft. Benning Co: Chattachoochee GA 31905-

Landholding Agency: Army

Property Number: 21200510060

Status: Unutilized

Comment: 6488 sq. ft., needs rehab, most recent use—gen. inst., off-site use only

Bldg. 05887

Fort Benning

Ft. Benning Co: Chattachoochee GA 31905-

Landholding Agency: Army

Property Number: 21200510061

Status: Unutilized

Comment: 1344 sq. ft., needs rehab, most recent use—admin., off-site use only

Bldg. 01305

Hunter Army Airfield

Chatham Co: GA 31409-

Landholding Agency: Army

Property Number: 21200510063

Status: Excess

Comment: 400 sq. ft., most recent use—general purpose, off-site use only

Bldg. 00285

Fort Stewart

Ft. Stewart Co: Liberty GA 31314-

Landholding Agency: Army

Property Number: 21200510064

Status: Excess

Comment: 6087 sq. ft., most recent use—police station, off-site use only

Idaho

Bldg. CFA-613

Central Facilities Area

Idaho National Engineering Lab

Scoville Co: Butte ID 83415-

Landholding Agency: Energy

Property Number: 41199630001

Status: Unutilized

Comment: 1219 sq. ft., most recent use—sleeping quarters, presence of asbestos, off-site use only

Illinois

Bldg. 7

Ohio River Locks & Dam No. 53

Grand Chain Co: Pulaski IL 62941-9801

Location: Ohio River Locks and Dam No. 53 at Grand Chain

Landholding Agency: COE

Property Number: 31199010001

Status: Unutilized

Comment: 900 sq. ft.; 1 floor wood frame; most recent use—residence

Bldg. 6

Ohio River Locks & Dam No. 53

Grand Chain Co: Pulaski IL 62941-9801

Location: Ohio River Locks and Dam No. 53 at Grand Chain

Landholding Agency: COE

Property Number: 31199010002

Status: Unutilized

Comment: 900 sq. ft.; one floor wood frame; most recent use—residence

Bldg. 5

Ohio River Locks & Dam No. 53

Grand Chain Co: Pulaski IL 62941-9801

Location: Ohio River Locks and Dam No. 53 at Grand Chain

Landholding Agency: COE

Property Number: 31199010003

Status: Unutilized

Comment: 900 sq. ft.; one floor wood frame; most recent use—residence

Bldg. 4

Ohio River Locks & Dam No. 53

Grand Chain Co: Pulaski IL 62941-9801

Location: Ohio River Locks and Dam No. 53 at Grand Chain

Landholding Agency: COE

Property Number: 31199010004

Status: Unutilized

Comment: 900 sq. ft.; one floor wood frame; most recent use—residence

Bldg. 3

Ohio River Locks & Dam No. 53

Grand Chain Co: Pulaski IL 62941-9801

Location: Ohio River Locks and Dam No. 53 at Grand Chain

Landholding Agency: COE

Property Number: 31199010005

Status: Unutilized

Comment: 900 sq. ft.; one floor wood frame

Bldg. 2

Ohio River Locks & Dam No. 53

Grand Chain Co: Pulaski IL 62941-9801

Location: Ohio River Locks and Dam No. 53 at Grand Chain

Landholding Agency: COE

Property Number: 31199010006

Status: Unutilized

Comment: 900 sq. ft.; one floor wood frame; most recent use—residence

Bldg. 1

Ohio River Locks & Dam No. 53

Grand Chain Co: Pulaski IL 62941-9801

Location: Ohio River Locks and Dam No. 53 at Grand Chain

Landholding Agency: COE

Property Number: 31199010007

Status: Unutilized

Comment: 900 sq. ft.; one floor wood frame; most recent use—residence

Michigan

Bldg. 00001

Sheridan Hall USARC

501 Euclid Avenue

Helena Co: Lewis & Clark MI 59601-2865

Landholding Agency: Army

Property Number: 21200510066

Status: Unutilized

Comment: 19,321 sq. ft., most recent use—reserve center

Minnesota

MG Clement Trott Mem. USARC

Walker Co: Cass MN 56484-

Landholding Agency: GSA

Property Number: 54199930003

Status: Excess

Comment: 4320 sq. ft. training center and 1316 sq. ft. vehicle maintenance shop, presence of environmental conditions

GSA Number: 1-D-MN-575

Missouri

Hardesty Federal Complex

607 Hardesty Avenue

Kansas City Co: Jackson MO 64124-3032

Landholding Agency: GSA

Property Number: 54199940001

Status: Excess

Comment: 7 warehouses and support buildings (540 to 216,000 sq. ft.) on 17.47 acres, major rehab, most recent use—storage/office, utilities easement

GSA Number: 7-G-MO-637

New Jersey

Parcels 3, 4, 5

Former Coast Guard Station

Beach Haven Co: Ocean NJ 08008-

Landholding Agency: GSA

Property Number: 54200420005

Status: Excess

Comment: 11,644 sq. ft. bldg. w/1.4 acres, within floodplain, environmental considerations, legal restrictions, storage tank

GSA Number: 1-U-NJ-499B

New York

Social Sec. Admin. Bldg.

517 N. Barry St.

Olean NY 10278-0004

Landholding Agency: GSA

Property Number: 54200230009

Status: Excess

Comment: 9174 sq. ft., poor condition, most recent use—office

GSA Number: 1-G-NY-0895

Hancock Army Complex

Track 4

Stewart Drive West

Cicero Co: Onondaga NY 13039-

Landholding Agency: GSA

Property Number: 54200310013

Status: Excess

Comment: 3 bunker-style structures and several small outbuildings, presence of asbestos, possible lead paint, most recent use—admin/training/storage

GSA Number: 1-D-NY-803

Ohio

Bldg.—Berlin Lake

7400 Bedell Road

Berlin Center Co: Mahoning OH 44401-9797

Landholding Agency: COE

Property Number: 31199640001

Status: Unutilized

Comment: 1420 sq. ft., 2-story brick w/garage and basement, most recent use—residential, secured w/alternate access

Pennsylvania

Tract 403A

Grays Landing Lock & Dam Project

Greensboro Co: Greene PA 15338-

Landholding Agency: COE

Property Number: 31199430021

Status: Unutilized

Comment: 620 sq. ft., 2-story, needs repair, most recent use—residential, if used for habitation must be flood proofed or removed off-site

Tract 403B

Grays Landing Lock & Dam Project

Greensboro Co: Greene PA 15338-

Landholding Agency: COE

Property Number: 31199430022

Status: Unutilized

Comment: 1600 sq. ft., 2-story, brick structure, needs repair, most recent use—residential, if used for habitation must be flood proofed or removed off-site

Tract 403C

Grays Landing Lock & Dam Project

Greensboro Co: Greene PA 15338-

Landholding Agency: COE

Property Number: 31199430023

Status: Unutilized

Comment: 672 sq. ft., 2-story carriage house/stable barn type structure, needs repair, most recent use—storage/garage, if used for habitation must be flood proofed or removed

Tennessee

3 Facilities, Guard Posts

Volunteer Army Ammunition Plant

Chattanooga Co: Hamilton TN 37421-

Landholding Agency: GSA

Property Number: 54199930011

Status: Surplus

Comment: 48-64 sq. ft., most recent use—access control, property was published in error as available on 2/11/00

GSA Number: 4-D-TN-594F

Federal Building

204 North Second Street

Clarksville Co: Montgomery TN 37040-

Landholding Agency: GSA

Property Number: 54200430003

Status: Excess

Comment: 13429 gross sq. ft., presence of asbestos, possible lead paint, most recent use—office, historic preservation covenants

GSA Number: 4-G-TN-0654

West Virginia

Social Security Bldg.

50 16th Street

Wheeling Co: Ohio WV 25301-

Landholding Agency: GSA

Property Number: 54200430019

Status: Excess

Comment: 4975 sq. ft., presence of asbestos, most recent use—office

GSA Number: 4-G-WV-0549

Land (by State)

Illinois

Lake Shelbyville

Shelbyville Co: Shelby & Moultrie IL 62565-9804

Landholding Agency: COE

Property Number: 31199240004

Status: Unutilized

Comment: 5 parcels of land equalling 0.70 acres, improved w/4 small equipment storage bldgs. and a small access road, easement restrictions

Michigan

IOM Site

Chesterfield Road

Chesterfield Co: Macomb MI-

Landholding Agency: GSA

Property Number: 54200340008

Status: Excess

Comment: Approx. 17.4 acres w/concrete block bldg. in poor condition, most recent use—radio antenna field, narrow right-of-way

GSA Number: 1-D-MI-0603F

Pennsylvania

East Branch Clarion River Lake

Wilcox Co: Elk PA

Location: Free camping area on the right bank off entrance roadway

Landholding Agency: COE

Property Number: 31199011012

Status: Underutilized

Comment: 1 acre; most recent use—free campground

Dashields Locks and Dam (Glenwillard, PA)

Crescent Twp. Co: Allegheny PA 15046-0475

Landholding Agency: COE

Property Number: 31199210009

Status: Unutilized

Comment: 0.58 acres, most recent use—baseball field

Suitable/To Be Excessed

Land (by State)

Georgia

Lake Sidney Lanier

Co: Forsyth GA 30130-

Location: Located on Two Mile Creek adj. to State Route 369

Landholding Agency: COE

Property Number: 31199440010

Status: Unutilized

Comment: 0.25 acres, endangered plant species

Lake Sidney Lanier—3 parcels

Gainesville Co: Hall GA 30503-

Location: Between Gainesville H.S. and State Route 53 By-Pass

Landholding Agency: COE

Property Number: 31199440011

Status: Unutilized

Comment: 3 parcels totalling 5.17 acres, most recent use—buffer zone, endangered plant species

Kansas

Parcel #1

Fall River Lake

Section 26

Co: Greenwood KS

Landholding Agency: COE

Property Number: 31199010065

Status: Unutilized

Comment: 126.69 acres; most recent use—recreation and leased cottage sites.

Parcel No. 2, El Dorado Lake

Approx. 1 mi east of the town of El Dorado

Co: Butler KS

Landholding Agency: COE

Property Number: 31199210005

Status: Unutilized

Comment: 11 acres, part of a relocated railroad bed, rural area

Massachusetts

Buffumville Dam

Flood Control Project

Gale Road

Carlton Co: Worcester MA 01540-0155

Location: Portion of tracts B-200, B-248, B-251, B-204, B-247, B-200 and B-256

Landholding Agency: COE

Property Number: 31199010016

Status: Excess

Comment: 1.45 acres

Tennessee

Tract D-456

Cheatham Lock and Dam

Ashland Co: Cheatham TN 37015-

Location: Right downstream bank of Sycamore Creek

Landholding Agency: COE

Property Number: 31199010942

Status: Excess

Comment: 8.93 acres; subject to existing easements

Texas

Corpus Christi Ship Channel

Corpus Christi Co: Neuces TX

Location: East side of Carbon Plant Road, approx. 14 miles NW of downtown Corpus Christi

Landholding Agency: COE

Property Number: 31199240001

Status: Unutilized

Comment: 4.4 acres, most recent use—farm land

Unsuitable Properties

Buildings (by State)

Arkansas

Dwelling

Bull Shoals Lake/Dry Run Road

Oakland Co: Marion AR 72661-

Landholding Agency: COE

Property Number: 31199820001

Status: Unutilized

Reason: Extensive deterioration

Helena Casting Plant

Helena Co: Phillips AR 72342-

Landholding Agency: COE

Property Number: 31200220001

Status: Unutilized

Reason: Extensive deterioration

California

Bldg. 00635

Parks Reserve Forces

Training Area

Dublin Co: Alameda CA 94568-

Landholding Agency: Army

Property Number: 21200510071

Status: Unutilized

Reason: Extensive deterioration

Bldg. 00796

Parks Reserve Forces

Training Area

Dublin Co: Alameda CA 94568-

Landholding Agency: Army

Property Number: 21200510072

Status: Unutilized

Reason: Extensive deterioration

Soil & Materials Testing Lab

Sausalito CA 00000-

Landholding Agency: COE

Property Number: 31199920002

Status: Excess

Reason: Contamination

Bldgs. M03, MO14, MO17

Sandia National Lab

Livermore Co: Alameda CA 94550-

Landholding Agency: Energy

Property Number: 41200220001

Status: Excess

Reason: Extensive deterioration

Bldgs. 9163, 962, 9621

Sandia National Lab

Livermore Co: Alameda CA 94551-

Landholding Agency: Energy

Property Number: 41200420001

Status: Unutilized

Reason: Secured Area

Bldg. 29D

Berkeley National Lab

Berkeley Co: Alameda CA 94720-

Landholding Agency: Energy

Property Number: 41200430070

Status: Excess

Reason: Extensive deterioration

Mobile Home/T00706

Yosemite Natl Park

5001 Trailer Court

El Portal Co: Mariposa CA 95318-

Landholding Agency: Interior

Property Number: 61200340009

Status: Unutilized

Reason: Extensive deterioration

133/215 Conlon

Golden Gate Natl Rec Area

Mill Valley Co: Marin CA 94941-

Landholding Agency: Interior

Property Number: 61200340011

Status: Unutilized

Reason: Extensive deterioration

Bldg. 3410

Yosemite National Park

Vogelsang

Yosemite Co: Mariposa CA 95389-

Landholding Agency: Interior

Property Number: 61200420008

Status: Unutilized

Reason: Extensive deterioration

Bldgs. 06240 thru 06245

Yosemite National Park

Tamarack Flat

Yosemite Co: Mariposa CA 95389-

Landholding Agency: Interior

Property Number: 61200420009

Status: Unutilized

Reason: Extensive deterioration

Bldg./Lodge

Yosemite National Park

Yosemite Co: Mariposa CA 95389-

Landholding Agency: Interior

Property Number: 61200420011

Status: Unutilized

Reason: Extensive deterioration

Bldgs. 412-414

Yosemite National Park

Lower Pines

Yosemite Co: Mariposa CA 95389-

Landholding Agency: Interior

Property Number: 61200430001

Status: Unutilized

Reason: Extensive deterioration

Bldg. 416

Yosemite National Park

Lower Pines

Yosemite Co: Mariposa CA 95389-

Landholding Agency: Interior

Property Number: 61200430002

Status: Unutilized

Reason: Extensive deterioration

Bldgs. 421-424

Yosemite National Park

Upper River

Yosemite Co: Mariposa CA 95389-

Landholding Agency: Interior

Property Number: 61200430003

Status: Unutilized

Reason: Extensive deterioration

Bldgs. 428-432

Yosemite National Park

Lower River

Yosemite Co: Mariposa CA 95389-

Landholding Agency: Interior

Property Number: 61200430004

Status: Unutilized

Reason: Extensive deterioration

Bldgs. 451, 452

Yosemite National Park

Group Campgrounds

Yosemite Co: Mariposa CA 95389-

Landholding Agency: Interior

Property Number: 61200430005

Status: Unutilized

Reason: Extensive deterioration

Bldg. 438

Golden Gate Natl Rec

Camino Del Canyon

Mill Valley Co: Marin CA 94941-

Landholding Agency: Interior

Property Number: 61200430012

Status: Unutilized

Reason: Extensive deterioration

Bldg. 490

Golden Gate Natl Rec

Camino Del Canyon

Mill Valley Co: Marin CA 94941-

Landholding Agency: Interior

Property Number: 61200430013

Status: Unutilized

Reason: Extensive deterioration

Bldgs. 666A, 666B

Golden Gate Natl Rec

Camino Del Canyon

Mill Valley Co: Marin CA 94941-

Landholding Agency: Interior

Property Number: 61200430014

Status: Unutilized

Reason: Extensive deterioration

Bldg. 690

Golden Gate Natl Rec

Camino Del Canyon

Mill Valley Co: Marin CA 94941-

Landholding Agency: Interior

Property Number: 61200430015

Status: Unutilized

Reason: Extensive deterioration

Tract 113-65

Santa Monica Mountains

National Recreation

Malibu Co: Los Angeles CA 90265-

Landholding Agency: Interior

Property Number: 61200430018

Status: Unutilized

Reason: Extensive deterioration

Bldg. YLS-001

Yosemite National Park

Yosemite Lodge

Mariposa Co: CA 95389-

Landholding Agency: Interior

Property Number: 61200430026

Status: Unutilized

Reason: Extensive deterioration

Bldg. YLS-004

Yosemite National Park

Yosemite Lodge

Mariposa Co: CA 95389-

Landholding Agency: Interior

Property Number: 61200430027

Status: Unutilized

Reason: Extensive deterioration

Bldg. YLE069

Yosemite National Park

Yosemite Lodge

Mariposa Co: CA 95389-

Landholding Agency: Interior

Property Number: 61200430028

Status: Unutilized

Reason: Extensive deterioration

Bldg. 1000 A & B

Yosemite National Park

Yosemite Lodge

Mariposa Co: CA 95389-

Landholding Agency: Interior

Property Number: 61200430029

Status: Unutilized

Reason: Extensive deterioration

Bldgs. 1000C, 1000D

Yosemite National Park

Yosemite Lodge

Mariposa Co: CA 95389-

Landholding Agency: Interior

Property Number: 61200430030

Status: Unutilized

Reason: Extensive deterioration

Post Office

Yosemite National Park

Yosemite Lodge

Mariposa Co: CA 95389-

Landholding Agency: Interior

Property Number: 61200430031

Status: Unutilized

Reason: Extensive deterioration

Boiler Room

Yosemite National Park

Yosemite Lodge

Mariposa Co: CA 95389-

Landholding Agency: Interior

Property Number: 61200430032

Status: Unutilized

Reason: Extensive deterioration

Bldg. 4177

Yosemite National Park

Mariposa Co: CA 95389-

Landholding Agency: Interior

Property Number: 61200430036

Status: Unutilized

Reason: Extensive deterioration

Bldg. 4153

Yosemite National Park

Mariposa Co: CA 95389-

Landholding Agency: Interior

Property Number: 61200430037

Status: Unutilized

Reason: Extensive deterioration

Bldg. 4205

Yosemite National Park

Mariposa Co: CA 95389-

Landholding Agency: Interior

Property Number: 61200430038

Status: Unutilized

Reason: Extensive deterioration

Bldg. 4730

Yosemite National Park

Mariposa Co: CA 95389-

Landholding Agency: Interior

Property Number: 61200430039

Status: Unutilized

Reason: Extensive deterioration

Bldgs. 4176, 4183

Yosemite National Park

Wawona Co: Mariposa CA 95389-

Landholding Agency: Interior

Property Number: 61200430040

Status: Unutilized

Reason: Extensive deterioration

Randa House

National Recreation Area

Agoura Hills Co: Los Angeles CA 91301-

Landholding Agency: Interior

Property Number: 61200510003

Status: Unutilized

Reason: Extensive deterioration

Bldg. 652

Naval Air Station

North Island Co: CA

Landholding Agency: Navy

Property Number: 77200430001

Status: Excess

Reason: Extensive deterioration

Bldg. 2486

Marine Corps Base

Camp Pendleton Co: CA 92055-

Landholding Agency: Navy

Property Number: 77200430002

Status: Excess

Reason: Extensive deterioration

Bldg. 13140

Marine Corps Base

Camp Pendleton Co: CA 92055-

Landholding Agency: Navy

Property Number: 77200430003

Status: Excess

Reason: Extensive deterioration

Bldgs. 22141, 22142

Marine Corps Base

Camp Pendleton Co: CA 92055-

Landholding Agency: Navy

Property Number: 77200430004

Status: Excess

Reason: Extensive deterioration

Bldg. 25170

Marine Corps Base

Camp Pendleton Co: CA 92055-

Landholding Agency: Navy

Property Number: 77200430005

Status: Excess

Reason: Extensive deterioration

Bldgs. 31340, 31341

Marine Corps Base

Camp Pendleton Co: CA 92055-

Landholding Agency: Navy

Property Number: 77200430006

Status: Excess

Reason: Extensive deterioration

Bldg. 52652

Marine Corps Base

Camp Pendleton Co: CA 92055-

Landholding Agency: Navy

Property Number: 77200430007

Status: Excess

Reason: Extensive deterioration

Bldg. 2

Naval Base

Point Loma Co: CA

Landholding Agency: Navy

Property Number: 77200430054

Status: Excess

Reasons: Within 2000 ft. of flammable or explosive material, Secured Area, Extensive deterioration

4 Bldgs.

Naval Base

Port Hueneme Co: Ventura CA 93043-

Location: PH-1413, PH-1254, PH-1323, PH-1162

Landholding Agency: Navy

Property Number: 77200430055

Status: Unutilized

Reason: Secured Area

Bldg. 03890

Naval Air Weapons Station

China Lake Co: CA 93555-

Landholding Agency: Navy

Property Number: 77200430056

Status: Excess

Reason: Extensive deterioration

Bldg. 440

Naval Base Point Loma

Fleet Warfare Center

San Diego Co: CA

Landholding Agency: Navy

Property Number: 77200440002

Status: Excess

Reason: Extensive deterioration

Bldgs. 20, 25

Naval Base Point Loma

San Diego Co: CA

Landholding Agency: Navy

Property Number: 77200440016

Status: Unutilized

Reason: Extensive deterioration

Colorado

Bldg. 34

Grand Junction Projects Office

Grand Junction Co: Mesa CO 81503-

Landholding Agency: Energy

Property Number: 41199540001

Status: Underutilized

Reasons: Contamination, Secured Area

Bldg. 35

Grand Junction Projects Office

Grand Junction Co: Mesa CO 81503-

Landholding Agency: Energy

Property Number: 41199540002

Status: Underutilized

Reasons: Contamination, Secured Area

Bldg. 36

Grand Junction Projects Office

Grand Junction Co: Mesa CO 81503-

Landholding Agency: Energy

Property Number: 41199540003

Status: Underutilized

Reasons: Contamination, Secured Area

Bldg. 727

Rocky Flats Environmental Tech Site

Golden Co: Jefferson CO 80020-

Landholding Agency: Energy

Property Number: 41199910001

Status: Unutilized

Reasons: Within 2000 ft. of flammable or explosive material, Secured Area

Bldg. 717

Rocky Flats Env. Tech Site

Golden Co: Jefferson CO 80020-

Landholding Agency: Energy

Property Number: 41199930022

Status: Underutilized

Reasons: Within 2000 ft. of flammable or explosive material, Secured Area

Bldg. 770

Rocky Flats Env. Tech Site

Golden Co: Jefferson CO 80020-

Landholding Agency: Energy

Property Number: 41199930023

Status: Underutilized

Reasons: Within 2000 ft. of flammable or explosive material, Secured Area

Bldg. 771

Rocky Flats Env. Tech Site

Golden Co: Jefferson CO 80020-

Landholding Agency: Energy

Property Number: 41199930024

Status: Underutilized

Reasons: Within 2000 ft. of flammable or explosive material, Secured Area

Bldg. 771B

Rocky Flats Env. Tech Site

Golden Co: Jefferson CO 80020-

Landholding Agency: Energy

Property Number: 41199930025

Status: Underutilized

Reasons: Within 2000 ft. of flammable or explosive material, Secured Area

Bldg. 771C

Rocky Flats Env. Tech Site

Golden Co: Jefferson CO 80020-

Landholding Agency: Energy

Property Number: 41199930026

Status: Underutilized

Reasons: Within 2000 ft. of flammable or explosive material, Secured Area

Bldg. 774

Rocky Flats Env. Tech Site

Golden Co: Jefferson CO 80020-

Landholding Agency: Energy

Property Number: 41199930029

Status: Underutilized

Reasons: Within 2000 ft. of flammable or explosive material, Secured Area

Bldg. 776

Rocky Flats Environmental Tech Site

Golden Co: Jefferson CO 80020-

Landholding Agency: Energy

Property Number: 41200010001

Status: Excess

Reasons: Within 2000 ft. of flammable or explosive material, Secured Area

Bldg. 777

Rocky Flats Environmental Tech Site

Golden Co: Jefferson CO 80020-

Landholding Agency: Energy

Property Number: 41200010002

Status: Excess

Reasons: Within 2000 ft. of flammable or explosive material, Secured Area

Bldg. 778

Rocky Flats Environmental Tech Site

Golden Co: Jefferson CO 80020-

Landholding Agency: Energy

Property Number: 41200010003

Status: Excess

Reasons: Within 2000 ft. of flammable or explosive material, Secured Area

Structure 771 TUN

Rocky Flats Environmental Tech Site

Golden Co: Jefferson CO 80020-

Landholding Agency: Energy

Property Number: 41200010006

Status: Excess

Reasons: Within 2000 ft. of flammable or explosive material, Secured Area

Bldgs. 124, 129

Rocky Flats Env. Tech. Site

Golden Co: Jefferson CO 80020-

Landholding Agency: Energy

Property Number: 41200220002

Status: Excess

Reasons: Within 2000 ft. of flammable or explosive material, Secured Area

Bldgs. 371, 374, 374A

Rocky Flats Env. Tech. Site

Golden Co: Jefferson CO 80020-

Landholding Agency: Energy

Property Number: 41200220003

Status: Excess

Reasons: Within 2000 ft. of flammable or explosive material, Secured Area

Bldgs. 561, 562

Rocky Flats Env. Tech. Site

Golden Co: Jefferson CO 80020-

Landholding Agency: Energy

Property Number: 41200220007

Status: Excess

Reasons: Within 2000 ft. of flammable or explosive material, Secured Area

Bldgs. 701, 705-708

Rocky Flats Env. Tech. Site

Golden Co: Jefferson CO 80020-

Landholding Agency: Energy

Property Number: 41200220011

Status: Excess

Reasons: Within 2000 ft. of flammable or explosive material, Secured Area

Bldgs. 714, 715, 718

Rocky Flats Env. Tech. Site

Golden Co: Jefferson CO 80020-

Landholding Agency: Energy

Property Number: 41200220012

Status: Excess

Reasons: Within 2000 ft. of flammable or explosive material, Secured Area

Bldgs. 731, 732

Rocky Flats Env. Tech. Site

Golden Co: Jefferson CO 80020-

Landholding Agency: Energy

Property Number: 41200220013

Status: Excess

Reasons: Within 2000 ft. of flammable or explosive material, Secured Area

Bldgs. 881, 881F, 881H

Rocky Flats Env. Tech. Site

Golden Co: Jefferson CO 80020-

Landholding Agency: Energy

Property Number: 41200220018

Status: Excess

Reasons: Within 2000 ft. of flammable or explosive material, Secured Area

Bldgs. 883-885, 887

Rocky Flats Env. Tech. Site

Golden Co: Jefferson CO 80020-

Landholding Agency: Energy

Property Number: 41200220019

Status: Excess

Reasons: Within 2000 ft. of flammable or explosive material, Secured Area

Bldg. 891

Rocky Flats Env. Tech. Site

Golden Co: Jefferson CO 80020-

Landholding Agency: Energy

Property Number: 41200220020

Status: Excess

Reasons: Within 2000 ft. of flammable or explosive material, Secured Area

Bldgs. 120, 120B

Rocky Flats Env Tech Site

Golden Co: Jefferson CO 80020-

Landholding Agency: Energy

Property Number: 41200340004

Status: Excess

Reason: Secured Area

Bldgs. 121, 122, 122S

Rocky Flats Env. Tech. Site

Golden Co: Jefferson CO 80020-

Landholding Agency: Energy

Property Number: 41200340005

Status: Excess

Reasons: Within 2000 ft. of flammable or explosive material, Secured Area

Bldg. 223

Rocky Flats Env Tech Site

Golden Co: Jefferson CO 80020-

Landholding Agency: Energy

Property Number: 41200340008

Status: Excess

Reasons: Within 2000 ft. of flammable or explosive material, Secured Area

Bldgs. 331, 331A

Rocky Flats Env Tech Site

Golden Co: Jefferson CO 80020-

Landholding Agency: Energy

Property Number: 41200340010

Status: Excess

Reasons: Within 2000 ft. of flammable or explosive material, Secured Area

Bldgs. 444, 445

Rocky Flats Env Tech Site

Golden Co: Jefferson CO 80020-

Landholding Agency: Energy

Property Number: 41200340013

Status: Excess

Reasons: Within 2000 ft. of flammable or explosive material, Secured Area

Bldgs. 447, 448

Rocky Flats Env Tech Site

Golden Co: Jefferson CO 80020-

Landholding Agency: Energy

Property Number: 41200340014

Status: Excess

Reasons: Within 2000 ft. of flammable or explosive material, Secured Area

Bldg. 460

Rocky Flats Env Tech Site

Golden Co: Jefferson CO 80020-

Landholding Agency: Energy

Property Number: 41200340016

Status: Excess

Reasons: Within 2000 ft. of flammable or explosive material, Secured Area

Bldgs. 920, 920B

Rocky Flats Env Tech Site

Golden Co: Jefferson CO 80020-

Landholding Agency: Energy

Property Number: 41200340019

Status: Excess

Reason: Secured Area

Loveland Substation

Loveland Co: Larimer CO 80537-

Landholding Agency: GSA

Property Number: 54200440007

Status: Surplus

Reason: Secured Area

GSA Number: 7-B-CO-0654

Pueblo Substation

Pueblo Co: CO 81006-

Landholding Agency: GSA

Property Number: 54200440008

Status: Underutilized

Reason: Secured Area

GSA Number: 7-B-CO-0653

Connecticut

Hezekiah S. Ramsdell Farm

West Thompson Lake

North Grosvenordale Co: Windham CT 06255-9801

Landholding Agency: COE

Property Number: 31199740001

Status: Unutilized

Reasons: Floodway, Extensive deterioration

Bldgs. 25 and 26

Prospect Hill Road

Windsor Co: Hartford CT 06095-

Landholding Agency: Energy

Property Number: 41199440003

Status: Excess

Reason: Secured Area

9 Bldgs.

Knolls Atomic Power Lab, Windsor Site

Windsor Co: Hartford CT 06095-

Landholding Agency: Energy

Property Number: 41199540004

Status: Excess

Reason: Secured Area

Bldg. 8, Windsor Site

Knolls Atomic Power Lab

Windsor Co: Hartford CT 06095-

Landholding Agency: Energy

Property Number: 41199830006

Status: Unutilized

Reason: Extensive deterioration

Florida

Bldg. SF-15

Sub-Office Operations

Clewiston Co: Hendry FL 33440-

Landholding Agency: COE

Property Number: 31200430003

Status: Unutilized

Reasons: Secured Area, Extensive deterioration

Bldg. SF-16

Sub-Office Operations

Clewiston Co: Hendry FL 33440-

Landholding Agency: COE

Property Number: 31200430004

Status: Unutilized

Reason: Secured Area

Bldg. SF-17

Sub-Office Operations

Clewiston Co: Hendry FL 33440-

Landholding Agency: COE

Property Number: 31200430005

Status: Unutilized

Reasons: Secured Area, Extensive deterioration

Bldgs. 1559, 1963

Naval Station

Mayport Co: Duval FL 32228-

Landholding Agency: Navy

Property Number: 77200430008

Status: Unutilized

Reasons: Within 2000 ft. of flammable or explosive material, Secured Area

Georgia

Prop. ID HAR18015

Hartwell Project

Hartwell GA 30643-

Landholding Agency: COE

Property Number: 31200310001

Status: Unutilized

Reason: Extensive deterioration

Prop. ID RBR17830

Russell Dam Dr.

Elberton GA 30635-

Landholding Agency: COE

Property Number: 31200310002

Status: Unutilized

Reason: Secured Area

Prop. ID RBR17832

Russell Dam Drive

Elberton GA 30635-

Landholding Agency: COE

Property Number: 31200310003

Status: Unutilized

Reason: Secured Area

Bldg. #WRSH18

West Point Lake

West Point Co: GA 31833-

Landholding Agency: COE

Property Number: 31200430006

Status: Unutilized

Reason: Secured Area

Bldg. W03

West Point Lake

West Point Co: GA 31833-

Landholding Agency: COE

Property Number: 31200430007

Status: Unutilized

Reasons: Within 2000 ft. of flammable or explosive material, Secured Area, Extensive deterioration

Gatehouse #W03

West Point Lake

West Point Co: GA 31833-9517

Landholding Agency: COE

Property Number: 31200510001

Status: Unutilized

Reason: Extensive deterioration

WRSH14, WRSH15, WRSH18

West Point Lake

West Point Co: GA 31833-9517

Landholding Agency: COE

Property Number: 31200510002

Status: Unutilized

Reason: Extensive deterioration

Quarters #7

Chattahoochee River Natl Rec Area

Atlanta Co: Cobb GA 30350-

Landholding Agency: Interior

Property Number: 61200510001

Status: Unutilized

Reason: Extensive deterioration

Guam

Bldg. 262

Naval Forces

Marianas Co: Waterfront GU

Landholding Agency: Navy

Property Number: 77200410027

Status: Excess

Reason: Extensive deterioration

Bldg. 369A

Naval Forces

Marianas Co: Waterfront GU

Landholding Agency: Navy

Property Number: 77200410028

Status: Excess

Reason: Extensive deterioration

Bldg. 739

Naval Forces

Marianas Co: Waterfront GU

Landholding Agency: Navy

Property Number: 77200410029

Status: Excess

Reason: Extensive deterioration

Bldg. 741

Naval Forces

Marianas Co: Waterfront GU

Landholding Agency: Navy

Property Number: 77200410030

Status: Excess

Reason: Extensive deterioration

Bldg. 865

Naval Forces

Marianas Co: Waterfront GU

Landholding Agency: Navy

Property Number: 77200410031

Status: Excess

Reason: Extensive deterioration

Bldg. 3011

Naval Forces

Marianas Co: Waterfront GU

Landholding Agency: Navy

Property Number: 77200410032

Status: Excess

Reason: Extensive deterioration

Bldg. 464

Naval Forces

Marianas Co: Waterfront GU

Landholding Agency: Navy

Property Number: 77200410041

Status: Excess

Reason: Extensive deterioration

Bldgs. 122, 171, 198

U.S. Naval Forces

Dededo Co: GU 96540-

Landholding Agency: Navy

Property Number: 77200510001

Status: Unutilized

Reason: Secured Area

Bldg. 224B

U.S. Naval Forces

Dededo Co: GU 96540-

Landholding Agency: Navy

Property Number: 77200510002

Status: Unutilized

Reason: Secured Area

Bldgs. 286, 295

U.S. Naval Forces

Dededo Co: GU 96540-

Landholding Agency: Navy

Property Number: 77200510003

Status: Unutilized

Reason: Secured Area

Bldgs. 304, 322, 387

U.S. Naval Forces

Dededo Co: GU 96540-

Landholding Agency: Navy

Property Number: 77200510004

Status: Unutilized

Reason: Secured Area

Bldgs. 451, 454

U.S. Naval Forces

Dededo Co: GU 96540-

Landholding Agency: Navy

Property Number: 77200510005

Status: Unutilized

Reason: Secured Area

Bldg. 467

U.S. Naval Forces

Dededo Co: GU 96540-

Landholding Agency: Navy

Property Number: 77200510006

Status: Unutilized

Reason: Secured Area

Bldgs. 488, 489

U.S. Naval Forces

Dededo Co: GU 96540-

Landholding Agency: Navy

Property Number: 77200510007

Status: Unutilized

Reason: Secured Area

Hawaii

Bldg. 621

Naval Station, Pearl Harbor

Honolulu HI 96860-

Landholding Agency: Navy

Property Number: 77200310001

Status: Excess

Reason: Extensive deterioration

Bldg. 517

Naval Station

Beckoning Point

Pearl Harbor Co: Honolulu HI 96860-

Landholding Agency: Navy

Property Number: 77200430010

Status: Excess

Reason: Extensive deterioration

Bldg. 79

Naval Station

Ford Island Co: Pearl Harbor HI 96860-

Landholding Agency: Navy

Property Number: 77200430029

Status: Underutilized

Reason: Secured Area

Bldg. 62NS

Naval Station

Beckoning Point

Pearl Harbor Co: Honolulu HI 96860-

Landholding Agency: Navy

Property Number: 77200440003

Status: Unutilized

Reason: Secured Area

Bldg. 63NS

Naval Station

Beckoning Point

Pearl Harbor Co: Honolulu HI 96860-

Landholding Agency: Navy

Property Number: 77200440004

Status: Unutilized

Reason: Secured Area

Idaho

Bldg. AFD0070

Albeni Falls Dam

Oldtown Co: Bonner ID 83822-

Landholding Agency: COE

Property Number: 31199910001

Status: Unutilized

Reason: Extensive deterioration

Bldg. CPP-691

Idaho National Engineering Laboratory

Scoville Co: Butte ID 83415-

Landholding Agency: Energy

Property Number: 41199610003

Status: Unutilized

Reason: Secured Area

Bldg. TAN-636

Idaho National Engineering Laboratory

Scoville Co: Butte ID 83415-

Landholding Agency: Energy

Property Number: 41199610008

Status: Unutilized

Reason: Secured Area

Bldg. TAN-670

Idaho National Engineering Laboratory

Scoville Co: Butte ID 83415-

Landholding Agency: Energy

Property Number: 41199610010

Status: Unutilized

Reason: Secured Area

Bldg. TRA-669

Idaho National Engineering Laboratory

Scoville Co: Butte ID 83415-

Landholding Agency: Energy

Property Number: 41199610013

Status: Unutilized

Reason: Secured Area

Bldg. TAN-637

Idaho National Engineering Laboratory

Scoville Co: Butte ID 83415-

Landholding Agency: Energy

Property Number: 41199610014

Status: Unutilized

Reason: Secured Area

Bldg. TAN-651

Idaho National Engineering Laboratory

Scoville Co: Butte ID 83415-

Landholding Agency: Energy

Property Number: 41199610017

Status: Unutilized

Reason: Secured Area

Bldg. TRA-673

Idaho National Engineering Laboratory

Scoville Co: Butte ID 83415-

Landholding Agency: Energy

Property Number: 41199610018

Status: Unutilized

Reason: Secured Area

Bldg. PBF-620

Idaho National Engineering Laboratory

Scoville Co: Butte ID 83415-

Landholding Agency: Energy

Property Number: 41199610019

Status: Unutilized

Reason: Secured Area

Bldg. PBF-619

Idaho National Engineering Laboratory

Scoville Co: Butte ID 83415-

Landholding Agency: Energy

Property Number: 41199610022

Status: Unutilized

Reason: Secured Area

Bldg. PBF-625

Idaho National Engineering Laboratory

Scoville Co: Butte ID 83415-

Landholding Agency: Energy

Property Number: 41199610024

Status: Unutilized

Reason: Secured Area

Bldg. PBF-629

Idaho National Engineering Laboratory

Scoville Co: Butte ID 83415-

Landholding Agency: Energy

Property Number: 41199610025

Status: Unutilized

Reason: Secured Area

Bldg. PBF-604

Idaho National Engineering Laboratory

Scoville Co: Butte ID 83415-

Landholding Agency: Energy

Property Number: 41199610026

Status: Unutilized

Reason: Secured Area

Bldg. TRA-641

Idaho National Engineering Laboratory

Scoville Co: Butte ID 83415-

Landholding Agency: Energy

Property Number: 41199610034

Status: Unutilized

Reason: Secured Area

Bldg. CF-606

Idaho National Engineering Laboratory

Scoville Co: Butte ID 83415-

Landholding Agency: Energy

Property Number: 41199610037

Status: Unutilized

Reason: Secured Area

8 Bldgs.

Idaho Natl Engineering & Environmental Lab Test Reactor North

Scoville Co: Butte ID 83415-

Location: TRA 643, 644, 655, 660, 704-706, 755

Landholding Agency: Energy

Property Number: 41199830003

Status: Excess

Reasons: Within 2000 ft. of flammable or explosive material, Secured Area

Bldg. CPDTB1

Idaho Natl Eng & Env Lab

Scoville Co: Butte ID 83415-

Landholding Agency: Energy

Property Number: 41200410009

Status: Excess

Reason: Secured Area

Bldg. CPP620A

Idaho Natl Eng & Env Lab

Scoville Co: Butte ID 83415-

Landholding Agency: Energy

Property Number: 41200410012

Status: Excess

Reason: Secured Area

Bldg. CPP637/620

Idaho Natl Eng & Env Lab

Scoville Co: Butte ID 83415-

Landholding Agency: Energy

Property Number: 41200410013

Status: Excess

Reason: Secured Area

Bldgs. CPP638, CPP642

Idaho Natl Eng & Env Lab

Scoville Co: Butte ID 83415-

Landholding Agency: Energy

Property Number: 41200410014

Status: Excess

Reason: Secured Area

Bldg. CPP 743

Idaho Natl Eng & Env Lab

Scoville Co: Butte ID 83415-

Landholding Agency: Energy

Property Number: 41200410020

Status: Excess

Reason: Secured Area

Bldgs. CPP1647, 1653

Idaho Natl Eng & Env Lab

Scoville Co: Butte ID 83415-

Landholding Agency: Energy

Property Number: 41200410022

Status: Excess

Reason: Secured Area

Bldg. CPP1677

Idaho Natl Eng & Env Lab

Scoville Co: Butte ID 83415-

Landholding Agency: Energy

Property Number: 41200410023

Status: Excess

Reason: Secured Area

Bldgs. TAN640, TAN641

Idaho Natl Eng & Env Lab

Scoville Co: Butte ID 83415-

Landholding Agency: Energy

Property Number: 41200410024

Status: Excess

Reason: Secured Area

Bldgs. TAN645, TAN646

Idaho Natl Eng & Env Lab

Scoville Co: Butte ID 83415-

Landholding Agency: Energy

Property Number: 41200410026

Status: Excess

Reason: Secured Area

Bldg. TAN731

Idaho Natl Eng & Env Lab

Scoville Co: Butte ID 83415-

Landholding Agency: Energy

Property Number: 41200410028

Status: Excess

Reason: Secured Area

Bldg. Tan 624

Idaho Natl Eng & Env Lab

Scoville Co: Butte ID 83415-

Landholding Agency: Energy

Property Number: 41200410031

Status: Excess

Reason: Secured Area

Bldgs. Tan 630, Tan 633

Idaho Natl Eng & Env Lab

Scoville Co: Butte ID 83415-

Landholding Agency: Energy

Property Number: 41200410032

Status: Excess

Reason: Secured Area

Bldgs. Tan 649, Tan 650

Idaho Natl Eng & Env Lab

Scoville Co: Butte ID 83415-

Landholding Agency: Energy

Property Number: 41200410033

Status: Excess

Reason: Secured Area

Bldg. 694

Idaho Natl Eng & Env Lab

Scoville Co: Butte ID 83415-

Landholding Agency: Energy

Property Number: 41200410034

Status: Excess

Reason: Secured Area

Bldg. Tan 719

Idaho Natl Eng & Env Lab

Scoville Co: Butte ID 83415-

Landholding Agency: Energy

Property Number: 41200410035

Status: Excess

Reason: Secured Area

Bldgs. Tan 725, Tan 726

Idaho Natl Eng & Env Lab

Scoville Co: Butte ID 83415-

Landholding Agency: Energy

Property Number: 41200410036

Status: Excess

Reason: Secured Area

Bldg.TRA 647

Idaho Natl Eng & Env Lab

Scoville Co: Butte ID 83415-

Landholding Agency: Energy

Property Number: 41200420006

Status: Excess

Reason: Secured Area

Bldgs. TRA651, TRA656

Idaho Natl Eng & Env Lab

Scoville Co: Butte ID 83415-

Landholding Agency: Energy

Property Number: 41200420007

Status: Excess

Reason: Secured Area

Bldg. TRA 663

Idaho Natl Eng & Env Lab

Scoville Co: Butte ID 83415-

Landholding Agency: Energy

Property Number: 41200420008

Status: Excess

Reason: Secured Area

Bldg. TRA 779

Idaho Natl Eng & Env Lab

Scoville Co: Butte ID 83415-

Landholding Agency: Energy

Property Number: 41200420009

Status: Excess

Reason: Secured Area

Bldg. PBF 731

Idaho Natl Eng & Env Laboratory

Scovile Co: Butte ID 83415-

Landholding Agency: Energy

Property Number: 41200420023

Status: Excess

Reason: Secured Area

Bldgs. CPP1604-CPP1608

Idaho National Eng & Env Lab

Scoville Co: Butte ID 83415-

Landholding Agency: Energy

Property Number: 41200430071

Status: Excess

Reason: Secured Area

Bldgs. CPP1617-CPP1619

Idaho National Eng & Env Lab

Scoville Co: Butte ID 83415-

Landholding Agency: Energy

Property Number: 41200430072

Status: Excess

Reason: Secured Area

6 Bldgs.

Idaho National Eng & Env Lab

Scoville Co: Butte ID 83415-

Location: CPP1631, CPP1634, CPP1635, CPP1636, CPP1637, CPP1638

Landholding Agency: Energy

Property Number: 41200430073

Status: Excess

Reason: Secured Area

5 Bldgs.

Idaho National Eng & Env Lab

Scoville Co: Butte ID 83415-

Location: CPP1642, CPP1643, CPP1644, CPP1646, CPP1649

Landholding Agency: Energy

Property Number: 41200430074

Status: Excess

Reason: Secured Area

3 Bldgs.

Idaho National Eng & Env Lab

Scoville Co: Butte ID 83415-

Location: CPP1650, CPP1651, CPP1656

Landholding Agency: Energy

Property Number: 41200430075

Status: Excess

Reason: Secured Area

5 Bldgs.

Idaho National Eng & Env Lab

Scoville Co: Butte ID 83415-

Location: CPP1662, CPP1663, CPP1671, CPP1673, CPP1674

Landholding Agency: Energy

Property Number: 41200430076

Status: Excess

Reason: Secured Area

5 Bldgs.

Idaho National Eng & Env Lab

Scoville Co: Butte ID 83415-

Location: CPP1678, CPP1682, CPP1683, CPP1684, CPP1686

Landholding Agency: Energy

Property Number: 41200430077

Status: Excess

Reason: Secured Area

5 Bldgs.

Idaho National Eng & Env Lab

Scoville Co: Butte ID 83415-

Location: CPP1713, CPP1749, CPP1750, CPP1767, CPP1769

Landholding Agency: Energy

Property Number: 41200430078

Status: Excess

Reason: Secured Area

5 Bldgs.

Idaho National Eng & Env Lab

Scoville Co: Butte ID 83415-

Location: CPP1770, CPP1771, CPP1772, CPP1774, CPP1776

Landholding Agency: Energy

Property Number: 41200430079

Status: Excess

Reason: Secured Area

4 Bldgs.

Idaho National Eng & Env Lab

Scoville Co: Butte ID 83415-

Location: CPP1778, CPP1779, CPP1780, CPP1784

Landholding Agency: Energy

Property Number: 41200430080

Status: Excess

Reason: Secured Area

4 Bldgs.

Idaho National Eng & Env Lab

Scoville Co: Butte ID 83415-

Location: CPP1789, CPP1790, CPP1792, CPP1794

Landholding Agency: Energy

Property Number: 41200430081

Status: Excess

Reason: Secured Area

Bldgs. CPP2701, CPP2706

Idaho National Eng & Env Lab

Scoville Co: Butte ID 83415-

Landholding Agency: Energy

Property Number: 41200430082

Status: Excess

Reason: Secured Area

3 Bldgs.

Idaho National Eng & Env Lab

Scoville Co: Butte ID 83415-

Location: TRA603, TRA604, TRA610

Landholding Agency: Energy

Property Number: 41200430089

Status: Excess

Reason: Secured Area

Bldg. TAN611

Idaho National Eng & Env Lab

Scoville Co: Butte ID 83415-

Landholding Agency: Energy

Property Number: 41200430090

Status: Excess

Reason: Secured Area

5 Bldgs.

Idaho National Eng & Env Lab

Scoville Co: Butte ID 83415-

Location: TRA626, TRA635, TRA642, TRA648, TRA654

Landholding Agency: Energy

Property Number: 41200430091

Status: Excess

Reason: Secured Area

Bldg. TAN655

Idaho National Eng & Env Lab

Scoville Co: Butte ID 83415-

Landholding Agency: Energy

Property Number: 41200430092

Status: Excess

Reason: Secured Area

3 Bldgs.

Idaho National Eng & Env Lab

Scoville Co: Butte ID 83415-

Location: TRA657, TRA661, TRA668

Landholding Agency: Energy

Property Number: 41200430093

Status: Excess

Reason: Secured Area

Bldg. TAN711

Idaho National Eng & Env Lab

Scoville Co: Butte ID 83415-

Landholding Agency: Energy

Property Number: 41200430094

Status: Excess

Reason: Secured Area

6 Bldgs.

Idaho National Eng & Env Lab

Scoville Co: Butte ID 83415-

Location: CPP602-CPP606, CPP609

Landholding Agency: Energy

Property Number: 41200430095

Status: Excess

Reason: Secured Area

5 Bldgs.

Idaho National Eng & Env Lab

Scoville Co: Butte ID 83415-

Location: CPP611-CPP614, CPP616

Landholding Agency: Energy

Property Number: 41200430096

Status: Excess

Reason: Secured Area

4 Bldgs.

Idaho National Eng & Env Lab

Scoville Co: Butte ID 83415-

Location: CPP621, CPP626, CPP630, CPP639

Landholding Agency: Energy

Property Number: 41200430097

Status: Excess

Reason: Secured Area

4 Bldgs.

Idaho National Eng & Env Lab

Scoville Co: Butte ID 83415-

Location: CPP641, CPP644, CPP645, CPP649

Landholding Agency: Energy

Property Number: 41200430098

Status: Excess

Reason: Secured Area

Bldgs. CPP651-CPP655

Idaho National Eng & Env Lab

Scoville Co: Butte ID 83415-

Landholding Agency: Energy

Property Number: 41200430099

Status: Excess

Reason: Secured Area

Bldgs. CPP659-CPP663

Idaho National Eng & Env Lab

Scoville Co: Butte ID 83415-

Landholding Agency: Energy

Property Number: 41200440001

Status: Excess

Reason: Secured Area

Bldgs. CPP666, CPP668

Idaho Naitonal Eng & Env Lab

Scoville Co: Butte ID 83415-

Landholding Agency: Energy

Property Number: 41200440002

Status: Excess

Reason: Secured Area

3 Bldgs.

Idaho National Eng & Env Lab

Scoville Co: Butte ID 83415-

Location: CPP674, CPP675, CPP679

Landholding Agency: Energy

Property Number: 41200440003

Status: Excess

Reason: Secured Area

1 Bldgs.

Idaho National Eng & Env Lab

Scoville Co: Butte ID 83415-

Location: CPP684

Landholding Agency: Energy

Property Number: 41200440004

Status: Excess

Reason: Secured Area

5 Bldgs.

Idaho National Eng & Env Lab

Scoville Co: Butte ID 83415-

Location: CPP692, CPP694, CPP697-CPP699

Landholding Agency: Energy

Property Number: 41200440005

Status: Excess

Reason: Secured Area

3 Bldgs.

Idaho National Eng & Env Lab

Scoville Co: Butte ID 83415-

Location: CPP701, CPP701A, CPP708

Landholding Agency: Energy

Property Number: 41200440006

Status: Excess

Reason: Secured Area

Bldgs. 711, 719A

Idaho National Eng & Env Lab

Scoville Co: Butte ID 83415-

Landholding Agency: Energy

Property Number: 41200440007

Status: Excess

Reason: Secured Area

4 Bldgs.

Idaho National Eng & Env Lab

Scoville Co: Butte ID 83415-

Location: CPP724-CPP726, CPP728

Landholding Agency: Energy

Property Number: 41200440008

Status: Excess

Reason: Secured Area

Bldg. CPP729/741

Idaho National Eng & Env Lab

Scoville Co: Butte ID 83415-

Landholding Agency: Energy

Property Number: 41200440012

Status: Excess

Reason: Secured Area

Bldgs. CPP733, CPP736

Idaho National Eng & Env Lab

Scoville Co: Butte ID 83415-

Landholding Agency: Energy

Property Number: 41200440013

Status: Excess

Reason: Secured Area

Bldgs. CPP740, CPP742

Idaho National Eng & Env Lab

Scoville Co: Butte ID 83415-

Landholding Agency: Energy

Property Number: 41200440014

Status: Excess

Reason: Secured Area

Bldgs. CPP746, CPP748

Idaho National Eng & Env Lab

Scoville Co: Butte ID 83415-

Landholding Agency: Energy

Property Number: 41200440015

Status: Excess

Reason: Secured Area

3 Bldgs.

Idaho National Eng & Env Lab

CPP750, CPP751, CPP752

Scoville Co: Butte ID 83415-

Landholding Agency: Energy

Property Number: 41200440016

Status: Excess

Reason: Secured Area

3 Bldgs.

Idaho National Eng & Env Lab

CPP753, CPP753A, CPP754

Scoville Co: Butte ID 83415-

Landholding Agency: Energy

Property Number: 41200440017

Status: Excess

Reason: Secured Area

Bldgs. CPP760, CPP763

Idaho National Eng & Env Lab

Scoville Co: Butte ID 83415-

Landholding Agency: Energy

Property Number: 41200440018

Status: Excess

Reason: Secured Area

Bldgs. CPP764, CPP765

Idaho National Eng & Env Lab

Scoville Co: Butte ID 83415-

Landholding Agency: Energy

Property Number: 41200440019

Status: Excess

Reason: Secured Area

Bldgs. CPP767, CPP768

Idaho National Eng & Env Lab

Scoville Co: Butte ID 83415-

Landholding Agency: Energy

Property Number: 41200440020

Status: Excess

Reason: Secured Area

Bldgs. CPP791, CPP795

Idaho National Eng & Env Lab

Scoville Co: Butte ID 83415-

Landholding Agency: Energy

Property Number: 41200440021

Status: Excess

Reason: Secured Area

3 Bldgs.

Idaho National Eng & Env Lab

CPP796, CPP797, CPP799

Scoville Co: Butte ID 83415-

Landholding Agency: Energy

Property Number: 41200440022

Status: Excess

Reason: Secured Area

Bldgs. CPP701B, CPP719

Idaho National Eng & Env Lab

Scoville Co: Butte ID 83415-

Landholding Agency: Energy

Property Number: 41200440023

Status: Excess

Reason: Secured Area

Bldgs. CPP720A, CPP720B

Idaho National Eng & Env Lab

Scoville Co: Butte ID 83415-

Landholding Agency: Energy

Property Number: 41200440024

Status: Excess

Reason: Secured Area

Bldg. CPP1781

Idaho National Eng & Env Lab

Scoville Co: Butte ID 83415-

Landholding Agency: Energy

Property Number: 41200440025

Status: Excess

Reason: Secured Area

2 Bldgs.

Idaho National Eng & Env Lab

CPP0000VES-UTI-111, VES-UTI-112

Scoville Co: Butte ID 83415-

Landholding Agency: Energy

Property Number: 41200440026

Status: Excess

Reason: Secured Area

3 Bldgs.

Idaho National Eng & Env Lab

TAN607, TAN666, TAN668

Scoville Co: Butte ID 83415-

Landholding Agency: Energy

Property Number: 41200440027

Status: Excess

Reason: Secured Area

Bldgs. TAN704, TAN733

Idaho National Eng & Env Lab

Scoville Co: Butte ID 83415-

Landholding Agency: Energy

Property Number: 41200440028

Status: Excess

Reason: Secured Area

Bldgs. TAN1611, TAN1614

Idaho National Eng & Env Lab

Scoville Co: Butte ID 83415-

Landholding Agency: Energy

Property Number: 41200440029

Status: Excess

Reason: Secured Area

Bldgs. CF604, CF680

Idaho Natl Eng & Env Lab

Scoville Co: Butte ID 83415-

Landholding Agency: Energy

Property Number: 41200440034

Status: Excess

Reason: Secured Area

Bldg. 0708

Middleton Co: Canyon ID 83644-

Landholding Agency: Interior

Property Number: 61200420005

Status: Unutilized

Reason: Extensive deterioration

Bldg. 0709

Middleton Co: Canyon ID 83644-

Landholding Agency: Interior

Property Number: 61200420006

Status: Unutilized

Reason: Extensive deterioration

Bldg. 0717

Fruitland Co: Payette ID 83619-

Landholding Agency: Interior

Property Number: 61200420007

Status: Unutilized

Reason: Extensive deterioration

Illinois

Bldgs. 3220, 3221

Naval Station

Great Lakes Co: IL 60088-

Landholding Agency: Navy

Property Number: 77200440008

Status: Excess

Reason: Extensive deterioration

Bldgs. 3311, 3312

Naval Station

Great Lakes Co: IL 60088-

Landholding Agency: Navy

Property Number: 77200510008

Status: Excess

Reason: Extensive deterioration

Indiana

Bldg. 2780

Naval Support Activity

Crane Co: Martin IN 47522-

Landholding Agency: Navy

Property Number: 77200430015

Status: Excess

Reasons: Within 2000 ft. of flammable or explosive material, Secured Area, Extensive deterioration

Bldg. 2893

Naval Support Activity

Crane Co: Martin IN 47522-

Landholding Agency: Navy

Property Number: 77200430016

Status: Excess

Reasons: Within 2000 ft. of flammable or explosive material, Secured Area, Extensive deterioration

Bldgs. 113, 114

Naval Support Activity

Crane Co: Martin IN 47522-

Landholding Agency: Navy

Property Number: 77200430017

Status: Excess

Reasons: Within 2000 ft. of flammable or explosive material, Secured Area, Extensive deterioration

Bldg. 181

Naval Support Activity

Crane Co: Martin IN 47522-

Landholding Agency: Navy

Property Number: 77200430018

Status: Excess

Reasons: Within 2000 ft. of flammable or explosive material, Secured Area, Extensive deterioration

Bldg. 2109

Naval Support Activity

Crane Co: Martin IN 47522-

Landholding Agency: Navy

Property Number: 77200430019

Status: Excess

Reasons: Within 2000 ft. of flammable or explosive material, Secured Area, Extensive deterioration

Bldg. 2777

Naval Support Activity

Crane Co: Martin IN 47522-

Landholding Agency: Navy

Property Number: 77200430020

Status: Excess

Reasons: Within 2000 ft. of flammable or explosive material, Secured Area, Extensive deterioration

Bldg. 2889

Naval Support Activity

Crane Co: Martin IN 47522-

Landholding Agency: Navy

Property Number: 77200430021

Status: Excess

Reasons: Within 2000 ft. of flammable or explosive material, Secured Area, Extensive deterioration

Bldg. 2926

Naval Support Activity

Crane Co: Martin IN 47522-

Landholding Agency: Navy

Property Number: 77200430022

Status: Excess

Reasons: Within 2000 ft. of flammable or explosive material, Secured Area, Extensive deterioration

Bldg. 3207

Naval Support Activity

Crane Co: Martin IN 47522-

Landholding Agency: Navy

Property Number: 77200430023

Status: Excess

Reasons: Within 2000 ft. of flammable or explosive material, Secured Area, Extensive deterioration

Iowa

Treatment Plant

South Fork Park

Mystic Co: Appanoose IA 52574-

Landholding Agency: COE

Property Number: 31200220002

Status: Excess

Reason: Extensive deterioration

Storage Bldg.

Rathbun Project

Moravia Co: Appanoose IA 52571-

Landholding Agency: COE

Property Number: 31200330001

Status: Excess

Reason: Extensive deterioration

Bldg.

Island View Park

Rathbun Project

Centerville Co: Appanoose IA 52544-

Landholding Agency: COE

Property Number: 31200330002

Status: Excess

Reason: Extensive deterioration

Tract 137

Camp Dodge

Johnston Co: Polk IA 50131-1902

Landholding Agency: COE

Property Number: 31200410001

Status: Excess

Reason: Extensive deterioration

Rathbun 29369, 29368

Island View park

Centerville Co: Appanoose IA 52544-

Landing Agency: COE

Property Number: 31200510003

Status: Excess

Reason: Extensive deterioration

Kansas

No. 01017

Kanopolis Project

Marquette Co: Ellsworth KS 67456-

Landing Agency: COE

Property Number: 31200210001

Status: Unutilized

Reason: Extensive deterioration

No. 01020

Kanopolis Project

Marquette Co: Ellsworth KS 67456-

Landing Agency: COE

Property Number: 31200210002

Status: Unutilized

Reason: Extensive deterioration

No. 61001

Kanopolis Project

Marquette Co: Ellsworth KS 67456-

Landing Agency: COE

Property Number: 31200210003

Status: Unutilized

Reason: Extensive deterioration

Bldg. #1

Kanopolis Project

Marquette Co: Ellsworth KS 67456-

Landing Agency: COE

Property Number: 31200220003

Status: Excess

Reason: Extensive deterioration

Bldg. #2

Kanopolis Project

Marquette Co: Ellsworth KS 67456-

Landing Agency: COE

Property Number: 31200220004

Status: Excess

Reason: Extensive deterioration

Bldg. #4

Kanopolis Project

Marquette Co: Ellsworth KS 67456-

Landing Agency: COE

Property Number: 31200220005

Status: Excess

Reason: Extensive deterioration

Comfort Station

Clinton Lake Project

Lawrence Co: Douglas KS 66049-

Landing Agency: COE

Property Number: 31200220006

Status: Excess

Reason: Extensive deterioration

Privie

Perry Lake

Perry Co: Jefferson KS 66074-

Landing Agency: COE

Property Number: 31200310004

Status: Unutilized

Reason: Extensive deterioration

Shower

Perry Lake

Perry Co: Jefferson KS 66073-

Landholding Agency: COE

Property Number: 31200310005

Status: Unutilized

Reason: Extensive deterioration

Tool Shed

Perry Lake

Perry Co: Jefferson KS 66073-

Landholding Agency: COE

Property Number: 31200310006

Status: Unutilized

Reason: Extensive deterioration

Bldg. M37

Minooka Park

Sylvan Grove Co: Russell KS 67481-

Landholding Agency: COE

Property Number: 31200320002

Status: Excess

Reason: Extensive deterioration

Bldg. M38

Minooka Park

Sylvan Grove Co: Russell KS 67481-

Landholding Agency: COE

Property Number: 31200320003

Status: Excess

Reason: Extensive deterioration

Bldg. L19

Lucas Park

Sylvan Grove Co: Russell KS 67481-

Landholding Agency: COE

Property Number: 31200320004

Status: Unutilized

Reason: Extensive deterioration

2 Bldgs.

Tuttle Creek Lake

Near Shelters #3 & #4

Riley KS 66502-

Landholding Agency: COE

Property Number: 31200330003

Status: Excess

Reason: Extensive deterioration

6 Bldgs.

Cottonwood Point/Hillsboro Cove

Marion Co: Coffey KS 66861-

Landholding Agency: COE

Property Number: 31200340001

Status: Excess

Reason: Extensive deterioration

20 Bldgs.

Riverside

Burlington Co: Coffey KS 66839-8911

Landholding Agency: COE

Property Number: 31200340002

Status: Excess

Reason: Extensive deterioration

2 Bldgs.

Canning Creek/Richey Cove

Council Grove Co: Morris KS 66846-9322

Landholding Agency: COE

Property Number: 31200340003

Status: Excess

Reason: Extensive deterioration

6 Bldgs.

Santa Fe Trail/Outlet Channel

Council Grove Co: Morris KS 66846-

Landholding Agency: COE

Property Number: 31200340004

Status: Excess

Reason: Extensive deterioration

Residence

Melvern Lake Project

Melvern Co: Osage KS 66510-

Landholding Agency: COE

Property Number: 31200340005

Status: Excess

Reason: Extensive deterioration

2 Bldgs.

Management Park

Vassar KS 66543-

Landholding Agency: COE

Property Number: 31200340006

Status: Excess

Reason: Extensive deterioration

Bldg.

Hickory Campground

Lawrence KS 66049-

Landholding Agency: COE

Property Number: 31200340007

Status: Excess

Reason: Extensive deterioration

Bldg.

Rockhaven Park Area

Lawrence KS 66049-

Landholding Agency: COE

Property Number: 31200340008

Status: Excess

Reason: Extensive deterioration

Bldg.

Overlook Park Area

Lawrence KS 66049-

Landholding Agency: COE

Property Number: 31200340009

Status: Excess

Reason: Extensive deterioration

Bldg.

Walnut Campground

Lawrence KS 66049-

Landholding Agency: COE

Property Number: 31200340010

Status: Excess

Reason: Extensive deterioration

Bldg.

Cedar Ridge Campground

Lawrence KS 66049-

Landholding Agency: COE

Property Number: 31200340011

Status: Excess

Reason: Extensive deterioration

Bldg.

Woodridge Park Area

Lawrence KS 66049-

Landholding Agency: COE

Property Number: 31200340012

Status: Excess

Reason: Extensive deterioration

8 Bldgs.

Tuttle Cove Park

Manhattan Co: Riley KS 66502-

Landholding Agency: COE

Property Number: 31200410002

Status: Unutilized

Reason: Extensive deterioration

2 Bldgs.

Old Garrison Campground

Pottawatomie KS

Landholding Agency: COE

Property Number: 31200410003

Status: Unutilized

Reason: Extensive deterioration

2 Bldgs.

School Creek ORV Area

Junction City KS 66441-

Landholding Agency: COE

Property Number: 31200410004

Status: Excess

Reason: Extensive deterioration

Bldg.

Slough Creek Park

Perry Co: Jefferson KS 66073-

Landholding Agency: COE

Property Number: 31200410005

Status: Excess

Reason: Extensive deterioration

Bldg.

Spillway Boat Ramp

Sylvan Grove Co: KS 67481-

Landholding Agency: COE

Property Number: 31200430008

Status: Excess

Reason: Extensive deterioration

Bldg.

Minooka Park Area

Sylvan Grove Co: KS 67481-

Landholding Agency: COE

Property Number: 31200430009

Status: Excess

Reason: Extensive deterioration

Bldg.

Lucas Park Area

Sylvan Grove Co: KS 67481-

Landholding Agency: COE

Property Number: 31200430010

Status: Excess

Reason: Extensive deterioration

Bldg.

Sylvan Park Area

Sylvan Grove Co: KS 67481-

Landholding Agency: COE

Property Number: 31200430011

Status: Excess

Reason: Extensive deterioration

Bldg.

North Outlet Area

Junction City Co: KS 66441-

Landholding Agency: COE

Property Number: 31200430012

Status: Excess

Reason: Extensive deterioration

3 Vault Toilets

West Rolling Hills

Milford Lake

Junction City Co: KS 66441-

Landholding Agency: COE

Property Number: 31200440003

Status: Excess

Reason: Extensive deterioration

Vault Toilet

East Rolling Hills

Milford Lake

Junction City Co: KS 66441-

Landholding Agency: COE

Property Number: 31200440004

Status: Excess

Reason: Extensive deterioration

Bldgs. 25002, 35012

Lucas Park

Sylvan Grove Co: KS 67481-

Landholding Agency: COE

Property Number: 31200510004

Status: Excess

Reason: Extensive deterioration

Bldgs. 25006, 25038

Lucas Group Camp

Sylvan Grove Co: KS 67481-

Landholding Agency: COE

Property Number: 31200510005

Status: Excess

Reason: Extensive deterioration

Kentucky

Spring House

Kentucky River Lock and Dam No. 1

Highway 320

Carrollton Co: Carroll KY 41008-

Landholding Agency: COE

Property Number: 21199040416

Status: Unutilized

Reason: Spring House

6-Room Dwelling

Green River Lock and Dam No. 3

Rochester Co: Butler KY 42273-

Location: Off State Hwy 369, which runs off of Western Ky. Parkway

Landholding Agency: COE

Property Number: 31199120010

Status: Unutilized

Reason: Floodway

2-Car Garage

Green River Lock and Dam No. 3

Rochester Co: Butler KY 42273-

Location: Off State Hwy 369, which runs off of Western Ky. Parkway

Landholding Agency: COE

Property Number: 31199120011

Status: Unutilized

Reason: Floodway

Office and Warehouse

Green River Lock and Dam No. 3

Rochester Co: Butler KY 42273-

Location: Off State Hwy 369, which runs off of Western Ky. Parkway

Landholding Agency: COE

Property Number: 31199120012

Status: Unutilized

Reason: Floodway

2 Pit Toilets

Green River Lock and Dam No. 3

Rochester Co: Butler KY 42273-

Landholding Agency: COE

Property Number: 31199120013

Status: Unutilized

Reason: Floodway

Tract 1379

Barkley Lake & Dam

Eddyville Co: Lyon KY 42038-

Landholding Agency: COE

Property Number: 31200420001

Status: Unutilized

Reason: Landlocked

Tract 4300

Barkley Lake & Dam

Cadiz Co: Trigg KY 42211-

Landholding Agency: COE

Property Number: 31200420002

Status: Unutilized

Reason: Floodway

Tracts 317, 318, 319

Barkley Lake & Dam

Grand Rivers Co: Lyon KY 42045-

Landholding Agency: COE

Property Number: 31200420003

Status: Unutilized

Reason: Floodway

Comfort Station

Holmes Bend Access

Green River Lake

Adair Co: KY

Landholding Agency: COE

Property Number: 31200440005

Status: Excess

Reason: Extensive deterioration

Steel Structure

Mcalpine Locks & Dam

Louisville Co: KY 40212-

Landholding Agency: COE

Property Number: 31200440006

Status: Excess

Reasons: Within 2000 ft. of flammable or explosive material, Floodway

Comfort Station

Mcalpine Locks & Dam

Louisville Co: KY 40212-

Landholdingy Agency: COE

Property Number: 31200440007

Status: Excess

Reasons: Within 2000 ft. of flammable or explosive material, Floodway

Shelter

Mcalpine Locks & Dam

Louisville Co: KY 40212-

Landholding Agency: COE

Property Number: 31200440008

Status: Excess

Reasons: Within 2000 ft. of flammable or explosive material, Floodway

Parking Lot

Mcalpine Locks & Dam

Louisville Co: KY 40212-

Landholding Agency: COE

Property Number: 31200440009

Status: Excess

Reasons: Within 2000 ft. of flammable or explosive material, Floodway

Sewage Treatment Plant

Holmes Bend Recreation

Campbellsville Co: KY 42718-9805

Landholding Agency: COE

Property Number: 31200510006

Status: Unutilized

Reason: Extensive deterioration

Louisiana

Weeks Island Facility

New Iberia Co: Iberia Parish LA 70560-

Landholding Agency: Energy

Property Number: 41199610038

Status: Underutilized

Reason: Secured Area

Maine

Bldg. M-6

Portsmouth Naval Shipyard

Kittery Co: York ME 03904-

Landholding Agency: Navy

Property Number: 77200240013

Status: Excess

Reason: Secured Area

Bldg. M-9

Portsmouth Naval Shipyard

Kittery Co: York ME 03904-

Landholding Agency: Navy

Property Number: 77200240014

Status: Excess

Reason: Secured Area

Bldg. M-10

Portsmouth Naval Shipyard

Kittery Co: York ME 0390-4

Landholding Agency: Navy

Property Number: 77200240015

Status: Excess

Reason: Secured Area

Bldg. M-11

Portsmouth Naval Shipyard

Kittery Co: York ME 03904-

Landholding Agency: Navy

Property Number: 77200240016

Status: Excess

Reason: Secured Area

Bldg. M-18

Portsmouth Naval Shipyard

Kittery Co: York ME 03904-

Landholding Agency: Navy

Property Number: 77200240017

Status: Excess

Reason: Secured Area

Bldg. H-29

Portsmouth Naval Shipyard

Kittery Co: York ME 03904-

Landholding Agency: Navy

Property Number: 77200240018

Status: Excess

Reasons: Within 2000 ft. of flammable or explosive material, Secured Area

Bldg. 33

Portsmouth Naval Shipyard

Kittery Co: York ME 03904-

Landholding Agency: Navy

Property Number: 77200240019

Status: Excess

Reason: Secured Area

Bldg. 34

Portsmouth Naval Shipyard

Kittery Co: York ME 03904-

Landholding Agency: Navy

Property Number: 77200240020

Status: Excess

Reason: Secured Area

Bldg. 41

Portsmouth Naval Shipyard

Kittery Co: York ME 03904-

Landholding Agency: Navy

Property Number: 77200240021

Status: Excess

Reason: Secured Area

Bldg. 55

Portsmouth Naval Shipyard

Kittery Co: York ME 03904-

Landholding Agency: Navy

Property Number: 77200240022

Status: Excess

Reason: Secured Area

Bldg. 62/62A

Portsmouth Naval Shipyard

Kittery Co: York ME 03904-

Landholding Agency: Navy

Property Number: 77200240023

Status: Excess

Reason: Secured Area

Bldg. 63

Portsmouth Naval Shipyard

Kittery Co: York ME 03904-

Landholding Agency: Navy

Property Number: 77200240024

Status: Excess

Reason: Secured Area

Bldg. 65

Portsmouth Naval Shipyard

Kittery Co: York ME 03904-

Landholding Agency: Navy

Property Number: 77200240025

Status: Excess

Reason: Secured Area

Bldg. 158

Portsmouth Naval Shipyard

Kittery Co: York ME 03904-

Landholding Agency: Navy

Property Number: 77200240026

Status: Excess

Reasons: Within 2000 ft. of flammable or explosive material, Secured Area

Bldg. 188

Portsmouth Naval Shipyard

Kittery Co: York ME 03904-

Landholding Agency: Navy

Property Number: 77200240027

Status: Excess

Reason: Secured Area

Bldg. 189

Portsmouth Naval Shipyard

Kittery Co: York ME 03904-

Landholding Agency: Navy

Property Number: 77200240028

Status: Excess

Reason: Secured Area

Bldg. 237

Portsmouth Naval Shipyard

Kittery Co: York ME 03904-

Landholding Agency: Navy

Property Number: 77200240029

Status: Excess

Reason: Secured Area

Bldg. 150

Portsmouth Naval Shipyard

Kittery Co: York ME

Landholding Agency: Navy

Property Number: 77200340040

Status: Excess

Reason: Extensive deterioration

Maryland

Bloody Pt Bar Lighthouse

Chesapeake Bay

Kent MD

Landholding Agency: GSA

Property Number: 54200330002

Status: Excess

Reason: Not accessible

GSA Number: 4-U-MD-0612

Tract 399-24

Appalachian Trail

Cascade Co: Washington MD 21719-

Landholding Agency: Interior

Property Number: 61200430019

Status: Unutilized

Reason: Extensive deterioration

Massachusetts

Jaquith House

National Seashore

Eastham Co: Barnstable MA-

Landholding Agency: Interior

Property Number: 61200430017

Status: Unutilized

Reason: Extensive deterioration

Michigan

Portion/Station Frankfort

100 Coast Guard Road

Frankfort Co: MI 49635-

Landholding Agency: GSA

Property Number: 54200440018

Status: Excess

Reason: Within 2000 ft. of flammable or explosive material

GSA Number: 1-U-MI-582A

Minnesota

Parcel B

Twin Cities Army Ammunition Plant

Arden Hills MN 55112-3938

Landholding Agency: GSA

Property Number: 54200240015

Status: Excess

Reason: Within 2000 ft. of flammable or explosive material

GSA Number: 1-D-MN-0578B

Missouri

Rec Office

Harry S. Truman Dam & Reservoir

Osceola Co: St. Clair MO 64776-

Landholding Agency: COE

Property Number: 31200110001

Status: Unutilized

Reason: Extensive deterioration

Privy/Nemo Park

Pomme de Terre Lake

Hermitage MO 65668-

Landholding Agency: COE

Property Number: 31200120001

Status: Excess

Reason: Extensive deterioration

Privy No. 1/Bolivar Park

Pomme de Terre Lake

Hermitage MO 65668-

Landholding Agency: COE

Property Number: 31200120002

Status: Excess

Reason: Extensive deterioration

Privy No. 2/Bolivar Park

Pomme de Terre Lake

Hermitage MO 65668-

Landholding Agency: COE

Property Number: 31200120003

Status: Excess

Reason: Extensive deterioration

#07004, 60006, 60007

Crabtree Cove/Stockton Area

Stockton MO 65785-

Landholding Agency: COE

Property Number: 31200220007

Status: Excess

Reason: Extensive deterioration

Bldg.

Old Mill Park Area

Stockton MO 65785-

Landholding Agency: COE

Property Number: 31200310007

Status: Excess

Reason: Extensive deterioration

Stockton Lake Proj. Ofc.

Stockton Co: Cedar MO 65785-

Landholding Agency: COE

Property Number: 31200330004

Status: Unutilized

Reason: Extensive deterioration

House

Tract 1105

Thurnau Mitigation Site

Craig Co: Holt MO 64437-

Landholding Agency: COE

Property Number: 31200420005

Status: Unutilized

Reason: Extensive deterioration

30x36 Barn

Tract 1105

Thurnau Mitigation Site

Craig Co: Holt MO 64437-

Landholding Agency: COE

Property Number: 31200420006

Status: Unutilized

Reason: Extensive deterioration

30x26 Barn

Tract 1105

Thurnau Mitigation Site

Craig Co: Holt MO 64437-

Landholding Agency: COE

Property Number: 31200420007

Status: Unutilized

Reason: Extensive deterioration

30x10 Shed

Tract 1105

Thurnau Mitigation Site

Craig Co: Holt MO 64437-

Landholding Agency: COE

Property Number: 31200420008

Status: Unutilized

Reason: Extensive deterioration

30x26 Shed

Tract 1105

Thurnau Mitigation Site

Craig Co: Holt MO 64437-

Landholding Agency: COE

Property Number: 31200420009

Status: Unutilized

Reason: Extensive deterioration

9x9 Shed

Tract 1105

Thurnau Mitigation Site

Craig Co: Holt MO 64437-

Landholding Agency: COE

Property Number: 31200420010

Status: Unutilized

Reason: Extensive deterioration

Tract 1111

Thurnau Mitigation Site

Craig Co: Holt MO 64437-

Landholding Agency: COE

Property Number: 31200420011

Status: Excess

Reason: Extensive deterioration

Shower

Pomme de Terre Lake

Hermitage Co: Polk MO 65668-

Landholding Agency: COE

Property Number: 31200420012

Status: Unutilized

Reason: Extensive deterioration

11 Bldgs.

Warsaw Co: MO 65355-

Location: Fairfield, Tally Bend, Cooper Creek, Shawnee Bend

Landholding Agency: COE

Property Number: 31200430013

Status: Excess

Reason: Extensive deterioration

2 Storage Bldgs.

District Service Base

St. Louis Co: MO-

Landholding Agency: COE

Property Number: 31200430014

Status: Excess

Reason: Extensive deterioration

Privy

Pomme de Terre Lake

Wheatland Co: Hickory MO-

Landholding Agency: COE

Property Number: 31200440010

Status: Underutilized

Reason: Floodway

Vault Toilet

Ruark Bluff

Stockton Co: MO-

Landholding Agency: COE

Property Number: 31200440011

Status: Excess

Reason: Extensive deterioration

Comfort Station

Overlook Area

Stockton Co: MO-

Landholding Agency: COE

Property Number: 31200440012

Status: Excess

Reason: Extensive deterioration

Maintenance Building

Missouri River Area

Napoleon Co: Lafayette MO 64074-

Landholding Agency: COE

Property Number: 31200510007

Status: Excess

Reason: Floodway

Bldg. 34001

Orleans Trail Park

Stockton Co: MO 65785-

Landholding Agency: COE

Property Number: 31200510008

Status: Excess

Reason: Extensive deterioration

Bldgs. 34016, 34017

Orleans Trail Park

Stockton Co: MO 65785-

Landholding Agency: COE

Property Number: 31200510009

Status: Excess

Reason: Extensive deterioration

Montana

Bldg.

Tiber Dam

Chester Co: Liberty MT 59522-

Landholding Agency: Interior

Property Number: 61200410005

Status: Excess

Reason: Extensive deterioration

Nebraska

Vault Toilets

Harlan County Project

Republican NE 68971-

Landholding Agency: COE

Property Number: 31200210006

Status: Unutilized

Reason: Extensive deterioration

Patterson Treatment Plant

Harlan County Project

Republican NE 68971-

Landholding Agency: COE

Property Number: 31200210007

Status: Unutilized

Reason: Extensive deterioration

#30004

Harlan County Project

Republican Co: Harlan NE 68971-

Landholding Agency: COE

Property Number: 31200220008

Status: Unutilized

Reason: Extensive deterioration

#3005, 3006

Harlan County Project

Republican Co: Harlan NE 68971-

Landholding Agency: COE

Property Number: 31200220009

Status: Unutilized

Reason: Extensive deterioration

Bldgs. 70001, 70002

South Outlet Park

Republican City Co: NE-

Landholding Agency: COE

Property Number: 31200510010

Status: Excess

Reason: Extensive deterioration

Nevada

28 Facilities

Nevada Test Site

Mercury Co: Nye NV 89023-

Landholding Agency: Energy

Property Number: 41200310018

Status: Excess

Reasons: Contamination, Secured Area

31 Bldgs./Facilities

Nellis AFB

Tonopah Test Range

Tonopah Co: Nye NV 89049-

Landholding Agency: Energy

Property Number: 41200330003

Status: Unutilized

Reason: Secured Area

42 Bldgs.

Nellis Air Force Base

Tonopah Co: Nye NV 89049-

Location: 49-01, NM104, NM105, 03-35A-H, 03-35J-N, 03-36A-C, 03-36E-H, 03-36J-N, 03-36R, 03-37, 15036, 03-44A-D, 03-46, 03-47, 03-49, 03-88, 03-89, 03-90

Landholding Agency: Energy

Property Number: 41200410029

Status: Unutilized

Reason: Secured Area

241 Bldgs.

Tonopah Test Range

Tonopah Co: Nye NV 89049-

Landholding Agency: Energy

Property Number: 41200440036

Status: Excess

Reasons: Within 2000 ft. of flammable or explosive material, Secured Area

6 Bldgs.

Dale Street Complex

300, 400, 500, 600, Block Bldg, Valve House

Boulder City NV 89005-

Landholding Agency: GSA

Property Number: 54200020017

Status: Excess

Reason: Extensive deterioration

GSA Number: LC-00-01-RP

New Hampshire

Naval Obs. Tower

Rye NH 03870-

Landholding Agency: GSA

Property Number: 54200420007

Status: Excess

Reason: Contamination

GSA Number: 1-N-NH-451

New Jersey

Former NIKE Missile Battery

Site PH-58

Woolwich Co: Gloucester NJ

Landholding Agency: GSA

Property Number: 54200310012

Status: Excess

Reason: Extensive deterioration

GSA Number: 1-GR-NJ-0538

Bldg. 263

Naval Air Engineering Station

Lakehurst Co: Ocean NJ 08733-5000

Landholding Agency: Navy

Property Number: 77200310002

Status: Unutilized

Reason: Extensive deterioration

Bldg. GB-1

Naval Weapons Station

Colts Neck NJ 07722-

Landholding Agency: Navy

Property Number: 77200310013

Status: Unutilized

Reason: Extensive deterioration

Bldg. D-5

Naval Weapons Station

Colts Neck NJ 07722-

Landholding Agency: Navy

Property Number: 77200310014

Status: Unutilized

Reason: Extensive deterioration

New Mexico

Bldgs. 9252, 9268

Kirtland Air Force Base

Albuquerque Co: Bernalillo NM 87185-

Landholding Agency: Energy

Property Number: 41199430002

Status: Unutilized

Reason: Extensive deterioration

Tech Area II

Kirtland Air Force Base

Albuquerque Co: Bernalillo NM 87105-

Lanholding Agency: Energy

Property Number: 41199630004

Status: Unutilized

Reasons: Within 2000 ft. of flammable or explosive material, Secured Area, Extensive deterioration

Bldg. 26, TA-33

Los Alamos National Laboratory

Los Alamos NM 87545-

Lanholding Agency: Energy

Property Number: 41199810004

Status: Unutilized

Reasons: Secured Area, Extensive deterioration

Bldg. 2, TA-21

Los Alamos National Laboratory

Los Alamos NM 87545-

Lanholding Agency: Energy

Property Number: 41199810008

Status: Underutilized

Reason: Secured Area

Bldg. 5, TA-21

Los Alamos National Laboratory

Los Alamos NM 87545-

Lanholding Agency: Energy

Property Number: 41199810011

Status: Unutilized

Reason: Secured Area

Bldg. 21, TA-21

Los Alamos National Laboratory

Los Alamos NM 87545-

Lanholding Agency: Energy

Property Number: 41199810012

Status: Unutilized

Reason: Secured Area

Bldg. 116, TA-21

Los Alamos National Laboratory

Los Alamos NM 87545-

Lanholding Agency: Energy

Property Number: 41199810013

Status: Unutilized

Reason: Secured Area

Bldg. 228, TA-21

Los Alamos National Laboratory

Los Alamos NM 87545-

Lanholding Agency: Energy

Property Number: 41199810015

Status: Unutilized

Reason: Secured Area

Bldg. 286, TA-21

Los Alamos National Laboratory

Los Alamos NM 87545-

Landholding Agency: Energy

Property Number: 41199810016

Status: Unutilized

Reason: Secured Area

Bldg. 516, TA-16

Los Alamos National Laboratory

Los Alamos NM 87545-

Landholding Agency: Energy

Property Number: 41199810021

Status: Unutilized

Reasons: Within 2000 ft. of flammable or explosive material, Secured Area, Extensive deterioration

Bldg. 517, TA-16

Los Alamos National Laboratory

Los Alamos NM 87545-

Landholding Agency: Energy

Property Number: 41199810022

Status: Unutilized

Reasons: Within 2000 ft. of flammable or explosive material, Secured Area, Extensive deterioration

Bldg. 31

Los Alamos National Lab

Los Alamos NM 87545-

Landholding Agency: Energy

Property Number: 41199930003

Status: Unutilized

Reasons: Secured Area, Extensive deterioration

Bldg. 21, TA-2

Los Alamos National Lab

Los Alamos NM 87545-

Landholding Agency: Energy

Property Number: 41199940001

Status: Unutilized

Reason: Secured Area

Bldg. 38, TA-14

Los Alamos National Lab

Los Alamos NM 87545-

Landholding Agency: Energy

Property Number: 41199940004

Status: Unutilized

Reasons: Secured Area, Extensive deterioration

Bldg. 8, TA-15

Los Alamos National Lab

Los Alamos NM 87545-

Landholding Agency: Energy

Property Number: 41199940005

Status: Unutilized

Reasons: Secured Area Extensive deterioration

Bldg. 9, TA-15

Los Alamos National Lab

Los Alamos NM 87545-

Landholding Agency: Energy

Property Number: 41199940006

Status: Unutilized

Reason: Secured Area

Bldg. 22, TA-15

Los Alamos National Lab

Los Alamos NM 87545-

Landholding Agency: Energy

Property Number: 41199940007

Status: Unutilized

Reason: Secured Area

Bldg. 141, TA-15

Los Alamos National Lab

Los Alamos NM 87545-

Landholding Agency: Energy

Property Number: 41199940008

Status: Unutilized

Reason: Secured Area

Bldg. 44, TA-15

Los Alamos National Lab

Los Alamos NM 87545-

Landholding Agency: Energy

Property Number: 41199940009

Status: Unutilized

Reason: Secured Area

Bldg. 2, TA-18

Los Alamos National Lab

Los Alamos NM 87545-

Landholding Agency: Energy

Property Number: 41199940010

Status: Unutilized

Reasons: Secured Area, Extensive deterioration

Bldg. 5, TA-18

Los Alamos National Lab

Los Alamos NM 87545-

Landholding Agency: Energy

Property Number: 41199940011

Status: Unutilized

Reasons: Secured Area, Extensive deterioration

Bldg. 186, TA-18

Los Alamos National Lab

Los Alamos NM 87545-

Landholding Agency: Energy

Property Number: 41199940012

Status: Unutilized

Reasons: Secured Area, Extensive deterioration

Bldg. 188, TA-18

Los Alamos National Lab

Los Alamos NM 87545-

Landholding Agency: Energy

Property Number: 41199940013

Status: Unutilized

Reasons: Secured Area, Extensive deterioration

Bldg. 44, TA-36

Los Alamos National Lab

Los Alamos NM 87545-

Landholding Agency: Energy

Property Number: 41199940015

Status: Unutilized

Reasons: Secured Area, Extensive deterioration

Bldg. 45, TA-36

Los Alamos National Lab

Los Alamos NM 87545-

Landholding Agency: Energy

Property Number: 41199940016

Status: Unutilized

Reasons: Secured Area, Extensive deterioration

Bldg. 19, TA-40

Los Alamos National Lab

Los Alamos NM 87545-

Landholding Agency: Energy

Property Number: 41199940017

Status: Unutilized

Reasons: Secured Area, Extensive deterioration

Bldg. 43, TA-40

Los Alamos National Lab

Los Alamos NM 87545-

Landholding Agency: Energy

Property Number: 41199940018

Status: Unutilized

Reasons: Secured Area, Extensive deterioration

Bldg. 258, TA-46

Los Alamos National Lab

Los Alamos NM 87545-

Landholding Agency: Energy

Property Number: 41199940019

Status: Unutilized

Reasons: Secured Area, Extensive deterioration

TA-3, Bldg. 208

Los Alamos National Lab

Los Alamos NM 87545-

Landholding Agency: Energy

Property Number: 41200010010

Status: Unutilized

Reasons: Secured Area, Extensive deterioration

TA-6, Bldg. 1

Los Alamos National Lab

Los Alamos NM 87545-

Landholding Agency: Energy

Property Number: 41200010011

Status: Unutilized

Reasons: Secured Area, Extensive deterioration

TA-6, Bldg. 2

Los Alamos National Lab

Los Alamos NM 87545-

Landholding Agency: Energy

Property Number: 41200010012

Status: Unutilized

Reasons: Secured Area, Extensive deterioration

TA-6, Bldg. 3

Los Alamos National Lab

Los Alamos NM 87545-

Landholding Agency: Energy

Property Number: 41200010013

Status: Unutilized

Reasons: Secured Area, Extensive deterioration

TA-6, Bldg. 5

Los Alamos National Lab

Los Alamos NM 87545-

Landholding Agency: Energy

Property Number: 41200010014

Status: Unutilized

Reasons: Secured Area, Extensive deterioration

TA-6, Bldg. 6

Los Alamos National Lab

Los Alamos NM 87545-

Landholding Agency: Energy

Property Number: 41200010015

Status: Unutilized

Reason: Secured Area

TA-6, Bldg. 7

Los Alamos National Lab

Los Alamos NM 87545-

Landholding Agency: Energy

Property Number: 41200010016

Status: Unutilized

Reason: Secured Area

TA-6, Bldg. 8

Los Alamos National Lab

Los Alamos NM 87545-

Landholding Agency: Energy

Property Number: 41200010017

Status: Unutilized

Reasons: Secured Area, Extensive deterioration

TA-6, Bldg. 9

Los Alamos National Lab

Los Alamos NM 87545-

Landholding Agency: Energy

Property Number: 41200010018

Status: Unutilized

Reason: Secured Area

TA-14, Bldg. 5

Los Alamos National Lab

Los Alamos NM 87545-

Landholding Agency: Energy

Property Number: 41200010019

Status: Unutilized

Reason: Secured Area

TA-21, Bldg. 150

Los Alamos National Lab

Los Alamos NM 87545-

Landholding Agency: Energy

Property Number: 41200010020

Status: Unutilized

Reason: Secured Area

Bldg. 149, TA-21

Los Alamos National Lab

Los Alamos NM 87545-

Landholding Agency: Energy

Property Number: 41200010024

Status: Unutilized

Reason: Secured Area

Bldg. 312, TA-21

Los Alamos National Lab

Los Alamos NM 87545-

Landholding Agency: Energy

Property Number: 41200010025

Status: Unutilized

Reason: Secured Area

Bldg. 313, TA-21

Los Alamos National Lab

Los Alamos NM 87545-

Landholding Agency: Energy

Property Number: 41200010026

Status: Unutilized

Reason: Secured Area

Bldg. 314, TA-21

Los Alamos National Lab

Los Alamos NM 87545-

Landholding Agency: Energy

Property Number: 41200010027

Status: Unutilized

Reason: Secured Area

Bldg. 315, TA-21

Los Alamos National Lab

Los Alamos NM 87545-

Landholding Agency: Energy

Property Number: 41200010028

Status: Unutilized

Reason: Secured Area

Bldg. 1, TA-8

Los Alamos National Lab

Los Alamos NM 87545-

Landholding Agency: Energy

Property Number: 41200010029

Status: Unutilized

Reason: Secured Area

Bldg. 2, TA-8

Los Alamos National Lab

Los Alamos NM 87545-

Landholding Agency: Energy

Property Number: 41200010030

Status: Unutilized

Reasons: Secured Area, Extensive deterioration

Bldg. 3, TA-8

Los Alamos National Lab

Los Alamos NM 87545-

Landholding Agency: Energy

Property Number: 41200020001

Status: Unutilized

Reasons: Secured Area, Extensive deterioration

Bldg. 51, TA-9

Los Alamos National Lab

Los Alamos NM 87545-

Landholding Agency: Energy

Property Number: 41200020002

Status: Unutilized

Reason: Secured Area

Bldg. 30, TA-14

Los Alamos National Lab

Los Alamos NM 87545-

Landholding Agency: Energy

Property Number: 41200020003

Status: Unutilized

Reason: Secured Area

Bldg. 16, TA-3

Los Alamos National Lab

Los Alamos NM 87545-

Landholding Agency: Energy

Property Number: 41200020009

Status: Unutilized

Reason: Secured Area

Bldg. 339, TA-16

Los Alamos National Lab

Los Alamos NM 87545-

Landholding Agency: Energy

Property Number: 41200020010

Status: Unutilized

Reason: Secured Area

Bldg. 340, TA-16

Los Alamos National Lab

Los Alamos NM 87545-

Landholding Agency: Energy

Property Number: 41200020011

Status: Unutilized

Reason: Secured Area

Bldg. 341, TA-16

Los Alamos National Lab

Los Alamos NM 87545-

Landholding Agency: Energy

Property Number: 41200020012

Status: Unutilized

Reason: Secured Area

Bldg. 342, TA-16

Los Alamos National Lab

Los Alamos NM 87545-

Landholding Agency: Energy

Property Number: 41200020013

Status: Unutilized

Reason: Secured Area

Bldg. 343, TA-16

Los Alamos National Lab

Los Alamos NM 87545-

Landholding Agency: Energy

Property Number: 41200020014

Status: Unutilized

Reason: Secured Area

Bldg. 345, TA-16

Los Alamos National Lab

Los Alamos NM 87545-

Landholding Agency: Energy

Property Number: 41200020015

Status: Unutilized

Reason: Secured Area

Bldg. 48, TA-55

Los Alamos National Lab

Los Alamos NM 87545-

Landholding Agency: Energy

Property Number: 41200020017

Status: Unutilized

Reason: Secured Area

Bldg. 125, TA-55

Los Alamos National Lab

Los Alamos NM 87545-

Landholding Agency: Energy

Property Number: 41200020018

Status: Unutilized

Reason: Secured Area

Bldg. 162, TA-55

Los Alamos National Lab

Los Alamos NM 87545-

Landholding Agency: Energy

Property Number: 41200020019

Status: Unutilized

Reason: Secured Area

Bldg. 22, TA-33

Los Alamos National Lab

Los Alamos NM 87545-

Landholding Agency: Energy

Property Number: 41200020022

Status: Unutilized

Reasons: Secured Area, Extensive deterioration

Bldg. 23, TA-49

Los Alamos National Lab

Los Alamos NM 87545-

Landholding Agency: Energy

Property Number: 41200020023

Status: Unutilized

Reason: Secured Area

Bldg. 37, TA-53

Los Alamos National Lab

Los Alamos NM 87545-

Landholding Agency: Energy

Property Number: 41200020024

Status: Unutilized

Reason: Secured Area

Bldg. 121, TA-49

Los Alamos National Lab

Los Alamos NM 87545-

Landholding Agency: Energy

Property Number: 41200020025

Status: Unutilized

Reason: Secured Area

5 Bldgs.

Kirtland AFB

Sandia Natl Lab

Albuquerque Co: Bernalillo NM 87185-

Location: 9927, 9970, 6730, 6731, 6555

Landholding Agency: Energy

Property Number: 41200210014

Status: Excess

Reason: Extensive deterioration

6 Bldgs.

Kirtland AFB

Sandia Natl Lab

Albuquerque Co: Bernalillo NM 87185-

Location: 6725, 841, 884, 892, 893, 9800

Landholding Agency: Energy

Property Number: 41200210015

Status: Excess

Reason: Extensive deterioration

TA-53, Bldg. 61

Los Alamos National Lab

Los Alamos NM 87545-

Landholding Agency: Energy

Property Number: 41200220023

Status: Unutilized

Reason: Extensive deterioration

TA-53, Bldg. 63

Los Alamos National Lab

Los Alamos NM 87545-

Landholding Agency: Energy

Property Number: 41200220024

Status: Unutilized

Reason: Extensive deterioration

TA-53, Bldg. 65

Los Alamos National Lab

Los Alamos NM 87545-

Landholding Agency: Energy

Property Number: 41200220025

Status: Unutilized

Reason: Extensive deterioration

Bldg. B117

Kirtland Operations

Albuquerque Co: Bernalillo NM 87117-

Landholding Agency: Energy

Property Number: 41200220032

Status: Excess

Reason: Extensive deterioration

Bldg. B118

Kirtland Operations

Albuquerque Co: Bernalillo NM 87117-

Landholding Agency: Energy

Property Number: 41200220033

Status: Excess

Reason: Extensive deterioration

Bldg. B119

Kirtland Operations

Albuquerque Co: Bernalillo NM 87117-

Landholding Agency: Energy

Property Number: 41200220034

Status: Excess

Reason: Extensive deterioration

Bldg. 6721

Kirtland AFB

Albuquerque Co: Bernalillo NM 87185-

Landholding Agency: Energy

Property Number: 41200220042

Status: Unutilized

Reason: Extensive deterioration

6 Bldgs.

Kirtland Air Force Base

#852, 874, 9939A, 6536, 6636, 833A

Albuquerque NM 87185-

Landholding Agency: Energy

Property Number: 41200230001

Status: Excess

Reason: Secured Area

Bldg. 805

Kirtland Air Force Base

Albuquerque Co: Bernalillo NM 87185-

Landholding Agency: Energy

Property Number: 41200240001

Status: Unutilized

Reason: Secured Area

Bldg. 8898

Kirtland Air Force Base

Albuquerque Co: Bernalillo NM 87185-

Landholding Agency: Energy

Property Number: 41200240002

Status: Unutilized

Reason: Secured Area

8 Bldgs., TA-16

Los Alamos National Lab

195, 220-226

Los Alamos NM 87545-

Landholding Agency: Energy

Property Number: 41200240003

Status: Unutilized

Reason: Secured Area

Bldg. 2, TA-11

Los Alamos National Lab

Los Alamos NM 87545-

Landholding Agency: Energy

Property Number: 41200240004

Status: Unutilized

Reason: Secured Area

Bldg. 4, TA-41

Los Alamos National Lab

Los Alamos NM 87545-

Landholding Agency: Energy

Property Number: 41200240005

Status: Unutilized

Reason: Secured Area

Bldg. 16, TA-41

Los Alamos National Lab

Los Alamos NM 87545-

Landholding Agency: Energy

Property Number: 41200240006

Status: Unutilized

Reason: Secured Area

Bldg. 30, TA-41

Los Alamos National Lab

Los Alamos NM 87545-

Landholding Agency: Energy

Property Number: 41200240007

Status: Unutilized

Reason: Secured Area

Bldg. 53, TA-41

Los Alamos National Lab

Los Alamos NM 87545-

Landholding Agency: Energy

Property Number: 41200240008

Status: Unutilized

Reason: Secured Area

Bldg. 2, TA-33

Los Alamos National Lab

Los Alamos NM 87545-

Landholding Agency: Energy

Property Number: 41200310001

Status: Unutilized

Reasons: Secured Area, Extensive deterioration

Bldgs. 228, 286, TA-21

Los Alamos National Lab

Los Alamos NM 87545-

Landholding Agency: Energy

Property Number: 41200310002

Status: Unutilized

Reason: Secured Area

Bldg. 116, TA-21

Los Alamos National Lab

Los Alamos NM 87545-

Landholding Agency: Energy

Property Number: 41200310003

Status: Unutilized

Reason: Secured Area

Bldgs. 1, 2, 3, 4, 5, TA-28

Los Alamos National Lab

Los Alamos NM 87545-

Landholding Agency: Energy

Property Number: 41200310004

Status: Unutilized

Reason: Secured Area

Bldgs. 447, 1483

Los Alamos Natl Laboratory

Los Alamos NM

Landholding Agency: Energy

Property Number: 41200410002

Status: Excess

Reasons: Secured Area, Extensive deterioration

Bldgs. 870C & 9830

Kirtland AFB

Albuquerque Co: Bernalillo NM 87185-

Landholding Agency: Energy

Property Number: 41200410037

Status: Excess

Reason: Secured Area

Tract 102-73

El Malpais National Monument

Grants Co: Cibola NM 87020-

Landholding Agency: Interior

Property Number: 61200420002

Status: Unutilized

Reason: Extensive deterioration

Bldgs. 001A, 001B, 001C

Pigeon's Ranch

Glorieta Co: Santa Fe NM 87535-

Landholding Agency: Interior

Property Number: 61200430006

Status: Unutilized

Reason: Extensive deterioration

Bldgs. 002A, 002B, 002C

Pigeon's Ranch

Glorieta Co: Santa Fe NM 87535-

Landholding Agency: Interior

Property Number: 61200430007

Status: Unutilized

Reason: Extensive deterioration

Bldgs. 002D, 002F

Pigeon's Ranch

Glorieta Co: Santa Fe NM 87535-

Landholding Agency: Interior

Property Number: 61200430008

Status: Unutilized

Reason: Extensive deterioration

Bldg. 003A

Pigeon's Ranch

Glorieta Co: Santa Fe NM 87535-

Landholding Agency: Interior

Property Number: 61200430009

Status: Unutilized

Reason: Extensive deterioration

Blgs. 004A, 004B

Pigeon's Ranch

Glorieta Co: Santa Fe NM 87535-

Landholding Agency: Interior

Property Number: 61200430010

Status: Unutilized

Reason: Extensive deterioration

Bldgs. 006A, 006B

Pigeon's Ranch

Glorieta Co: Santa Fe NM 87535-

Landholding Agency: Interior

Property Number: 61200430011

Status: Unutilized

Reason: Extensive deterioration

New York

Warehouse

Whitney Lake Project

Whitney Point Co: Broome NY 13862-0706

Landholding Agency: COE

Property Number: 31199630007

Status: Unutilized

Reason: Extensive deterioration

Bldg. 0207

Brookhaven Natl Laboratory

Upton Co: Suffolk NY 11973-

Landholding Agency: Energy

Property Number: 41200410006

Status: Excess

Reason: Extensive deterioration

Bldgs/Pier/Field

USCG/Ft. Totten

Borough of Queens Co: Flushing NY

Landholding Agency: GSA

Property Number: 54200320015

Status: Surplus

Reason: Contamination

GSA Number: 1-U-NY-882

Gardiners Point

Long Island Co: Suffolk NY

Landholding Agency: GSA

Property Number: 54200340003

Status: Excess

Reasons: No access/unexploded ordnance Extensive deterioration

GSA Number: 1-N-NY-897

Army Reserve Center

Corning Co: Steuben NY 14830-2098

Landholding Agency: GSA

Property Number: 54200420017

Status: Excess

Reason: Within 2000 ft. of flammable or explosive material

GSA Number: 1-D-NY-0896

Woodhaven Housing

Park Drive

Rome Co: NY 13440-

Landholding Agency: GSA

Property Number: 54200440003

Status: Surplus

Reason: Extensive deterioration

GSA Number: 1-D-NY-0831-C

North Carolina

Prop. ID WKS20350

Scott Reservoir Project

Wilkesboro NC 28697-7462

Landholding Agency: COE

Property Number: 31200310008

Status: Unutilized

Reason: Extensive deterioration

Bldg. #2-17009

Cape Fear River Lock/Dam

Elizabeth Co: Bladen NC 28337-

Landholding Agency: COE

Property Number: 31200420013

Status: Unutilized

Reason: Extensive deterioration

10 Bldgs.

Kerr Scott Project

Wilkesboro Co: Wilkes NC 28697-7462

Location: WKS16334-16335, 17334-17337, 18227-18228, 18864-18865

Landholding Agency: COE

Property Number: 31200420014

Status: Unutilized

Reason: Extensive deterioration

5 Bldgs.

Kerr Scott Project

Wilkesboro Co: Wilkes NC 28697-7462

Location: WKS15830, 17268, 18687, 18875, 26808

Landholding Agency: COE

Property Number: 31200420015

Status: Unutilized

Reason: Extensive deterioration

Bldgs. WKS16426, 16427, 25928

Kerr Scott Project

Wilkesboro Co: Wilkes NC 28697-7462

Landholding Agency: COE

Property Number: 31200420016

Status: Unutilized

Reason: Extensive deterioration

Bldgs. WKS18234, 18337

Kerr Scott Project

Wilkesboro Co: Wilkes NC 28697-7462

Landholding Agency: COE

Property Number: 31200420017

Status: Unutilized

Reason: Extensive deterioration

Bldg. WKS18691

Kerr Scott Project

Wilkesboro Co: Wilkes NC 28697-7462

Landholding Agency: COE

Property Number: 31200420018

Status: Unutilized

Reason: Extensive deterioration

Ranger Residence

Jordan Lake Project

Apex Co: Chatham NC

Landholding Agency: COE

Property Number: 31200440013

Status: Unutilized

Reason: Extensive deterioration

Ranger Residence #2

Falls Lake Project

Wake Co: NC

Landholding Agency: COE

Property Number: 31200510011

Status: Unutilized

Reason: Extensive deterioration

Two Tower Sites

Marine Corps Air Station

Cherry Point Co: NC

Landholding Agency: Navy

Property Number: 77200440017

Status: Underutilized

Reason: Secured Area

Bldg. 82

Marine Corps Air Station

Cherry Point Co: Craven NC 28533-

Landholding Agency: Navy

Property Number: 77200510009

Status: Underutilized

Reason: Secured Area

Bldg. 4314

Marine Corps Air Station

Cherry Point Co: Craven NC 28533-

Landholding Agency: Navy

Property Number: 77200510010

Status: Underutilized

Reason: Secured Area

Ohio

Bldg. 77

Fernald Environmental Management Project

Fernald Co: Hamilton OH 45013-

Landholding Agency: Energy

Property Number: 41199840003

Status: Excess

Reasons: Within 2000 ft. of flammable or explosive material, Secured Area

Bldg. 82A

Fernald Environmental Mgmt. Project

Fernald Co: Hamilton OH 45013-

Landholding Agency: Energy

Property Number: 41199910018

Status: Excess

Reasons: Within 2000 ft. of flammable or explosive material, Secured Area

Bldg. 16

RMI Environmental Services

Ashtabula OH 44004-

Landholding Agency: Energy

Property Number: 41199930016

Status: Unutilized

Reason: Secured Area

Bldg. 22B

Fernald Env. Mgmt. Proj.

Hamilton OH 45013-9402

Landholding Agency: Energy

Property Number: 41200020026

Status: Unutilized

Reasons: Within 2000 ft. of flammable or explosive material, Secured Area

Bldg. 53A

Fernald Env. Mgmt. Project

Fernald Co: Hamilton OH 45013-9402

Landholding Agency: Energy

Property Number: 41200120009

Status: Excess

Reason: Secured Area

Bldg. 8G

Fernald Environmental Mgmt. Project

Hamilton OH 45013-

Landholding Agency: Energy

Property Number: 41200210003

Status: Excess

Reason: Secured Area

Bldg. 8H

Fernald Environmental Mgmt. Project

Hamilton OH 45013-

Landholding Agency: Energy

Property Number: 41200210004

Status: Excess

Reason: Secured Area

Bldg. 94A

Fernald Environmental Mgmt. Project

Hamilton OH 45013-

Landholding Agency: Energy

Property Number: 41200210005

Status: Excess

Reason: Secured Area

Bldg. 11

Fernald Env. Mgmt. Proj.

Hamilton OH 45013-

Landholding Agency: Energy

Property Number: 41200220026

Status: Excess

Reason: Secured Area

Bldg. 14A

Fernald Env. Mgmt. Proj

Hamilton OH 45013-

Landholding Agency: Energy

Property Number: 41200220027

Status: Excess

Reason: Secured Area

Bldg. 15C

Fernald Env. Mgmt. Proj.

Hamilton OH 45013-

Landholding Agency: Energy

Property Number: 41200220029

Status: Excess

Reason: Secured Area

Bldg. 20K

Fernald Env. Mgmt. Proj.

Hamilton OH 45013-

Landholding Agency: Energy

Property Number: 41200220030

Status: Excess

Reason: Secured Area

Bldg. 53B

Fernald Env. Mgmt. Proj.

Hamilton OH 45013-

Landholding Agency: Energy

Property Number: 41200220031

Status: Excess

Reason: Secured Area

Modular Ofc. Bldg.

RMI

Ashtabula OH 44004-

Landholding Agency: Energy

Property Number: 41200310008

Status: Excess

Reason: Contamination

Modular Lab Bldg.

RMI

Ashtabula OH 44004-

Landholding Agency: Energy

Property Number: 41200310009

Status: Excess

Reason: Contamination

Soil Storage Bldg.

RMI

Ashtabula OH 44004-

Landholding Agency: Energy

Property Number: 41200310010

Status: Excess

Reason: Contamination

Soil Washing Bldg.

RMI

Ashtabula OH 44004-

Landholding Agency: Energy

Property Number: 41200310011

Status: Excess

Reason: Contamination

Bldg. 16B

Fernald Env. Mgmt. Proj.

Hamilton Co: Butler OH 45013-

Landholding Agency: Energy

Property Number: 41200310012

Status: Excess

Reasons: Contamination, Secured Area

Bldg. 24C

Fernald Env. Mgmt. Proj.

Hamilton Co: Butler OH 45013-

Landholding Agency: Energy

Property Number: 41200310013

Status: Excess

Reasons: Contamination, Secured Area

Bldg. 50

Fernald Env. Mgmt. Proj.

Hamilton Co: Butler OH 45013-

Landholding Agency: Energy

Property Number: 41200310015

Status: Excess

Reasons: Contamination, Secured Area

Bldg. 52A

Fernald Env. Mgmt. Proj.

Hamilton Co: Butler OH 45013-

Landholding Agency: Energy

Property Number: 41200310016

Status: Excess

Reasons: Contamination, Secured Area

Bldg. 52B

Fernald Env. Mgmt. Proj.

Hamilton Co: Butler OH 45013-

Landholding Agency: Energy

Property Number: 41200310017

Status: Excess

Reasons: Contamination, Secured Area

Oklahoma

Comfort Station

LeFlore Landing PUA

Sallisaw Co: LeFlore OK 74955-9445

Landholding Agency: COE

Property Number: 31200240008

Status: Excess

Reason: Extensive deterioration

Comfort Station

Braden Bend PUA

Sallisaw Co: LeFlore OK 74955-9445

Landholding Agency: COE

Property Number: 31200240009

Status: Excess

Reason: Extensive deterioration

Water Treatment Plant

Salt Creek Cove

Sawyer Co: Choctaw OK 74756-0099

Landholding Agency: COE

Property Number: 31200240010

Status: Excess

Reason: Extensive deterioration

Water Treatment Plant

Wilson Point

Sawyer Co: Choctaw OK 74756-0099

Landholding Agency: COE

Property Number: 31200240011

Status: Excess

Reason: Extensive deterioration

2 Comfort Stations

Landing PUA/Juniper Point PUA

Stigler Co: McIntosh OK 74462-9440

Landholding Agency: COE

Property Number: 31200240012

Status: Excess

Reason: Extensive deterioration

Filter Plant/Pumphouse

South PUA

Stigler Co: McIntosh OK 74462-9440

Landholding Agency: COE

Property Number: 31200240013

Status: Excess

Reason: Extensive deterioration

Filter Plant/Pumphouse

North PUA

Stigler Co: McIntosh OK 74462-9440

Landholding Agency: COE

Property Number: 31200240014

Status: Excess

Reason: Extensive deterioration

Filter Plant/Pumphouse

Juniper Point PUA

Stigler Co: McIntosh OK 74462-9440

Landholding Agency: COE

Property Number: 31200240015

Status: Excess

Reason: Extensive deterioration

Comfort Station

Juniper Point PUA

Stigler Co: McIntosh OK 74462-9440

Landholding Agency: COE

Property Number: 31200240016

Status: Excess

Reason: Extensive deterioration

Comfort Station

Brooken Cove PUA

Stigler Co: McIntosh OK 74462-9440

Landholding Agency: COE

Property Number: 31200240017

Status: Excess

Reason: Extensive deterioration

2 Bldgs.

Outlet Channel/Walker Creek

Waurika OK 73573-0029

Landholding Agency: COE

Property Number: 31200340013

Status: Excess

Reason: Extensive deterioration

2 Bldgs.

Damsite South

Stigler OK 74462-9440

Landholding Agency: COE

Property Number: 31200340014

Status: Excess

Reason: Extensive deterioration

19 Bldgs.

Kaw Lake

Ponca City OK 74601-9962

Landholding Agency: COE

Property Number: 31200340015

Status: Excess

Reason: Extensive deterioration

30 Bldgs.

Keystone Lake

Sand Springs OK 74063-9338

Landholding Agency: COE

Property Number: 31200340016

Status: Excess

Reason: Extensive deterioration

13 Bldgs.

Oologah Lake

Oologah OK 74053-0700

Landholding Agency: COE

Property Number: 31200340017

Status: Excess

Reason: Extensive deterioration

14 Bldgs.

Pine Creek Lake

Valliant OK 74764-9801

Landholding Agency: COE

Property Number: 31200340018

Status: Excess

Reason: Extensive deterioration

6 Bldgs.

Sardis Lake

Clayton OK 74536-9729

Landholding Agency: COE

Property Number: 31200340019

Status: Excess

Reason: Extensive deterioration

24 Bldgs.

Skiatook Lake

Skiatook OK 74070-9803

Landholding Agency: COE

Property Number: 31200340020

Status: Excess

Reason: Extensive deterioration

40 Bldgs.

Eufaula Lake

Stigler OK 74462-5135

Landholding Agency: COE

Property Number: 31200340021

Status: Excess

Reason: Extensive deterioration

2 Bldgs.

Holiday Cove

Stigler OK 74462-5135

Landholding Agency: COE

Property Number: 31200340022

Status: Excess

Reason: Extensive deterioration

18 Bldgs.

Fort Gibson

Ft. Gibson Co: Wagoner OK 74434-0370

Landholding Agency: COE

Property Number: 31200340023

Status: Excess

Reason: Extensive deterioration

2 Bldgs.

Fort Supply

Ft. Supply Co: Woodward OK 73841-0248

Landholding Agency: COE

Property Number: 31200340024

Status: Excess

Reason: Extensive deterioration

Game Bird House

Fort Supply Lake

Ft. Supply Co: Woodward OK 73841-0248

Landholding Agency: COE

Property Number: 31200340025

Status: Excess

Reason: Extensive deterioration

11 Bldgs.

Hugo Lake

Sawyer OK 74756-0099

Landholding Agency: COE

Property Number: 31200340026

Status: Excess

Reason: Extensive deterioration

5 Bldgs.

Birch Cove/Twin Cove

Skiatook OK 74070-9803

Landholding Agency: COE

Property Number: 31200340027

Status: Excess

Reason: Extensive deterioration

2 Bldgs.

Fairview Group Camp

Canton OK 73724-0069

Landholding Agency: COE

Property Number: 31200340028

Status: Excess

Reason: Extensive deterioration

2 Bldgs.

Chouteau & D Bluff

Gore Co: Wagoner OK 74935-9404

Landholding Agency: COE

Property Number: 31200340029

Status: Excess

Reason: Extensive deterioration

2 Bldgs.

Newt Graham L&D

Gore OK 74935-9404

Landholding Agency: COE

Property Number: 31200340030

Status: Excess

Reason: Extensive deterioration

6 Bldgs.

Damsite/Fisherman's Landing

Sallisaw OK 74955-9445

Landholding Agency: COE

Property Number: 31200340031

Status: Excess

Reason: Extensive deterioration

10 Bldgs.

Webbers Falls Lake

Gore OK 74435-5541

Landholding Agency: COE

Property Number: 31200340032

Status: Excess

Reason: Extensive deterioration

14 Bldgs.

Copan Lake

Copan OK 74022-9762

Landholding Agency: COE

Property Number: 31200340033

Status: Excess

Reason: Extensive deterioration

Oregon

2 Floating Docks

Rogue River

Gold Beach Co: Curry OR 97444-

Landholding Agency: COE

Property Number: 31200430015

Status: Excess

Reason: Floodway

2 Trailers

John Day Project

#1 West Marine Drive

Boardman Co: Morrow OR 97818-

Landholding Agency: COE

Property Number: 31200510012

Status: Unutilized

Reason: Extensive deterioration

Industrial Warehouse

2760 Yeon Avenue

Portland Co: OR 97210-

Landholding Agency: GSA

Property Number: 54200430009

Status: Surplus

Reason: Within 2000 ft. of flammable or explosive material

GSA Number: 9-G-OR-741

Bldg. 0012-0410-00

Homedale Road

Klamath Falls Co: Klamath OR 97603-

Landholding Agency: Interior

Property Number: 61200410002

Status: Unutilized

Reason: Extensive deterioration

Bldg. 0012-0411-00

Homedale Road

Klamath Falls Co: Klamath OR 97603-

Landholding Agency: Interior

Property Number: 61200410003

Status: Unutilized

Reason: Extensive deterioration

Bldg. 0012-0412-00

Homedale Road

Klamath Falls Co: Klamath OR 97603-

Landholding Agency: Interior

Property Number: 61200410004

Status: Unutilized

Reason: Extensive deterioration

Pennsylvania

Z-Bldg.

Bettis Atomic Power Lab

West Mifflin Co: Allegheny PA 15122-0109

Landholding Agency: Energy

Property Number: 41199720002

Status: Excess

Reason: Extensive deterioration

Bldg. 904

Naval Support Activity

Mechanicsburg Co: Cumberland PA 17055-

Landholding Agency: Navy

Property Number: 77200430066

Status: Excess

Reason: Extensive deterioration

Bldg. 952

Naval Support Activity

Mechanicsburg Co: Cumberland PA 17055-

Landholding Agency: Navy

Property Number: 77200430067

Status: Excess

Reason: Extensive deterioration

Bldg. 953

Naval Support Activity

Mechanicsburg Co: Cumberland PA 17055-

Landholding Agency: Navy

Property Number: 77200430068

Status: Excess

Reason: Extensive deterioration

South Carolina

Prop. ID JST18895

Thurmond Project

Clarks Hill Co: McCormick SC

Landholding Agency: COE

Property Number: 31200310010

Status: Unutilized

Reason: Extensive deterioration

5 Bldgs.

Thurmond Project

Clarks Hill Co: McCormick SC

Location: JST15781, JST15784, JST15864, JST15866, TST15868

Landholding Agency: COE

Property Number: 31200310011

Status: Unutilized

Reason: Extensive deterioration

Prop. ID JST17133

Thurmond Project

Clarks Hill Co: McCormick SC

Landholding Agency: COE

Property Number: 31200310012

Status: Unutilized

Reason: Extensive deterioration

Prop. ID JST18428

Thurmond Project

Clarks Hill Co: McCormick SC

Landholding Agency: COE

Property Number: 31200310013

Status: Unutilized

Reason: Extensive deterioration

Bldg.

Fishing Creek/Deer Run

Clarks Hill SC 29821-0010

Landholding Agency: COE

Property Number: 31200340034

Status: Excess

Reason: Extensive deterioration

2 Outbuildings

JST-20814, JST-20815

Lower Air Strip

Clarks Hill Co: McCormick SC 29821-

Landholding Agency: COE

Property Number: 31200510013

Status: Unutilized

Reason: Extensive deterioration

Bldg. 701-6G

Jackson Barricade

Jackson SC

Landholding Agency: Energy

Property Number: 41200420010

Status: Unutilized

Reason: Secured Area

Bldg. 211-000F

Nuclear Materials Processing Facility

Aiken SC 29802-

Landholding Agency: Energy

Property Number: 41200420011

Status: Excess

Reason: Secured Area

Bldg. 211-001F

Nuclear Materials Processing Facility

Aiken SC 29802-

Landholding Agency: Energy

Property Number: 41200420012

Status: Excess

Reason: Secured Area

Bldg. 211-002F

Nuclear Materials Processing Facility

Aiken SC 29802-

Landholding Agency: Energy

Property Number: 41200420013

Status: Excess

Reason: Secured Area

Bldg. 221-25F

Nuclear Materials Processing Facility

Aiken SC 29802-

Landholding Agency: Energy

Property Number: 41200420014

Status: Excess

Reason: Secured Area

Bldg. 221-001F

Nuclear Materials Processing Facility

Aiken SC 29802-

Landholding Agency: Energy

Property Number: 41200420015

Status: Excess

Reason: Secured Area

Bldg. 704-D

Federal Reserve Site

Aiken SC 29802-

Landholding Agency: Energy

Property Number: 41200420016

Status: Excess

Reason: Secured Area

Bldg. 703-F

Savannah River Operations

Aiken SC 29802-

Landholding Agency: Energy

Property Number: 41200420019

Status: Unutilized

Reason: Secured Area

Bldg. 721-A

Savannah River Operations

Aiken SC 29802-

Landholding Agency: Energy

Property Number: 41200420020

Status: Unutilized

Reason: Secured Area

Bldg. 724-A

Savannah River Operations

Aiken SC 29802-

Landholding Agency: Energy

Property Number: 41200420021

Status: Unutilized

Reason: Secured Area

Bldg. 730-M

Savannah River Operations

Aiken SC 29802-

Landholding Agency: Energy

Property Number: 41200420022

Status: Unutilized

Reason: Secured Area

Bldgs. 183-1R, 183-2R

Savannah River Operations

Aiken SC 29802-

Landholding Agency: Energy

Property Number: 41200420025

Status: Unutilized

Reason: Secured Area

Bldg. 186-C

Savannah River Operations

Aiken SC 29802-

Landholding Agency: Energy

Property Number: 41200420026

Status: Unutilized

Reason: Secured Area

Bldgs. 186-K, 186-1K

Savannah River Operations

Aiken SC 29802-

Landholding Agency: Energy

Property Number: 41200420027

Status: Unutilized

Reason: Secured Area

Bldgs. 186-P, 186-1P

Savannah River Operations

Aiken SC 29802-

Landholding Agency: Energy

Property Number: 41200420028

Status: Unutilized

Reason: Secured Area

Bldg. 190-C

Savannah River Operations

Aiken SC 29802-

Landholding Agency: Energy

Property Number: 41200420029

Status: Unutilized

Reason: Secured Area

Bldg. 190-K

Savannah River Operations

Aiken SC 29802-

Landholding Agency: Energy

Property Number: 41200420030

Status: Unutilized

Reason: Secured Area

Bldg. 190-P

Savannah River Operations

Aiken SC 29802-

Landholding Agency: Energy

Property Number: 41200420031

Status: Unutilized

Reason: Secured Area

Bldg. 704-002N

Savannah River Operations

Aiken Co: SC 29802-

Landholding Agency: Energy

Property Number: 41200430001

Status: Excess

Reason: Secured Area

Bldg. 710-015N

Savannah River Operations

Aiken Co: SC 29802-

Landholding Agency: Energy

Property Number: 41200430002

Status: Excess

Reason: Secured Area

Bldg. 713-000N

Savannah River Operations

Aiken Co: SC 29802-

Landholding Agency: Energy

Property Number: 41200430003

Status: Excess

Reason: Secured Area

Bldg. 717-000C

Savannah River Operations

Aiken Co: SC 29802-

Landholding Agency: Energy

Property Number: 41200430004

Status: Excess

Reason: Secured Area

Bldg. 717-011N

Savannah River Opeations

Aiken Co: SC 29802-

Landholding Agency: Energy

Property Number: 41200430005

Status: Excess

Reason: Secured Area

Bldgs. 80-9G, 10G

Savannah River Operations

Aiken Co: SC 29802-

Landholding Agency: Energy

Property Number: 41200430006

Status: Excess

Reason: Secured Area

Bldgs. 105-P, 105-R

Savannah River Operations

Aiken Co: SC 29802-

Landholding Agency: Energy

Property Number: 41200430007

Status: Excess

Reason: Secured Area

Bldg. 183-002P

Savannah River Operations

Aiken Co: SC 29802-

Landholding Agency: Energy

Property Number: 41200430008

Status: Excess

Reason: Secured Area

Bldg. 183-003L

Savannah River Operations

Aiken Co: SC 29802-

Landholding Agency: Energy

Property Number: 41200430009

Status: Excess

Reason: Secured Area

Bldgs. 183-004K, 004L, 004P

Savannah River Operations

Aiken Co: SC 29802-

Landholding Agency: Energy

Property Number: 41200430010

Status: Excess

Reason: Secured Area

6 Bldgs.

Savannah River Operations

Aiken Co: SC 29802-

Location: 185-000K, 607-020K, 110-000L, 107-000P, 607-024P, 109-000R

Landholding Agency: Energy

Property Number: 41200430011

Status: Excess

Reason: Secured Area

Bldg. 191-000L

Savannah River Operations

Aiken Co: SC 29802-

Landholding Agency: Energy

Property Number: 41200430012

Status: Excess

Reason: Secured Area

Bldgs. 211-005F, 008F, 042F

Savannah River Operations

Aiken Co: SC 29802-

Landholding Agency: Energy

Property Number: 41200430013

Status: Excess

Reason: Secured Area

Bldg. 221-016F

Savannah River Operations

Aiken Co: SC 29802-

Landholding Agency: Energy

Property Number: 41200430014

Status: Excess

Reason: Secured Area

Bldgs. 221-034F, 035F

Savannah River Operations

Aiken Co: SC 29802-

Landholding Agency: Energy

Property Number: 41200430015

Status: Excess

Reason: Secured Area

Bldgs. 221-053F, 054F

Savannah River Operations

Aiken Co: SC 29802-

Landholding Agency: Energy

Property Number: 41200430016

Status: Excess

Reason: Secured Area

Bldgs. 252-003F, 005F

Savannah River Operations

Aiken Co: SC 29802-

Landholding Agency: Energy

Property Number: 41200430017

Status: Excess

Reason: Secured Area

Bldg. 607-022P

Savannah River Operations

Aiken Co: SC 29802-

Landholding Agency: Energy

Property Number: 41200430018

Status: Excess

Reason: Secured Area

Bldg. 614-002P

Savannah River Operations

Aiken Co: SC 29802-

Landholding Agency: Energy

Property Number: 41200430019

Status: Excess

Reason: Secured Area

Bldg. 647-000G

Savannah River Operations

Aiken Co: SC 29802-

Landholding Agency: Energy

Property Number: 41200430020

Status: Excess

Reason: Secured Area

Bldgs. 701-002P, 012A

Savannah River Operations

Aiken Co: SC 29802-

Landholding Agency: Energy

Property Number: 41200430021

Status: Excess

Reason: Secured Area

Bldg. 704-000P

Savannah River Operations

Aiken Co: SC 29802-

Landholding Agency: Energy

Property Number: 41200430022

Status: Excess

Reason: Secured Area

Bldg. 709-000A

Savannah River Operations

Aiken Co: SC 29802-

Landholding Agency: Energy

Property Number: 41200430023

Status: Excess

Reason: Secured Area

Bldg. 710-000N

Savannah River Operations

Aiken Co: SC 29802-

Landholding Agency: Energy

Property Number: 41200430024

Status: Excess

Reason: Secured Area

Bldgs. 723-001L, 002L, 003L

Savannah River Opeations

Aiken Co: SC 29802-

Landholding Agency: Energy

Property Number: 41200430025

Status: Excess

Reason: Secured Area

Bldg. 725-000A

Savannah River Operations

Aiken Co: SC 29802-

Landholding Agency: Energy

Property Number: 41200430026

Status: Excess

Reason: Secured Area

Bldg. 763-000A

Savannah River Opeations

Aiken Co: SC 29802-

Landholding Agency: Energy

Property Number: 41200430027

Status: Excess

Reason: Secured Area

Bldg. 221-013F

Savannah River Operations

Aiken Co: SC 29802-

Landholding Agency: Energy

Property Number: 41200430028

Status: Excess

Reason: Secured Area

Bldg. 278-002N

Savannah River Operations

Aiken Co: SC 29802-

Landholding Agency: Energy

Property Number: 41200430029

Status: Excess

Reason: Secured Area

Bldg. 315-M

Savannah River Operations

Aiken Co: SC 29802-

Landholding Agency: Energy

Property Number: 41200430030

Status: Excess

Reason: Secured Area

Bldg. 607-001A

Savannah River Operations

Aiken Co: SC 29802-

Landholding Agency: Energy

Property Number: 41200430031

Status: Excess

Reason: Secured Area

Bldg. 607-009C

Savannah River Operations

Aiken Co: SC 29802-

Landholding Agency: Energy

Property Number: 41200430032

Status: Excess

Reason: Secured Area

Bldg. 607-016A

Savannah River Operations

Aiken Co: SC 29802-

Landholding Agency: Energy

Property Number: 41200430033

Status: Excess Reason:

Secured Area

Bldg. 607-038N

Savannah River Operations

Aiken Co: SC 29802-

Landholding Agency: Energy

Property Number: 41200430034

Status: Excess

Reason: Secured Area

Bldg. 614-002C

Savannah River Operations

Aiken Co: SC 29802-

Landholding Agency: Energy

Property Number: 41200430035

Status: Excess

Reason: Secured Area

Bldg. 614-002K

Savannah River Operations

Aiken Co: SC 29802-

Landholding Agency: Energy

Property Number: 41200430036

Status: Excess

Reason: Secured Area

Bldg. 614-002L

Savannah River Operations

Aiken Co: SC 29802-

Landholding Agency: Energy

Property Number: 41200430037

Status: Excess

Reason: Secured Area

Bldg. 701-001F

Savannah River Operations

Aiken Co: SC 29802-

Landholding Agency: Energy

Property Number: 41200430038

Status: Excess

Reason: Secured Area

Bldg. 701-002C

Savannah River Operations

Aiken Co: SC 29802-

Landholding Agency: Energy

Property Number: 41200430039

Status: Excess

Reason: Secured Area

Bldg. 716-002A

Savannah River Operations

Aiken Co: SC 29802-

Landholding Agency: Energy

Property Number: 41200430040

Status: Excess

Reason: Secured Area

Bldg. 901-001K

Savannah River Operations

Aiken Co: SC 29802-

Landholding Agency: Energy

Property Number: 41200430041

Status: Excess

Reason: Secured Area

Bldgs. 221-21F, 22F

Savannah River Operations

Aiken Co: SC 29802-

Landholding Agency: Energy

Property Number: 41200430042

Status: Excess

Reason: Secured Area

Bldg. 221-033F

Savannah River Operations

Aiken Co: SC 29802-

Landholding Agency: Energy

Property Number: 41200430043

Status: Excess

Reason: Secured Area

Bldg. 254-007F

Savannah River Operations

Aiken Co: SC 29802-

Landholding Agency: Energy

Property Number: 41200430044

Status: Excess

Reason: Secured Area

Bldg. 281-001F

Savannah River Operations

Aiken Co: SC 29802-

Landholding Agency: Energy

Property Number: 41200430045

Status: Excess

Reason: Secured Area

Bldg. 281-004F

Savannah River Operations

Aiken Co: SC 29802-

Landholding Agency: Energy

Property Number: 41200430046

Status: Excess

Reason: Secured Area

Bldg. 281-006F

Savannah River Operations

Aiken Co: SC 29802-

Landholding Agency: Energy

Property Number: 41200430047

Status: Excess

Reason: Secured Area

Bldg. 305-000A

Savannah River Operations

Aiken Co: SC 29802-

Landholding Agency: Energy

Property Number: 41200430048

Status: Excess

Reason: Secured Area

Bldg. 701-012A

Savannah River Operations

Aiken Co: SC 29802-

Landholding Agency: Energy

Property Number: 41200430049

Status: Excess

Reason: Secured Area

Bldg. 703-045A

Savannah River Operations

Aiken Co: SC 29802-

Landholding Agency: Energy

Property Number: 41200430050

Status: Excess

Reason: Secured Area

Bldg. 703-071A

Savannah River Operations

Aiken Co: SC 29802-

Landholding Agency: Energy

Property Number: 41200430051

Status: Excess

Reason: Secured Area

Bldg. 709-000A

Savannah River Operations

Aiken Co: SC 29802-

Landholding Agency: Energy

Property Number: 41200430052

Status: Excess

Reason: Secured Area

Bldg. 710-000A

Savannah River Operations

Aiken Co: SC 29802-

Landholding Agency: Energy

Property Number: 41200430053

Status: Excess

Reason: Secured Area

Bldg. 713-000A

Savannah River Operations

Aiken Co: SC 29802-

Landholding Agency: Energy

Property Number: 41200430054

Status: Excess

Reason: Secured Area

Bldg. 716-A

Savannah River Operations

Aiken Co: SC 29802-

Landholding Agency: Energy

Property Number: 41200430055

Status: Excess

Reason: Secured Area

Bldg. 719-000A

Savannah River Operations

Aiken Co: SC 29802-

Landholding Agency: Energy

Property Number: 41200430056

Status: Excess

Reason: Secured Area

Bldg. 720-000A

Savannah River Operations

Aiken Co: SC 29802-

Landholding Agency: Energy

Property Number: 41200430057

Status: Excess

Reason: Secured Area

Bldg. 754-008A

Savannah River Operations

Aiken Co: SC 29802-

Landholding Agency: Energy

Property Number: 41200430058

Status: Excess

Reason: Secured Area

Bldg. 763-000A

Savannah River Operations

Aiken Co: SC 29802-

Landholding Agency: Energy

Property Number: 41200430059

Status: Excess

Reason: Secured Area

Bldgs. 772-008G, 009G, 010G

Savannah River Operations

Aiken Co: SC 29802-

Landholding Agency: Energy

Property Number: 41200430060

Status: Excess

Reason: Secured Area

Bldg. 777-010A

Savannah River Operations

Aiken Co: SC 29802-

Landholding Agency: Energy

Property Number: 41200430061

Status: Excess

Reason: Secured Area

Bldgs. 709-005F, 004F

Savannah River Operations

Aiken Co: SC 29802-

Landholding Agency: Energy

Property Number: 41200430062

Status: Excess

Reason: Secured Area

Bldg. 186-R

Savannah River Site

Aiken Co: SC

Landholding Agency: Energy

Property Number: 41200430063

Status: Unutilized

Reason: Secured Area

Bldg. 190-R

Savannah River Site

Aiken Co: SC

Landholding Agency: Energy

Property Number: 41200430064

Status: Unutilized

Reason: Secured Area

Bldg. 230-H

Savannah River Site

Aiken Co: SC

Landholding Agency: Energy

Property Number: 41200430065

Status: Unutilized

Reason: Secured Area

4 Bldgs.

Savannah River Site

#281-2F, 281-5F, 285-F, 285-5F

Aiken Co: SC

Landholding Agency: Energy

Property Number: 41200430066

Status: Unutilized

Reason: Secured Area

Bldgs. 711-3N, 717-12N

Savannah River Site

Aiken Co: SC

Landholding Agency: Energy

Property Number: 41200430067

Status: Unutilized

Reason: Secured Area

Bldgs. 186L, 190L

Savannah River Site

Aiken Co: SC 29802-

Landholding Agency: Energy

Property Number: 41200430069

Status: Unutilized

Reason: Secured Area

Bldg. 701-000M

Savannah River Site

Aiken Co: SC 29802-

Landholding Agency: Energy

Property Number: 41200430084

Status: Unutilized

Reason: Secured Area

Bldg. 701-002A

Savannah River Site

Aiken Co: SC 29802-

Landholding Agency: Energy

Property Number: 41200430085

Status: Unutilized

Reason: Secured Area

Bldg. 701-003A

Savannah River Site

Aiken Co: SC 29802-

Landholding Agency: Energy

Property Number: 41200430086

Status: Unutilized

Reason: Secured Area

Bldg. 721-002A

Savannah River Site

Aiken Co: SC 29802-

Landholding Agency: Energy

Property Number: 41200430087

Status: Unutilized

Reason: Secured Area

Bldg. 726-000A

Savannah River Site

Aiken Co: SC 29802-

Landholding Agency: Energy

Property Number: 41200430088

Status: Unutilized

Reason: Secured Area

Bldg. 122-R

Savannah River Site

Aiken Co: SC 29802-

Landholding Agency: Energy

Property Number: 41200440009

Status: Unutilized

Reason: Secured Area

Bldg. 151-2R

Savannah River Site

Aiken Co: SC 29802-

Landholding Agency: Energy

Property Number: 41200440010

Status: Unutilized

Reason: Secured Area

Bldg. 740-001A

Savannah River Site

Aiken Co: SC 29802-

Landholding Agency: Energy

Property Number: 41200440011

Status: Unutilized

Reason: Secured Area

Bldg. 608-000P

Savannah River Site

Aiken Co: SC 29802-

Landholding Agency: Energy

Property Number: 41200440031

Status: Excess

Reason: Secured Area

Bldg. 690-000N

Savannah River Site

Aiken Co: SC 29802-

Landholding Agency: Energy

Property Number: 41200440032

Status: Underutilized

Reason: Secured Area

Bldg. 763-106N

Savannah River Site

Aiken Co: SC 29802-

Landholding Agency: Energy

Property Number: 41200440033

Status: Underutilized

Reason: Secured Area

Bldgs. 1000 thru 1021

Naval Weapons Station

Goose Creek Co: Berkeley SC 29445-

Landholding Agency: Navy

Property Number: 77200440018

Status: Unutilized

Reason: Secured Area

South Dakota

Mobile Home

Tract L-1295

Oahe Dam

Potter SD 00000-

Landholding Agency: COE

Property Number: 31200030001

Status: Excess

Reason: Extensive deterioration

Tennessee

Bldg. 204

Cordell Hull Lake and Dam Project

Defeated Creek Recreation Area

Carthage Co: Smith TN 37030-

Location: US Highway 85

Landholding Agency: COE

Property Number: 31199011499

Status: Unutilized

Reason: Floodway

Tract 2618 (Portion)

Cordell Hull Lake and Dam Project

Roaring River Recreation Area

Gainesboro Co: Jackson TN 38562-

Location: TN Highway 135

Landholding Agency: COE

Property Number: 31199011503

Status: Underutilized

Reason: Floodway

Water Treatment Plant

Dale Hollow Lake & Dam Project

Obey River Park, State Hwy 42

Livingston Co: Clay TN 38351-

Landholding Agency: COE

Property Number: 31199140011

Status: Excess

Reason: Water treatment plant

Water Treatment Plant

Dale Hollow Lake & Dam Project

Lillydale Recreation Area, State Hwy 53

Livingston Co: Clay TN 38351-

Landholding Agency: COE

Property Number: 31199140012

Status: Excess

Reason: Water treatment plant

Water Treatment Plant

Dale Hollow Lake & Dam Project

Willow Grove Recreational Area, Hwy No. 53

Livingston Co: Clay TN 38351-

Landholding Agency: COE

Property Number: 31199140013

Status: Excess

Reason: Water treatment plant

Comfort Station/Land

Cook Campground

Nashville Co: Davidson TN 37214-

Landholding Agency: COE

Property Number: 31200420024

Status: Unutilized

Reason: Floodway

Tracts 915, 920, 931C-1

Cordell Hull Dam/Reservoir

Cathage Co: Smith TN 37030-

Landholding Agency: COE

Property Number: 31200430016

Status: Unutilized

Reasons: Floodway; landlocked

Bldg. 3004

Oak Ridge National Lab

Oak Ridge Co: Roane TN 37831-

Landholding Agency: Energy

Property Number: 41199710002

Status: Unutilized

Reasons: Secured Area; Extensive deterioration

Bldgs. 9714-3, 9714-4, 9983-AY

Y-12 Pistol Range

Oak Ridge Co: Anderson TN 37831-

Landholding Agency: Energy

Property Number: 41199720004

Status: Unutilized

Reason: Secured Area

5 Bldgs.

K-724, K-725, K-1031, K-1131, K-1410

East Tennessee Technology Park

Oak Ridge Co: Roane TN 37831-

Landholding Agency: Energy

Property Number: 41199730001

Status: Unutilized

Reason: Extensive deterioration

Bldg. 9418-1

Y-12 Plant

Oak Ridge Co: Anderson TN 37831-

Landholding Agency: Energy

Property Number: 41199810026

Status: Unutilized

Reasons: Secured Area; Extensive deterioration

Bldg. 9825

Y-12 Plant

Oak Ridge Co: Anderson TN 37831-

Landholding Agency: Energy

Property Number: 41199810027

Status: Unutilized

Reason: Secured Area

17 Bldgs.

Oak Ridge Tech Park

Oak Ridge Co: Roane TN 37831-

Location: K-801, A-D, H, K-891, K-892, K1025A-E, K-1064B-E, H, K, L, K1206-E

Landholding Agency: Energy

Property Number: 41200310007

Status: Unutilized

Reasons: Secured Area; Extensive deterioration

Bldg. SC-3

ORISE

Oak Ridge Co: Anderson TN 37831-

Landholding Agency: Energy

Property Number: 41200340001

Status: Unutilized

Reasons: Secured Area; Extensive deterioration

Pump House/6 acres

Volunteer Army Ammo Plant

Chattanooga Co: Hamilton TN 37422-

Landholding Agency: GSA

Property Number: 54200440013

Status: Surplus

Reason: Within 2000 ft. of flammable or explosive material

GSA Number: 4DTN05943T

25 Bldgs.

Naval Support Activity

Millington Co: TN 38054-

Location: 2032, 2037, 2041, 2043, 2056, 2072, 2085-2086, 2089-2090, 2099, 2103, 2105-2106, 501, 596, 429, 431-433, 1045, 570-573

Landholding Agency: Navy

Property Number: 77200430024

Status: Excess

Reason: Secured Area

Texas

Comfort Station

Overlook PUA

Powderly Co: Lamar TX 75473-9801

Landholding Agency: COE

Property Number: 31200240018

Status: Excess

Reason: Extensive deterioration

58 Bldgs.

Texoma Lake

Denison TX 75020-6425

Landholding Agency: COE

Property Number: 31200340035

Status: Excess

Reason: Extensive deterioration

Zone 5, Bldg. FS-18

Pantex Plant

Amarillo Co: Carson TX 79120-

Landholding Agency: Energy

Property Number: 41200220044

Status: Unutilized

Reasons: Within 2000 ft. of flammable or explosive material; Secured Area

Zone 12, Bldg. 12-20

Pantex Plant

Amarillo Co: Carson TX 79120-

Landholding Agency: Energy

Property Number: 41200220053

Status: Unutilized

Reasons: Within 2000 ft. of flammable or explosive material; Secured Area

Bldgs. 12-017E, 12-019E

Pantex Plant

Amarillo Co: Carson TX 79120-

Landholding Agency: Energy

Property Number: 41200320010

Status: Unutilized

Reasons: Within 2000 ft. of flammable or explosive material; Secured Area

5 Bldgs.

Pantex Plant

#10-002, 11-009, 12-013, 12-078, 12-R-078

Amarillo Co: Carson TX 79120-

Landholding Agency: Energy

Property Number: 41200410003

Status: Unutilized

Reasons: Within 2000 ft. of flammable or explosive material; Secured Area

Bldg. 15-016

Pantex Plant

Amarillo Co: Carson TX 79120-

Landholding Agency: Energy

Property Number: 41200420017

Status: Unutilized

Reason: Secured Area

Bldg. 4-052P

Pantex Plant

Amarillo Co: Carson TX 79120-

Landholding Agency: Energy

Property Number: 41200420018

Status: Unutilized

Reason: Secured Area

Border Patrol Station

Hebbronville Co: Jim Hogg TX 78361-

Landholding Agency: GSA

Property Number: 54200440016

Status: Surplus

Reason: Within 2000 ft. of flammable or explosive material

GSA Number: 7-J-TX-0621B

Bldg. 25

Naval Air Station

Corpus Christi Co: Nueces TX 78419-

Landholding Agency: Navy

Property Number: 77200510011

Status: Excess

Reason: Secured Area

Bldg. 1261

Naval Air Station

Corpus Christi Co: Nueces TX 78419-

Landholding Agency: Navy

Property Number: 77200510012

Status: Excess

Reason: Secured Area

Bldg. 1739

Naval Air Station

Corpus Christi Co: Nueces TX 78419-

Landholding Agency: Navy

Property Number: 77200510013

Status: Excess

Reason: Secured Area

Bldg. 1826

Naval Air Station

Corpus Christi Co: Nueces TX 78419-

Landholding Agency: Navy

Property Number: 77200510014

Status: Excess

Reason: Secured Area

Virginia

PHL-188855, 16498, 16693

Mize Point Campground

Bassett Co: VA 24055-

Landholding Agency: COE

Property Number: 31200510014

Status: Unutilized

Reason: Extensive deterioration

E. Beale House

Tract 01-132

Appomattox Co: VA 24522-

Landholding Agency: Interior

Property Number: 61200440003

Status: Excess

Reason: Extensive deterioration

Ferguson House

Tract 01-124

Appomattox Co: VA 24522-

Landholding Agency: Interior

Property Number: 61200440004

Status: Excess

Reason: Extensive deterioration

Bldg. 3041A

Marine Corps Base

Quantico Co: VA 22134-

Landholding Agency: Navy

Property Number: 77200440019

Status: Excess

Reasons: Secured Area; Extensive deterioration

Bldg. 3215

Marine Corps Base

Quantico Co: VA 22134-

Landholding Agency: Navy

Property Number: 77200440020

Status: Excess

Reasons: Secured Area; Extensive deterioration

Washington

Rec Storage Bldg.

Richland Parks

Richland Co: Benton WA 99352-

Landholding Agency: COE

Property Number: 31200240019

Status: Unutilized

Reason: Extensive deterioration

Railroad Club Bldg.

McNary Lock & Dam Proj

Richland Co: Benton WA 99352-

Landholding Agency: COE

Property Number: 31200410006

Status: Excess

Reason: Within 2000 ft. of flammable or explosive material

Barn

Heart K Ranch

Near Thorp Co: Kittitas WA 98946-

Landholding Agency: Interior

Property Number: 61200330014

Status: Unutilized

Reason: Extensive deterioration

Garage/Shop

Heart K Ranch

Near Thorp Co: Kittitas WA 98946-

Landholding Agency: Interior

Property Number: 61200330015

Status: Unutilized

Reason: Extensive deterioration

1-Stall Garage

Heart K Ranch

Near Thorp Co: Kittitas WA 98946-

Landholding Agency: Interior

Property Number: 61200330016

Status: Unutilized

Reason: Extensive deterioration

Residence

Heart K Ranch

Near Thorp Co: Kittitas WA 98946-

Landholding Agency: Interior

Property Number: 61200330017

Status: Unutilized

Reason: Extensive deterioration

Storage

Heart K Ranch

Near Thorp Co: Kittitas WA 98946-

Landholding Agency: Interior

Property Number: 61200330018

Status: Unutilized

Reason: Extensive deterioration

Residence No. 50

1807 Rest Haven Road

Yakima WA 98901-

Landholding Agency: Interior

Property Number: 61200330019

Status: Unutilized

Reason: Extensive deterioration

Cow Barn

1807 Rest Haven Road

Yakima WA 98901-

Landholding Agency: Interior

Property Number: 61200330020

Status: Unutilized

Reason: Extensive deterioration

Chicken Coop

1807 Rest Haven Road

Yakima WA 98901-

Landholding Agency: Interior

Property Number: 61200330021

Status: Unutilized

Reason: Extensive deterioration

Garage/No. 804

Columbia Basin

George Co: Grant WA 98848-

Landholding Agency: Interior

Property Number: 61200330024

Status: Unutilized

Reason: Extensive deterioration

Residence No. 804

Columbia Basin

George Co: Grant WA 98848-

Landholding Agency: Interior

Property Number: 61200330025

Status: Unutilized

Reason: Extensive deterioration

Garage/No. 801

Columbia Basin

George Co: Grant WA 98848-

Landholding Agency: Interior

Property Number: 61200330026

Status: Unutilized

Reason: Extensive deterioration

Residence No. 801

Columbia Basin

George Co: Grant WA 98848-

Landholding Agency: Interior

Property Number: 61200330027

Status: Unutilized

Reason: Extensive deterioration

Garage/No. 305

Columbia Basin

Soap Lake Co: Grant WA 98851-

Landholding Agency: Interior

Property Number: 61200330028

Status: Unutilized

Reason: Extensive deterioration

Residence No. 305

Columbia Basin

Soap Lake Co: Grant WA 98851-

Landholding Agency: Interior

Property Number: 61200330029

Status: Unutilized

Reason: Extensive deterioration

Garage/Residence No. 304

Columbia Basin

Soap Lake Co: Grant WA 98851-

Landholding Agency: Interior

Property Number: 61200330030

Status: Unutilized

Reason: Extensive deterioration

Residence No. 304

Columbia Basin

Soap Lake Co: Grant WA 98851-

Landholding Agency: Interior

Property Number: 61200330031

Status: Unutilized

Reason: Extensive deterioration

Bldg. 81

39307 Kelly Road

Benton City Co: Benton WA 99320-

Landholding Agency: Interior

Property Number: 61200340001

Status: Unutilized

Reason: Extensive deterioration

Garage/81

39307 Kelly Road

Benton City Co: Benton WA 99320-

Landholding Agency: Interior

Property Number: 61200340002

Status: Unutilized

Reason: Extensive deterioration

Bldg. 73

1171 Beane Road

Moxee Co: Yakima WA 98936-

Landholding Agency: Interior

Property Number: 61200340003

Status: Unutilized

Reason: Extensive deterioration

Garage/73

1171 Beane Road

Moxee Co: Yakima WA 98936-

Landholding Agency: Interior

Property Number: 61200340004

Status: Unutilized

Reason: Extensive deterioration

Bldg. 129

1917 Marsh Road

Yakima WA 98901-

Landholding Agency: Interior

Property Number: 61200340005

Status: Unutilized

Reason: Extensive deterioration

Bldg. 529

Puget Sound Naval Shipyard

Bremerton WA 98314-5000

Landholding Agency: Navy

Property Number: 77200040020

Status: Excess

Reason: Secured Area

Bldg. 8

Naval Reserve Center

Spokane Co: WA 99205-

Landholding Agency: Navy

Property Number: 77200430025

Status: Excess

Reasons: Secured Area—Extensive deterioration

Bldgs. 10, 11

Naval Reserve Center

Spokane Co: WA 99205-

Landholding Agency: Navy

Property Number: 77200430026

Status: Excess

Reasons: Secured Area—Extensive deterioration

Bldgs. 2656-2658

Naval Air Station

Lake Hancock

Coupeville Co: Island WA 98239-

Landholding Agency: Navy

Property Number: 77200430027

Status: Unutilized

Reason: Secured Area

Bldgs. 2652, 2705

Naval Air Station

Whidbey

Oak Harbor Co: WA 98277-

Landholding Agency: Navy

Property Number: 77200440010

Status: Unutilized

Reason: Secured Area

Bldgs. 79, 884

NAS Whidbey Island

Seaplane Base

Oak Harbor Co: WA 98277-

Landholding Agency: Navy

Property Number: 77200440011

Status: Unutilized

Reason: Secured Area

Bldg. 121

NAS Whidbey Island

Ault Field

Oak Harbor Co: WA 98277-

Landholding Agency: Navy

Property Number: 77200440012

Status: Unutilized

Reason: Secured Area

Bldg. 419

NAS Whidbey Island

Ault Field

Oak Harbor Co: WA 98277-

Landholding Agency: Navy

Property Number: 77200440013

Status: Unutilized

Reason: Secured Area

Bldgs. 2609, 2610

NAS Whidbey Island

Ault Field

Oak Harbor Co: WA 98277-

Landholding Agency: Navy

Property Number: 77200440014

Status: Unutilized

Reason: Secured Area

Bldg. 2753

NAS Whidbey Island

Ault Field

Oak Harbor Co: WA 98277-

Landholding Agency: Navy

Property Number: 77200440015

Status: Unutilized

Reason: Secured Area

Bldg. 108

Naval Magazine

Port Hadlock Co: Jefferson WA 98339-9723

Landholding Agency: Navy

Property Number: 77200510015

Status: Unutilized

Reasons: Secured Area—Extensive deterioration

West Virginia

Radio Transmitter Rcv Site

Greenbrier Street

Charleston WV 25311-

Landholding Agency: GSA

Property Number: 54200340011

Status: Excess

Reason: Within 2000 ft. of flammable or explosive material

GSA Number: 4-U-WV-0547

Land (by State)

Arizona

2.56 acres

Chauncy Ranch

Phoenix Co: Maricopa AZ 85054-

Landholding Agency: GSA

Property Number: 61200430050

Status: Excess

Reason: Floodway

GSA Number: 9-I-AZ-833

Colorado

Landfill

48th & Holly Streets

Commerce Co: Adams CO 80022-

Landholding Agency: GSA

Property Number: 54200220006

Status: Surplus

Reasons: Within 2000 ft. of flammable or explosive material contamination

GSA Number: 7-Z-CO-0647

Florida

3 parcels

U.S. Customs Svc Natl Law

Enforcement Comm Ctr

Orlando Co: Orange FL 32803-

Landholding Agency: GSA

Property Number: 54200310015

Status: Excess

Reason: Landlocked

GSA Number: 4-T-FL-1209-1A

Navy Site Alpha

Homestead Co: Miami/Dade FL

Landholding Agency: GSA

Property Number: 54200330009

Status: Surplus

Reason: Flooding

GSA Number: 4-N-FL-1079

Hawaii

Portion/PR111016

Naval Station

Beckoning Point

Pearl Harbor Co: Honolulu HI 96860-

Landholding Agency: Navy

Property Number: 77200440005

Status: Unutilized

Reason: Secured Area

Kentucky

Tract 4626

Barkley, Lake, Kentucky and Tennessee

Donaldson Creek Launching Area

Cadiz Co: Trigg KY 42211-

Location: 14 miles from US Highway 68.

Landholding Agency: COE

Property Number: 31199010030

Status: Underutilized

Reason: Floodway

Tract AA-2747

Wolf Creek Dam and Lake Cumberland

U.S. Hwy 27 to Blue John Road

Burnside Co: Pulaski KY 42519-

Landholding Agency: COE

Property Number: 31199010038

Status: Underutilized

Reason: Floodway

Tract AA-2726

Wolf Creek Dam and Lake Cumberland

KY Hwy 80 to Route 769

Burnside Co: Pulaski KY 42519-

Landholding Agency: COE

Property Number: 31199010039

Status: Underutilized

Reason: Floodway

Tract 1358

Barkley Lake, Kentucky and Tennessee

Eddyville Recreation Area

Eddyville Co: Lyon KY 42038-

Location: U.S. Highway 62 to state highway 93

Landholding Agency: COE

Property Number: 31199010043

Status: Excess

Reason: Floodway

Red River Lake Project

Stanton Co: Powell KY 40380-

Location: Exit Mr. Parkway at the Stanton and Slade Interchange, then take SR Hand 15 north to SR 613

Landholding Agency: COE

Property Number: 31199011684

Status: Unutilized

Reason: Floodway

Barren River Lock & Dam No. 1

Richardsville Co: Warren KY 42270-

Landholding Agency: COE

Property Number: 31199120008

Status: Unutilized

Reason: Floodway

Green River Lock & Dam No. 3

Rochester Co: Butler KY 42273-

Location: Off State Hwy. 369, which runs off of Western Ky. Parkway

Landholding Agency: COE

Property Number: 31199120009

Status: Unutilized

Reason: Floodway

Green River Lock & Dam No. 4

Woodbury Co: Butler KY 42288-

Location: Off State Hwy 403, which is off State Hwy 231

Landholding Agency: COE

Property Number: 31199120014

Status: Underutilized

Reason: Floodway

Green River Lock & Dam No. 5

Readville Co: Butler KY 42275-

Location: Off State Highway 185

Landholding Agency: COE

Property Number: 31199120015

Status: Unutilized

Reason: Floodway

Green River Lock & Dam No. 6

Brownsville Co: Edmonson KY 42210-

Location: Off State Highway 259

Landholding Agency: COE

Property Number: 31199120016

Status: Underutilized

Reason: Floodway

Vacant land west of locksite

Greenup Locks and Dam

5121 New Dam Road

Rural Co: Greenup KY 41144-

Landholding Agency: COE

Property Number: 31199120017

Status: Unutilized

Reason: Floodway

Tracts 111, 112 (Partial)

Dyer Creek Access Site

Smithland Locks & Dam

Smithland Co: Livingston KY

Landholding Agency: GSA

Property Number: 54200430001

Status: Surplus

Reason: flooding

GSA Number: 4-D-KY-568-B

Maryland

Tract 131R

Youghiogheny River Lake, Rt. 2, Box 100

Friendsville Co: Garrett MD

Landholding Agency: COE

Property Number: 31199240007

Status: Underutilized

Reason: Floodway

Michigan

Land/USCG

1380 Beach Street

Muskegon MI 49441-

Landholding Agency: GSA

Property Number: 54200320014

Status: Excess

Reason: Within 2000 ft. of flammable or explosive material

GSA Number: 1-U-MI-0610

Minnesota

Parcel A

Twin Cities Army Ammunition Plant

Arden Hills MN 55112-3938

Landholding Agency: GSA

Property Number: 54200240014

Status: Excess

Reason: Within 2000 ft. of flammable or explosive material

GSA Number: 1-D-MN-0578A

Mississippi

Parcel 1

Grenada Lake

Section 20

Grenada Co: Grenada MS 38901-0903

Landholding Agency: COE

Property Number: 31199011018

Status: Underutilized

Reason: Within airport runway clear zone

Missouri

Ditch 19, Item 2, Tract No. 230

St. Francis Basin Project

2½ miles west of Malden

Co: Dunklin MO

Landholding Agency: COE

Property Number: 31199130001

Status: Unutilized

Reason: Floodway

North Carolina

Sites A,B,C,D,E

Marine Corps Base

Camp Lejeune Co: NC

Landholding AGENCY: Navy

Property Number: 77200430053

Status: Underutilized

Reason: Secured Area

Portion/Training Area

Marine Corps Base

Camp Lejeune Co: NC

Landholding Agency: Navy

Property Number: 77200430065

Status: Underutilized

Reason: Secured Area

Ohio

Mosquito Creek Lake

Everett Hull Road Boat Launch

Cortland Co: Trumbull OH 44410-9321

Landholding Agency: COE

Property Number: 31199440007

Status: Underutilized

Reason: Floodway

Mosquito Creek Lake

Housel—Craft Rd., Boat Launch

Cortland Co: Trumbull OH 44410-9321

Landholding Agency: COE

Property Number: 31199440008

Status: Underutilized

Reason: Floodway

36 Site Campground

German Church Campground

Berlin Center Co: Portage OH 44401-9707

Landholding Agency: COE

Property Number: 31199810001

Status: Unutilized

Reason: Floodway

Pennsylvania

Lock and Dam #7

Monongahela River

Greensboro Co: Greene PA

Location: Left hand side of entrance roadway to project

Landholding Agency: COE

Property Number: 31199011564

Status: Unutilized

Reason: Floodway

Mercer Recreation Area

Shenango Lake

Transfer Co: Mercer PA 16154-

Landholding Agency: COE

Property Number: 31199810002

Status: Unutilized

Reason: Floodway

Tract No. B-212C

Upstream from Gen. Jadwin Dam & Reservoir

Honesdale Co: Wayne PA 18431-

Landholding Agency: COE

Property Number: 31200020005

Status: Unutilized

Reason: Floodway

Puerto Rico

Parcel 2R

Naval Security Group

Sabana Seca Co: Toa Baja PR

Landholding Agency: GSA

Property Number: 54200210025

Status: Excess

Reason: Within 2000 ft. of flammable or explosive material

GSA Number: 1-N-PR-494

Site 3

Naval Station Roosevelt Roads

Ceiba PR 00735-

Landholding Agency: Navy

Property Number: 77200320031

Status: Unutilized

Reason: Secured Area

Site 4

Naval Station Roosevelt Roads

Ceiba PR 00735-

Landholding Agency: Navy

Property Number: 77200320032

Status: Unutilized

Reason: Secured Area

Tennessee

Brooks Bend

Cordell Hull Dam and Reservoir

Highway 85 to Brooks Bend Road

Gainesboro Co: Jackson TN 38562-

Location: Tracts 800, 802-806, 835-837, 900-902, 1000-1003, 1025

Landholding Agency: COE

Property Number: 21199040413

Status: Underutilized

Reason: Floodway

Cheatham Lock and Dam

Highway 12

Ashland City Co: Cheatham TN 37015-

Location: Tracts E-513, E-512-1 and E-512-2

Landholding Agency: COE

Property Number: 21199040415

Status: Underutilized

Reason: Floodway

Tract 2321

J. Percy Priest Dam and Reservoir

Murfreesboro Co: Rutherford TN 37130-

Location: South of Old Jefferson Pike

Landholding Agency: COE

Property Number: 31199010935

Status: Excess

Reason: Landlocked

Tract 6737

Blue Creek Recreation Area

Barkley Lake, Kentucky and Tennessee

Dover Co: Stewart TN 37058-

Location: U.S. Highway 79/TN Highway 761

Landholding Agency: COE

Property Number: 31199011478

Status: Underutilized

Reason: Floodway

Tracts 3102, 3105, and 3106

Brimstone Launching Area

Cordell Hull Lake and Dam Project

Gainesboro Co: Jackson TN 38562-

Location: Big Bottom Road

Landholding Agency: COE

Property Number: 31199011479

Status: Excess

Reason: Floodway

Tract 3507

Proctor Site

Cordell Hull Lake and Dam Project

Celina Co: Clay TN 38551-

Location: TN Highway 52

Landholding Agency: COE

Property Number: 31199011480

Status: Unutilized

Reason: Floodway

Tract 3721

Obey

Cordell Hull Lake and Dam Project

Celina Co: Clay TN 38551-

Location: TN Highway 53

Landholding Agency: COE

Property Number: 31199011481

Status: Unutilized

Reason: Floodway

Tracts 608, 609, 611 and 612

Sullivan Bend Launching Area

Cordell Hull Lake and Dam Project

Carthage Co: Smith TN 37030-

Location: Sullivan Bend Road

Landholding Agency: COE

Property Number: 31199011482

Status: Underutilized

Reason: Floodway

Tract 920

Indian Creek Camping Area

Cordell Hull Lake and Dam Project

Granville Co: Smith TN 38564-

Location: TN Highway 53

Landholding Agency: COE

Property Number: 31199011483

Status: Underutilized

Reason: Floodway

Tracts 1710, 1716 and 1703

Flynns Lick Launching Ramp

Cordell Hull Lake and Dam Project

Gainesboro Co: Jackson TN 38562-

Location: Whites Bend Road

Landholding Agency: COE

Property Number: 31199011484

Status: Underutilized

Reason: Floodway

Tract 1810

Wartrace Creek Launching Ramp

Cordell Hull Lake and Dam Project

Gainesboro Co: Jackson TN 38551-

Location: TN Highway 85

Landholding Agency: COE

Property Number: 31199011485

Status: Underutilized

Reason: Floodway

Tract 2524

Jennings Creek

Cordell Hull Lake and Dam Project

Gainesboro Co: Jackson TN 38562-

Location: TN Highway 85

Landholding Agency: COE

Property Number: 31199011486

Status: Unutilized

Reason: Floodway

Tracts 2905 and 2907

Webster

Cordell Hull Lake and Dam Project

Gainesboro Co: Jackson TN 38551-

Location: Big Bottom Road

Landholding Agency: COE

Property Number: 31199011487

Status: Unutilized

Reason: Floodway

Tracts 2200 and 2201

Gainesboro Airport

Cordell Hull Lake and Dam Project

Gainesboro Co: Jackson TN 38562-

Location: Big Bottom Road

Landholding Agency: COE

Property Number: 31199011488

Status: Underutilized

Reasons: Within airport runway clear zone; Floodway

Tracts 710C and 712C

Sullivan Island

Cordell Hull Lake and Dam Project

Carthage Co: Smith TN 37030-

Location: Sullivan Bend Road

Landholding Agency: COE

Property Number: 31199011489

Status: Unutilized

Reason: Floodway

Tract 2403, Hensley Creek

Cordell Hull Lake and Dam Project

Gainesboro Co: Jackson TN 38562-

Location: TN Highway 85

Landholding Agency: COE

Property Number: 31199011490

Status: Unutilized

Reason: Floodway

Tracts 2117C, 2118 and 2120

Cordell Hull Lake and Dam Project

Trace Creek

Gainesboro Co: Jackson TN 38562-

Location: Brooks Ferry Road

Landholding Agency: COE

Property Number: 31199011491

Status: Unutilized

Reason: Floodway

Tracts 424, 425 and 426

Cordell Hull Lake and Dam Project

Stone Bridge

Carthage Co: Smith TN 37030-

Location: Sullivan Bend Road

Landholding Agency: COE

Property Number: 31199011492

Status: Unutilized

Reason: Floodway

Tract 517

J. Percy Priest Dam and Reservoir

Suggs Creek Embayment

Nashville Co: Davidson TN 37214-

Location: Interstate 40 to S. Mount Juliet Road

Landholding Agency: COE

Property Number: 31199011493

Status: Underutilized

Reason: Floodway

Tract 1811

West Fork Launching Area

Smyrna Co: Rutherford TN 37167-

Location: Florence road near Enon Springs Road

Landholding Agency: COE

Property Number: 31199011494

Status: Underutilized

Reason: Floodway

Tract 1504

J. Perry Priest Dam and Reservoir

Lamon Hill Recreation Area

Smyrna Co: Rutherford TN 37167-

Location: Lamon Road

Landholding Agency: COE

Property Number: 31199011495

Status: Underutilized

Reason: Floodway

Tract 1500

J. Perry Priest Dam and Reservoir

Pools Knob Recreation

Smyrna Co: Rutherford TN 37167-

Location: Jones Mill Road

Landholding Agency: COE

Property Number: 31199011496

Status: Underutilized

Reason: Floodway

Tracts 245, 257, and 256

J. Perry Priest Dam and Reservoir

Cook Recreation Area

Nashville Co: Davidson TN 37214-

Location: 2.2 miles south of Interstate 40 near Saunders Ferry Pike

Landholding Agency: COE

Property Number: 31199011497

Status: Underutilized

Reason: Floodway

Tracts 107, 109 and 110

Cordell Hull Lake and Dam Project

Two Prong

Carthage Co: Smith TN 37030-

Location: US Highway 85

Landholding Agency: COE

Property Number: 31199011498

Status: Unutilized

Reason: Floodway

Tracts 2919 and 2929

Cordell Hull Lake and Dam Project

Sugar Creek

Gainesboro Co: Jackson TN 38562-

Location: Sugar Creek Road

Landholding Agency: COE

Property Number: 31199011500

Status: Unutilized

Reason: Floodway

Tracts 1218 and 1204

Cordell Hull Lake and Dam Project

Granville—Alvin Yourk Road

Granville Co: Jackson TN 38564-

Landholding Agency: COE

Property Number: 31199011501

Status: Unutilized

Reason: Floodway

Tract 2100

Cordell Hull Lake and Dam Project

Galbreaths Branch

Gainesboro Co: Jackson TN 38562-

Location: TN Highway 53

Landholding Agency: COE

Property Number: 31199011502

Status: Unutilized

Reason: Floodway

Tract 104 et. al.

Cordell Hull Lake and Dam Project

Horshoe Bend Launching Area

Carthage Co: Smith TN 37030-

Location: Highway 70 N

Landholding Agency: COE

Property Number: 31199011504

Status: Underutilized

Reason: Floodway

Tracts 510, 511, 513 and 514

J. Percy Priest Dam and Reservoir Project

Lebanon Co: Wilson TN 37087-

Location: Vivrett Creek Launching Area, Alvin Sperry Road

Landholding Agency: COE

Property Number: 31199120007

Status: Underutilized

Reason: Floodway

Tract A-142, Old Hickory Beach

Old Hickory Blvd.

Old Hickory Co: Davidson TN 37138-

Landholding Agency: COE

Property Number: 31199130008

Status: Underutilized

Reason: Floodway

Tract D, 7 acres

Cheatham Lock & Dam

Nashville Co: Davidson TN 37207-

Landholding Agency: COE

Property Number: 31200020006

Status: Underutilized

Reason: Floodway

Tract F-608

Cheatham Lock & Dam

Ashland Co: Cheatham TN 37015-

Landholding Agency: COE

Property Number: 31200420021

Status: Unutilized

Reason: Floodway

Tracts G702-G706

Cheatham Lock & Dam

Ashland Co: Cheatham TN 37015-

Landholding Agency: COE

Property Number: 31200420022

Status: Unutilized

Reason: Floodway

6 Tracts

Shutes Branch Campground

Lakewood Co: Wilson TN

Landholding Agency: COE

Property Number: 31200420023

Status: Unutilized

Reason: Floodway

51 acres

Volunteer Army Ammo Plant

Chattanooga Co: Hamilton TN 37422-

Landholding Agency: GSA

Property Number: 54200440014

Status: Surplus

Reason: Contamination

GSA Number: 4DTN05943V

11 acres

Volunteer Army Ammo Plant

Chattanooga Co: Hamilton TN 37422-

Landholding Agency: GSA

Property Number: 54200440015

Status: Surplus

Reason: Contamination

GSA Number: 4DTN05943W

Texas

Tracts 104, 105-1, 105-2 & 118

Joe Pool Lake

Co: Dallas TX

Landholding Agency: COE

Property Number: 31199010397

Status: Underutilized

Reason: Floodway

Part of Tract 201-3

Joe Pool Lake

Co: Dallas TX

Landholding Agency: COE

Property Number: 31199010398

Status: Underutilized

Reason: Floodway

Part of Tract 323

Joe Pool Lake

Co: Dallas TX

Landholding Agency: COE

Property Number: 31199010399

Status: Underutilized

Reason: Floodway

Tract 702-3

Granger Lake

Route 1, Box 172

Granger Co: Williamson TX 76530-9801

Landholding Agency: COE

Property Number: 31199010401

Status: Unutilized

Reason: Floodway

Tract 706

Granger Lake

Route 1, Box 172

Granger Co: Williamson TX 76530-9801

Landholding Agency: COE

Property Number: 31199010402

Status: Unutilized

Reason: Floodway

Virginia

275.390 acres

adjacent/Ft. Lee Military Rsv.

Petersburg Co: Prince George VA

Landholding Agency: GSA

Property Number: 54200430017

Status: Surplus

Reason: Secured Area

GSA Number: 4-GR-VA-545E

Washington

2.8 acres

Tract P-1003

Kennewick Co: Benton WA 99336-

Landholding Agency: COE

Property Number: 31200240020

Status: Excess

Reason: Within 2000 ft. of flammable or explosive material

West Virginia

Morgantown Lock and Dam

Box 3 RD #2

Morgantown Co: Monongahelia WV 26505-

Landholding Agency: COE

Property Number: 31199011530

Status: Unutilized

Reason: Floodway

London Lock and Dam

Route 60 East

Rural Co: Kanawha WV 25126-

Location: 20 miles east of Charleston, W. Virginia

Landholding Agency: COE

Property Number: 31199011690

Status: Unutilized

Reason: .03 acres; very narrow strip of land

Portion of Tract #101

Buckeye Creek

Sutton Co: Braxton WV 26601-

Landholding Agency: COE

Property Number: 31199810006

Status: Excess

Reason: Inaccessible

Wisconsin

Land

Badger Army Ammunition Plant

Baraboo Co: Sauk WI 53913-

Location: Vacant land within plant boundaries.

Landholding Agency: GSA

Property Number: 21199013783

Status: Excess

Reason: Secured Area

GSA Number: GSA-WI

[FR Doc. 05-2892 Filed 2-17-05; 8:45 am]

BILLING CODE 4210-29-P